DEPARTMENT OF HEALTH AND HUMAN SERVICES

Centers for Medicare & Medicaid Services

[CMS-9038-N]

Medicare and Medicaid Programs; Quarterly Listing of Program Issuances—July Through September 2006

AGENCY: Centers for Medicare & Medicaid Services (CMS), HHS.

ACTION: Notice.

SUMMARY: This notice lists CMS manual instructions, substantive and interpretive regulations, and other Federal Register notices that were published from July 2006 through September 2006, relating to the Medicare and Medicaid programs. This notice provides information on national coverage determinations (NCDs) affecting specific medical and health care services under Medicare. Additionally, this notice identifies certain devices with investigational device exemption (IDE) numbers approved by the Food and Drug Administration (FDA) that potentially may be covered under Medicare. This notice also includes listings of all approval numbers from the Office of Management and Budget for collections of information in CMS regulations and a list of Medicare-approved carotid stent facilities. Included in this notice is a list of the American College of Cardiology's National Cardiovascular Data registry sites, active CMS coverage-related guidance documents, and special one-time notices regarding national coverage provisions.

Section 1871(c) of the Social Security Act requires that we publish a list of Medicare issuances in the Federal Register at least every 3 months. Although we are not mandated to do so by statute, for the sake of completeness of the listing, and to foster more open and transparent collaboration efforts, we are also including all Medicaid issuances and Medicare and Medicaid substantive and interpretive regulations (proposed and final) published during this 3-month time frame.

FOR FURTHER INFORMATION CONTACT: It is possible that an interested party may have a specific information need and not be able to determine from the listed information whether the issuance or regulation would fulfill that need. Consequently, we are providing information contact persons to answer general questions concerning these items. Copies are not available through the contact persons. (See Section III of this notice for how to obtain listed material.)

Questions concerning items in Addendum III may be addressed to Timothy Jennings, Office of Strategic Operations and Regulatory Affairs, Centers for Medicare & Medicaid Services, C4-26-05, 7500 Security Boulevard, Baltimore, MD 21244-1850, or you can call (410) 786-2134.

Questions concerning Medicare NCDs in Addendum V may be addressed to Patricia Brocato-Simons, Office of Clinical Standards and Quality, Centers for Medicare & Medicaid Services, C1-09-06, 7500 Security Boulevard, Baltimore, MD 21244-1850, or you can call (410) 786-0261.

Questions concerning FDA-approved Category B IDE numbers listed in Addendum VI may be addressed to John Manlove, Office of Clinical Standards and Quality, Centers for Medicare & Medicaid Services, C1-13-04, 7500 Security Boulevard, Baltimore, MD 21244-1850, or you can call (410) 786-6877.

Questions concerning approval numbers for collections of information in Addendum VII may be addressed to Melissa Musotto, Office of Strategic Operations and Regulatory Affairs, Regulations Development and Issuances Group, Centers for Medicare & Medicaid Services, C5-14-03, 7500 Security Boulevard, Baltimore, MD 21244-1850, or you can call (410) 786-6962.

Questions concerning Medicare-approved carotid stent facilities in Addendum VIII may be addressed to Sarah J. McClain, Office of Clinical Standards and Quality, Centers for Medicare & Medicaid Services, C1-09-06, 7500 Security Boulevard, Baltimore, MD 21244-1850, or you can call (410) 786-2994.

Questions concerning Medicare's recognition of the American College of Cardiology-National Cardiovascular Data Registry sites in Addendum IX may be addressed to JoAnna Baldwin, MS, Office of Clinical Standards and Quality, Centers for Medicare & Medicaid Services, C1-09-06, 7500 Security Boulevard, Baltimore, MD 21244-1850, or you can call (410) 786-7205.

Questions concerning Medicare's active coverage-related guidance documents in Addendum X may be addressed to Kimberly Long, Office of Clinical Standards and Quality, Centers for Medicare & Medicaid Services, C1-09-06, 7500 Security Boulevard, Baltimore, MD 21244-1850, or you can call (410) 786-5702.

Questions concerning one-time notices regarding national coverage provisions in Addendum XI may be addressed to Ellie Lund, Office of Clinical Standards and Quality, Centers for Medicare & Medicaid Services, C1-09-06, 7500 Security Boulevard, Baltimore, MD 21244-1850, or you can call (410) 786-2281.

Questions concerning all other information may be addressed to Gwendolyn Johnson, Office of Strategic Operations and Regulatory Affairs, Regulations Development Group, Centers for Medicare & Medicaid Services, C5-14-03, 7500 Security Boulevard, Baltimore, MD 21244-1850, or you can call (410) 786-6954.

SUPPLEMENTARY INFORMATION:

I. Program Issuances

The Centers for Medicare & Medicaid Services (CMS) is responsible for administering the Medicare and Medicaid programs. These programs pay for health care and related services for 39 million Medicare beneficiaries and 35 million Medicaid recipients. Administration of the two programs involves (1) furnishing information to Medicare beneficiaries and Medicaid recipients, health care providers, and the public and (2) maintaining effective communications with regional offices, State governments, State Medicaid agencies, State survey agencies, various providers of health care, all Medicare contractors that process claims and pay bills, and others. To implement the various statutes on which the programs are based, we issue regulations under the authority granted to the Secretary of the Department of Health and Human Services under sections 1102, 1871, 1902, and related provisions of the Social Security Act (the Act). We also issue various manuals, memoranda, and statements necessary to administer the programs efficiently.

Section 1871(c)(1) of the Act requires that we publish a list of all Medicare manual instructions, interpretive rules, statements of policy, and guidelines of general applicability not issued as regulations at least every 3 months in the Federal Register. We published our first notice June 9, 1988 (53 FR 21730). Although we are not mandated to do so by statute, for the sake of completeness of the listing of operational and policy statements, and to foster more open and transparent collaboration, we are continuing our practice of including Medicare substantive and interpretive regulations (proposed and final) published during the respective 3-month time frame.

II. How To Use the Addenda

This notice is organized so that a reader may review the subjects of manual issuances, memoranda, substantive and interpretive regulations, NCDs, and FDA-approved IDEs published during the subject quarter to determine whether any are of particular interest. We expect this notice to be used in concert with previously published notices. Those unfamiliar with a description of our Medicare manuals may wish to review Table I of our first three notices (53 FR 21730, 53 FR 36891, and 53 FR 50577) published in 1988, and the notice published March 31, 1993 (58 FR 16837). Those desiring information on the Medicare NCD Manual (NCDM, formerly the Medicare Coverage Issues Manual (CIM)) may wish to review the August 21, 1989, publication (54 FR 34555). Those interested in the revised process used in making NCDs under the Medicare program may review the September 26, 2003, publication (68 FR 55634).

To aid the reader, we have organized and divided this current listing into 11 addenda:

• Addendum I lists the publication dates of the most recent quarterly listings of program issuances.

• Addendum II identifies previous Federal Register documents that contain a description of all previously published CMS Medicare and Medicaid manuals and memoranda.

• Addendum III lists a unique CMS transmittal number for each instruction in our manuals or Program Memoranda and its subject matter. A transmittal may consist of a single or multiple instruction(s). Often, it is necessary to use information in a transmittal in conjunction with information currently in the manuals.

• Addendum IV lists all substantive and interpretive Medicare and Medicaid regulations and general notices published in the Federal Register during the quarter covered by this notice. For each item, we list the—

○ Date published;

○ Federal Register citation;

○ Parts of the Code of Federal Regulations (CFR) that have changed (if applicable);

○ Agency file code number; and

○ Title of the regulation.

• Addendum V includes completed NCDs, or reconsiderations of completed NCDs, from the quarter covered by this notice. Completed decisions are identified by the section of the NCDM in which the decision appears, the title, the date the publication was issued, and the effective date of the decision.

• Addendum VI includes listings of the FDA-approved IDE categorizations, using the IDE numbers the FDA assigns. The listings are organized according to the categories to which the device numbers are assigned (that is, Category A or Category B), and identified by the IDE number.

• Addendum VII includes listings of all approval numbers from the Office of Management and Budget (OMB) for collections of information in CMS regulations in title 42; title 45, subchapter C; and title 20 of the CFR.

• Addendum VIII includes listings of Medicare-approved carotid stent facilities. All facilities listed meet CMS standards for performing carotid artery stenting for high risk patients.

• Addendum IX includes a list of the American College of Cardiology's National Cardiovascular Data registry sites. We cover implantable cardioverter defibrillators (ICDs) for certain indications, as long as information about the procedures is reported to a central registry.

• Addendum X includes a list of active CMS guidance documents. As required by section 731 of the Medicare Prescription Drug, Improvement, and Modernization Act of 2003 (MMA) (Pub. L. 108-173, enacted on December 8, 2003), we will begin listing the current versions of our guidance documents in each quarterly listings notice.

• Addendum XI includes a list of special one-time notices regarding national coverage provisions. We are publishing a list of issues that require public notification, such as a particular clinical trial or research study that qualifies for Medicare coverage.

III. How To Obtain Listed Material

A. Manuals

Those wishing to subscribe to program manuals should contact either the Government Printing Office (GPO) or the National Technical Information Service (NTIS) at the following addresses: Superintendent of Documents, Government Printing Office, ATTN: New Orders, P.O. Box 371954, Pittsburgh, PA 15250-7954, Telephone (202) 512-1800, Fax number (202) 512-2250 (for credit card orders); or National Technical Information Service, Department of Commerce, 5825 Port Royal Road, Springfield, VA 22161, Telephone (703) 487-4630.

In addition, individual manual transmittals and Program Memoranda listed in this notice can be purchased from NTIS. Interested parties should identify the transmittal(s) they want. GPO or NTIS can give complete details on how to obtain the publications they sell. Additionally, most manuals are available at the following Internet address: http://cms.hhs.gov/manuals/default.asp.

B. Regulations and Notices

Regulations and notices are published in the daily Federal Register. Interested individuals may purchase individual copies or subscribe to the Federal Register by contacting the GPO at the address given above. When ordering individual copies, it is necessary to cite either the date of publication or the volume number and page number.

The Federal Register is also available on 24x microfiche and as an online database through GPO Access. The online database is updated by 6 a.m. each day the Federal Register is published. The database includes both text and graphics from Volume 59, Number 1 (January 2, 1994) forward. Free public access is available on a Wide Area Information Server (WAIS) through the Internet and via asynchronous dial-in. Internet users can access the database by using the World Wide Web; the Superintendent of Documents home page address is http://www.gpoaccess.gov/fr/index.html, by using local WAIS client software, or by telnet to http://swais.gpoaccess.gov, then log in as guest (no password required). Dial-in users should use communications software and modem to call (202) 512-1661; type swais, then log in as guest (no password required).

C. Rulings

We publish rulings on an infrequent basis. Interested individuals can obtain copies from the nearest CMS Regional Office or review them at the nearest regional depository library. We have, on occasion, published rulings in the Federal Register. Rulings, beginning with those released in 1995, are available online, through the CMS Home Page. The Internet address is http://cms.hhs.gov/rulings.

D. CMS' Compact Disk-Read Only Memory (CD-ROM)

Our laws, regulations, and manuals are also available on CD-ROM and may be purchased from GPO or NTIS on a subscription or single copy basis. The Superintendent of Documents list ID is HCLRM, and the stock number is 717-139-00000-3. The following material is on the CD-ROM disk:

• Titles XI, XVIII, and XIX of the Act.

• CMS-related regulations.

• CMS manuals and monthly revisions.

• CMS program memoranda.

The titles of the Compilation of the Social Security Laws are current as of January 1, 2005. (Updated titles of the Social Security Laws are available on the Internet at http://www.ssa.gov/OP_Home/ssact/comp-toc.htm.) The remaining portions of CD-ROM are updated on a monthly basis.

Because of complaints about the unreadability of the Appendices (Interpretive Guidelines) in the State Operations Manual (SOM), as of March 1995, we deleted these appendices from CD-ROM. We intend to re-visit this issue in the near future and, with the aid of newer technology, we may again be able to include the appendices on CD-ROM.

Any cost report forms incorporated in the manuals are included on the CD-ROM disk as LOTUS files. LOTUS software is needed to view the reports once the files have been copied to a personal computer disk.

IV. How To Review Listed Material

Transmittals or Program Memoranda can be reviewed at a local Federal Depository Library (FDL). Under the FDL program, government publications are sent to approximately 1,400 designated libraries throughout the United States. Some FDLs may have arrangements to transfer material to a local library not designated as an FDL. Contact any library to locate the nearest FDL.

In addition, individuals may contact regional depository libraries that receive and retain at least one copy of most Federal Government publications, either in printed or microfilm form, for use by the general public. These libraries provide reference services and interlibrary loans; however, they are not sales outlets. Individuals may obtain information about the location of the nearest regional depository library from any library. For each CMS publication listed in Addendum III, CMS publication and transmittal numbers are shown. To help FDLs locate the materials, use the CMS publication and transmittal numbers. For example, to find the Medicare Benenfit Policy publication titled “Psychological and Neuropsychological Tests,” use CMS-Pub. 100-02, Transmittal No. 55.

(Catalog of Federal Domestic Assistance Program No. 93.773, Medicare—Hospital Insurance, Program No. 93.774, Medicare—Supplementary Medical Insurance Program, and Program No. 93.714, Medical Assistance Program)

Dated: December 11, 2006.
Jacquelyn Y. White,
Director, Office of Strategic Operations and Regulatory Affairs.

Addendum I

This addendum lists the publication dates of the most recent quarterly listings of program issuances.

June 25, 2004 (69 FR 35634)

September 24, 2004 (69 FR 57312)

December 30, 2004 (69 FR 78428)

February 25, 2005 (70 FR 9338)

June 24, 2005 (70 FR 36620)

September 23, 2005 (70 FR 55863)

December 23, 2005 (70 FR 76290)

March 24, 2006 (71 FR 14903)

June 23, 2006 (71 FR 36101)

September 29, 2006 (71 FR 57604)

Addendum II—Description of Manuals, Memoranda, and CMS Rulings

An extensive descriptive listing of Medicare manuals and memoranda was published on June 9, 1988, at 53 FR 21730 and supplemented on September 22, 1988, at 53 FR 36891 and December 16, 1988, at 53 FR 50577. Also, a complete description of the former CIM (now the NCDM) was published on August 21, 1989, at 54 FR 34555. A brief description of the various Medicaid manuals and memoranda that we maintain was published on October 16, 1992, at 57 FR 47468.

Addendum III—Medicare and Medicaid Manual Instructions
[July Through September 2006]
Trans. No. | Manual/Subject/Publication No.
Medicare General Information
(CMS Pub. 100-01)
40 | Scheduled Release for October 2006 Software Programs and Pricing/Coding Files.
Medicare Benefit Policy
(CMS Pub. 100-02)
53 | Medicare Telehealth Services Update.
| List of Medicare Telehealth Services.
54 | Clarification/Update to Chapter 8, Pub. 100-02.
| Requirements—General.
| Medicare Skilled Nursing Facility Prospective Payment System Overview.
| Three-Day Prior Hospitalization.
| Administrative Level of Care Presumption.
| Daily Skilled Services Defined.
| Respiratory Therapy.
55 | Psychological and Neuropsychological Tests.
Medicare National Coverage Determinations
(CMS-Pub. 100-03)
00 | None.
Medicare Claims Processing
(CMS Pub. 100-04)
997 | Medicare Telehealth Services Update.
| List of Medicare Telehealth Services.
| Contractor Editing of Telehealth Claims.
998 | Issued to a specific audience, not posted to Internet/Intranet due to Confidentiality of Instruction.
999 | Non-Physician Practitioner Payment for Care Plan Oversight.
| Care Plan Oversight.
| Care Plan Oversight Services.
| Care Plan Oversight Billing Requirements.
1000 | Common Working File to the Medicare Beneficiary Database Data Exchange Changes.
| The Financial Limitation.
| Provider Access to Smoking and Tobacco-Use Cessation Counseling.
| Services Eligibility Data.
1001 | Modifications to the Common Working File Interrupted Stay Edits for Long Term Care Hospital Claims for Discharges to an Acute Care Hospital.
1002 | Issued to a specific audience, not posted to Internet/Intranet due to Confidentiality of Instruction.
1003 | Issued to a specific audience, not posted to Internet/Intranet due to Confidentiality of Instruction.
1004 | Non-Application of Deductible for Colorectal Cancer Screening Tests Payment.
1005 | Medicare Physician Fee Schedule Database 2007 File Layout.
| Medicare Physician Fee Schedule Database Status Indicators.
1006 | Modification to the Coordination of Benefits Agreement Claims.
| Selection Criteria and File Transfer Protocols.
| Consolidated Claims Crossover Process.
| Claims Crossover Disposition Indicators.
| Consolidation of the Claims Crossover Process.
1007 | This Transmittal is rescinded and replaced by Transmittal 1041.
1008 | Medicare Part A Skilled Nursing Facility Prospective Payment System.
| Pricer Update for FY 2007.
1009 | Correction to Skilled Nursing Facility Consolidated Billing Enforcement if Skilled Nursing Facility Inpatient Claims are Partially Non-Covered Therapy Services.
1010 | Additional Requirements Necessary to Implement the Revised Health Insurance Claim Form CMS-1500 (08/05).
| Health Insurance Claim Form CMS-1500.
| Items 14-33—Provider of Service or Supplier Information.
1011 | Instructions for Reporting Hospice Services in Greater Line Item Detail.
| Levels of Care.
| Data Required on Claim to Fiscal Intermediary.
1012 | Issued to a specific audience, not posted to Internet/Intranet due to Confidentiality of Instruction.
1013 | Issued to a specific audience, not posted to Internet/Intranet due to Sensitivity of Instruction.
1014 | Issued to a specific audience, not posted to Internet/Intranet due to Sensitivity of Instruction.
1015 | Issued to a specific audience, not posted to Internet/Intranet due to Confidentiality of Instruction.
1016 | This Transmittal is rescinded and replaced by Transmittal 1019.
1017 | This Transmittal is rescinded and replaced by Transmittal 1022.
1018 | Uniform Billing (UB-04) Implementation.
| Completing and Processing the CMS-1450 Data Set.
| Uniform Bill (UB)—Form CMS-1450 for Billing (UB-92).
| General Instructions for Completion of Form CMS-1450 for Billing (UB-92).
| Uniform Billing with Form CMS-1450.
| Disposition of Copies of Completed Forms.
| General Instructions for Completion of Form CMS-1450 (UB-04).
1019 | Outpatient Therapy—Additional DRA Mandated Service Edits.
| Reporting of Service Units With Healthcare Common Procedure Coding System.
1020 | Issued to a specific audience, not posted to Internet/Intranet due to Confidentiality of Instruction.
1021 | 2007 Annual Update for the Health Professional Shortage Area Bonus Payment.
1022 | Issued to a specific audience, not posted to Internet/Intranet due to Confidentiality of Instruction.
1023 | Update To The Hospice Payment Rates, Hospice Cap, Hospice Wage Index, and the Hospice Pricer For Fiscal Year 2007.
1024 | This Transmittal is rescinded and replaced by Transmittal 1054.
1025 | Revised Home Health Advance Beneficiary Notice.
| Beneficiary-Driven Demand Billing Home Health Prospective Payment System.
| No Payment Billing.
| Advance Beneficiary Notices for Part B Services Furnished in a Skilled Nursing Facility.
| Background on the Home Health Advance Beneficiary Notice.
| Home Health Advance Beneficiary Notice Triggering Events.
| Completing the Home Health Advance Beneficiary Notice.
| Special Issues Associated with the Home Health Advance Beneficiary Notice.
| Effective Delivery/Effective Home Health Advance Beneficiary Notices.
| Defective Home Health Advance Beneficiary Notices.
| Collection of Funds and Liability Related to the Home Health Advance Beneficiary Notice.
| Revision, Re-issuance, and Retention of the Home Health Advance Beneficiary Notice.
| Form CMS-20007—Notice of Exclusions From Medicare Benefits.
| Using Notice of Exclusions From Medicare Benefits With Categorical Denial.s
| Using Notice of Exclusions From Medicare Benefits With Technical Denials.
1026 | Medicare Telehealth Services.
| Originating Site Facility Fee Payment Methodology.
| Submission of Telehealth Claims for Distant Site Practitioners.
1027 | This Transmittal is rescinded and replaced by Transmittal 1040.
1028 | Downloading the Medicare Zip Code File.
1029 | Schedule for Completing the Calendar Year 2007 Fee Schedule Updates and the Participating Physician Enrollment Process.
1030 | Issued to a specific audience, not posted to Internet/Intranet due to Sensitivity of Instruction.
1031 | Remittance Advice Remark Code and Claim Adjustment Reason Code Update.
1032 | Correction to Skilled Nursing Facility Consolidated Billing Coding File.
1033 | Revise Chapters 22 and 24 to Delete References to Free Downloads of X12.
| Implementation Guides Adopted as Health Insurance Portability and Accountability Act Standards from Washington Publishing Company.
| Background.
| Electronic Remittance Advice.
1034 | Competitive Acquisition Program—Claim Processing for Not Otherwise Classified Drugs.
| Competitive Acquisition Program Not Otherwise Classified Drugs.
| Editing for Competitive Acquisition Program Not Otherwise Classified Drugs.
1035 | Updating Publication 100-04, Chapter 30 Regarding the CD ROM Initiative for the Annual “Dear Doctor” Mailing.
| Physician/Practitioner/Supplier Participation Agreement and Assignment—Carrier Claims.
| Carrier Participation and Billing Limitations.
1036 | Updates to Chapter 10 of the Medicare Claims Processing Manual.
| Submission of Request for Anticipated Payment.
| Adjustments of Episode Payment—Outlier Payments.
| Request for Anticipated Payment.
| Home Health Prospective Payment System Claims.
| Input/Output Record Layout.
| Medical and Other Health Services Not Covered Under the Plan of Care (Bill Type 34X).
1037 | October Quarterly Update for 2006 Durable Medical Equipment, Prosthetics, Orthotics and Supplies Fee Schedule.
1038 | The Coordination of Benefits Agreement Eligibility File Claims Recovery Process.
| Beneficiary Other Insurance Information Maintenance Transaction Error Codes.
1039 | Issued to a specific audience, not posted to Internet/Intranet due to Confidentiality of Instruction.
1040 | Clarifications and Additions to Chapter 19, Indian Health Services.
| Carrier and Fiscal Intermediary Designation.
| Durable Medical Equipment Medicare Administrative Contractors Designation.
| Overview of Medicare Part B Services.
| Medicare Part B Services.
| Provider Enrollment.
| Provider Enrollment with Carrier Entities.
| Individual Practitioners.
| Multiple Sites.
| Reassignment.
| Mobile Units.
| Mobile Mammography Units.
| Clinical Laboratory, Ambulance and Medicare Part B Drugs.
| Provider Enrollment with Fiscal Intermediary.
| Provider Enrollment with Fiscal Intermediary—Ambulatory Surgical Services.
| Provider Enrollment with Fiscal Intermediary—Services Under Arrangements.
| Provider Enrollment with Durable Medical Equipment Medicare.
| Administrative Contractor.
| National Supplier Clearinghouse Supplier Number.
| Reporting Requirements and Specifications.
| Incentive Payments.
| Covered Medicare Part B Services That May Be Paid to Indian Health Service Providers, Physicians and Practitioners.
| Carrier—Payment Policy and Claims Processing.
| Carrier—Medicare Part B Physician and Practitioner Services Paid Under the Medicare Physician Fee Schedule—Payment Policy.
| Carrier—Claims Processing Requirements.
| Carrier—Ambulance Services—Payment Policy.
| Carrier—Ambulance Services—Claims Processing.
| Carrier—Vaccines and Vaccine Administration—Payment Policy.
| Carrier—Vaccines and Vaccine Administration—Coverage Policy.
| Carrier—Screening and Preventive Services.
| Carrier—Clinical Laboratory Services—Payment Policy.
| Carrier—Clinical Laboratory Services—Claims Processing.
| Carrier—Medical Nutrition Therapy—Payment Policy.
| Carrier—Medical Nutrition Therapy—Claims Processing.
| Dual Eligibility.
| Durable Medical Equipment General Information.
| Durable Medical Equipment Prosthetics, Orthotics and Supplies Payment Policy.
| Licensure to Dispense Drugs.
| Payment.
| Durable Medical Equipment, Prosthetics, Orthotics and Supplies Claims.
| Processing Rules.
| Services Billed to the Durable Medical Equipment Medicare Administrative Contractors.
| Prosthetics, Orthotics and Supplies Billed to the Fiscal Intermediary.
| General Claims Processing Rules for Durable Medical Equipment, Prosthetics, Orthotics and Supplies.
| Fiscal Intermediary Payment Policy and Claims Processing.
| Fiscal Intermediary—Medicare Part B Services Paid Under Various Fee Schedule.
| Fiscal Intermediary—Medicare Part B Services Included in the All Inclusive Rate.
| Fiscal Intermediary—Inpatient Acute Care—Medicare Part A—Payment Policy.
| Fiscal Intermediary—Inpatient Acute Care—Medicare Part A—Claims Processing.
| Fiscal Intermediary—Physician Acknowledgement Statement.
| Fiscal Intermediary—Social Admissions.
| Fiscal Intermediary—Inpatient Ancillary Services—Medicare Part B—Payment Policy.
| Fiscal Intermediary—Inpatient Ancillary Services—Medicare Part B—Claims Processing.
| Fiscal Intermediary—Swing-Bed.
| Fiscal Intermediary—Swing-Bed—Medicare Part A—Payment Policy.
| Fiscal Intermediary—Swing-Bed—Medicare Part A—Claims Processing.
| Fiscal Intermediary—Swing-Bed—Inpatient Ancillary Services—Medicare Part B—Payment Policy.
| Fiscal Intermediary—Swing-Bed—Inpatient Ancillary Services—Medicare Part B—Claims Processing.
| Fiscal Intermediary—Outpatient—Medicare Part B—Payment Policy.
| Fiscal Intermediary—Outpatient—Medicare Part B—Claims Processing.
| Fiscal Intermediary—Ambulatory Surgical Center—Medicare Part B—Payment Policy.
| Fiscal Intermediary—Ambulatory Surgical Center—Medicare Part B—Claims Processing.
| Fiscal Intermediary—Critical Access Hospital Inpatient—Medicare Part A—Payment Policy.
| Fiscal Intermediary—Critical Access Hospital Inpatient—Medicare Part A—Claims Processing.
| Fiscal Intermediary—Critical Access Hospital Ancillary Services—Medicare Part B—Payment Policy.
| Fiscal Intermediary—Critical Access Hospital Ancillary Services—Medicare Part B—Claims Processing.
| Fiscal Intermediary—Critical Access Hospital Swing-Bed—Medicare Part A—Payment Policy.
| Fiscal Intermediary—Critical Access Hospital Swing-Bed—Medicare Part A—Claims Processing.
| Fiscal Intermediary—Critical Access Hospital Swing-Bed—Inpatient Ancillary Services—Medicare Part B—Payment Policy.
| Fiscal Intermediary—Critical Access Hospital Swing-Bed—Inpatient Ancillary Services—Medicare Part B Claims Processing.
| Fiscal Intermediary—Critical Access Hospital Outpatient—Medicare Part B—Payment Policy.
| Fiscal Intermediary—Critical Access Hospital Outpatient—Medicare Part B—Claims Processing.
| Fiscal Intermediary—Critical Access Hospital Election of Method I or Method II.
| Fiscal Intermediary—Vaccines and Vaccine Administration—Payment Policy.
| Fiscal Intermediary—Vaccines and Vaccine Administration—Claims Processing.
| Fiscal Intermediary—Physical Therapy, Occupational Therapy, Speech-Language Pathology and Diagnostic Audiology Services—Payment Policy.
| Fiscal Intermediary—Physical Therapy, Occupational Therapy, Speech-Language Pathology and Diagnostic Audiology Services—Claims Processing.
| Fiscal Intermediary—Ambulance Services.
| Fiscal Intermediary—Outpatient Hospital-Based Ambulance Services—Medicare Part B—Payment Policy.
| Fiscal Intermediary—Outpatient Hospital-Based Ambulance Services—Medicare Part B—Claims Processing.
| Fiscal Intermediary—Critical Access Hospital Ambulance Services—Medicare Part B—Payment Policy.
| Fiscal Intermediary—Critical Access Hospital Ambulance Services—Medicare Part B—Claims Processing.
| Fiscal Intermediary—Ambulance Services—Medicare Part A—Payment Policy.
| Fiscal Intermediary—Other Screening and Preventive Services—Payment Policy.
| Fiscal Intermediary—Other Screening and Preventive Services—Claims Processing.
| Fiscal Intermediary—Medical Nutritional Therapy—Payment Policy.
| Fiscal Intermediary—Medical Nutritional Therapy—Claims Processing.
| Fiscal Intermediary—Laboratory Services.
| Fiscal Intermediary—Drugs.
| Audit.
| Audit of Indian Health Service Cost Reports.
| Method E Cost Reports.
| Critical Access Hospitals.
1041 | Change in Healthcare Common Procedure Coding System for Renal Dialysis.
| Facilities and Hospitals Billing for End-Stage Renal Disease Related Epoetin Alfa Effective January 1, 2007.
| Hospital Services for Patients with End-Stage Renal Disease.
| Hospital Services.
| Epoetin Alfa Facility Billing Requirements.
| Payment for Epoetin Alfa in Other Settings.
| Epoetin Alfa Provided in the Hospital Outpatient Departments.
| Darbepoetin Alfa (Aranesp) Facility Billing Requirements.
| Payment for Darbepoetin Alfa (Aranesp) in Other Settings.
| Payment for Darbepoetin Alfa (Aranesp) in the Hospital Outpatient Department.
1042 | Clarification on Billing Requirements for Percutaneous Transluminal.
| Angioplasty Concurrent with the Placement of an Investigational or FDA-Approved Carotid Stent.
| Percutaneous Transluminal Angioplasty for Implanting the Carotid Stent.
| Category B Investigational Device Exemptions Trial Coverage.
| Post Approval Study Coverage.
| Carotid Artery Stenting with Embolic Protection Coverage.
1043 | Revisions to the Epoetin Alfa/ Aranesp Monitoring Policy.
| Epoetin Alfa.
| Darbepoetin Alfa (Aranesp) for End-Stage Renal Disease Patients.
1044 | Issued to a specific audience, not posted to Internet/Intranet due to Confidentiality of Instruction.
1045 | October 2006 Outpatient Prospective Payment System Outpatient Code Editor Specifications Version 7.3.
1046 | Independent Laboratory Billing for the Technical Component of Physician Pathology Services.
1047 | October Update to the 2006 Medicare Physician Fee Schedule Database.
1048 | New Waived Tests.
1049 | Update to the Place of Service Code Set to Add a Code for Prison/Correctional Facility.
| Place of Service Codes and Definitions.
1050 | Changes to the Laboratory National Coverage Determination Edit Software for October 2006.
1051 | Claims Submission Instructions for Institutional Providers Billing Vaccine Claims in Cases Where a National Provider Identifier is Not Available.
| Healthcare Common Procedure Coding System and Diagnosis Codes.
| Claims Submitted to Fiscal Intermediaries for Mass Immunizations of Influenza and Pneumococcal Pneumonia Vaccine.
1052 | This Transmittal is rescinded and replaced by Transmittal 1057.
1053 | Inpatient Rehabilitation Facility Annual Update: Prospective Payment System.
| Pricer Changes for FY 2007.
1054 | Reporting of Taxonomy Codes to Identify Provider Subparts on Institutional Claims.
1055 | Competitive Acquisition Program—Creation of Automated Tables for Provider Information, Expansion of Competitive Acquisition Program Fee Schedule File Layout, and Additional Instructions for Claims Received from Railroad Retirement Board Beneficiaries.
| Competitive Acquisition Program Claims Submitted with Only the No Pay Line.
| Competitive Acquisition Program Fee Schedule.
| Changes to the List of Drugs Supplied by Approved Competitive Acquisition Program Vendors.
1056 | Quarterly Update to Correct Coding Initiative Edits, Version 12.3, Effective October 1, 2006.
1057 | Maintenance and Update of the Temporary Hook Created to Hold Outpatient Prospective Payment System Claims That Include Certain Drug Healthcare Common Procedure Coding System Codes.
1058 | Additional Requirements Necessary to Implement the Revised Health Insurance Claim Form CMS-1500 (08/05).
1059 | This Transmittal is rescinded and replaced by Transmittal 1066.
1060 | October 2006 Update of the Hospital Outpatient Prospective Payment System: Summary of Payment Policy Changes.
| Transitional Outpatient Payments.
| Transitional Outpatient Payments Calculation for CY 2000 and CY 2001.
| Transitional Outpatient Payments Calculation for CY 2002.
| Transitional Outpatient Payments Calculation for CY 2003.
| Transitional Outpatient Payments Calculation for CY 2004 and CY 2005.
| Transitional Outpatient Payments Calculation for CY 2006—CY 2008.
| Transitional Outpatient Payments Overpayments.
| Background—Payment-to-Cost Ratios.
| Using the Newly Calculated PCR for Determining Interim Transitional Outpatient Payments.
1061 | October 2006 Non-Outpatient Prospective Payment System Outpatient Code Editor Specifications Version 22.0.
1062 | Termination of Healthcare Common Procedure Coding System Code G0107, Colorectal Cancer Screening, Fecal Occult Blood Test (FOBT), 1-3 Simultaneous Determinations.
| Payment.
| Healthcare Common Procedure Coding System Codes, Frequency Requirement, and Age Requirements (If Applicable).
| Common Working Files Edits.
| Billing Requirements for Claims Submitted to Fiscal Intermediaries.
| Medicare Summary Notices Messages.
1063 | Ending the Contingency Plan for Remittance Advice and Charging for PC Print, Medicare Remit Easy Print, and Duplicate Remittance Advice.
| Background.
| General Remittance Completion Requirements.
| Remittance Balancing.
| Electronic Remittance Advice.
| ANSI ASC X12N 835.
| Generating an Electronic Remittance Advice if Required Data is Missing or Invalid.
| Medicare Standard Electronic PC Print Software for Institutional Providers.
| Medicare Remit Easy Print Software for Professional Providers and Suppliers.
| Implementation Guide.
| Standard Paper Remittance Advice.
| The Do Not Forward Initiative.
| Standard Paper Remittance Formats.
| Part A ( A/B MACs/FIs/RHHIs) Standard Paper Remittance Format.
| Part B (A/B MAC/Carrier/DMERC/DME MAC) Standard Paper Remittance.
| Format.
| Part A (A/B MAC/FI/RHHI) Standard Paper Remittance Crosswalk to the 835.
| Part B (A/B MAC/Carrier/ DMERC/DME MAC) Standard Paper Remittance.
| Crosswalk to the 835.
| Remittance Advice Codes.
| Claim Adjustment Reason Codes.
| Remittance Advice Remark Codes.
| Group Codes.
| Requests for Additional Codes.
| A/B Medicare Administrative Contractor/Fiscal Intermediary/Regional Home.
| Home Health Intermediary Electronic Remittance Advice Requirement.
| Changes to Accommodate Outpatient Prospective Payment System and Home Health Prospective Payment System.
| Scope of Remittance Changes for Home Health Prospective Payment System.
| Items Not Included in Home Health Prospective Payment System Episode Payment.
| Version 004010A1 Line Level Reporting Requirements for the Request for Anticipated Payment for an Episode.
| Version 004010A1 Line Level Reporting Requirements for the Claim Payment in an Episode (More Than Four Visits).
| Version 004010A1 Line Level Reporting Requirements for the Claim Payment in an Episode (Four or Fewer Visits).
| Prospective Payment System Partial Episode Payment Adjustment.
| General Health Insurance Portability & Accountability Act Electronic Data Interchange Requirements.
| Continued Support of Pre-Health Insurance Portability & Accountability Act.
| Electronic Data Interchange Formats.
| Electronic Remittance Advice.
| Standard Paper Remittance Notices.
| Remittance Advice Remark Codes.
| Electronic Funds Transfer.
| Medicare Remit Easy Print Software for Professional Providers and Suppliers.
| Medicare Standard Electronic PC Print Software for Institutional Providers.
1064 | Issued to a specific audience, not posted to Internet/Intranet due to Confidentiality of Instruction.
1065 | Disabling the Revenue/Healthcare Common Procedure Coding System.
| Consistency Edit Codes in the Fiscal Intermediary Shared System.
| Fiscal Intermediary Consistency Edits.
1066 | October 2006 Quarterly Average Sales Price Medicare Part B Drug Pricing File, Effective October 1, 2006, and Revisions to April 2006 and July 2006 Quarterly Average Sale Price Medicare Part B Drug Pricing Files.
1067 | Fiscal Year 2007 Inpatient Prospective Payment System, Long Term Care Hospital Prospective Payment System, and Inpatient Psychiatric Facility Prospective Payment System Changes.
1068 | 2007 Annual Update of HCPCS Codes for Skilled Nursing Facility.
| Consolidated Billing for the Common Working File, Medicare Carriers and Fiscal Intermediaries.
| Services Included in Part A Prospective Payment System Payment Not Billable Separately by the Skilled Nursing Facility.
1069 | Reopenings and Revisions of Claim Determinations and Decisions.
| Authority to Conduct a Reopening.
| Refusal to Reopen Is Not an Initial Determination.
| Reopening of Denials Based on an Unanswered Additional Documentation Request.
| Reopenings Based on Clerical or Minor Errors and Omissions.
| Providers Submitting Adjustments.
| Telephone Reopenings—Carriers Only.
| Informing the Provider Communities About the Telephone Reopenings Process.
| Issues for Telephone Reopenings.
| Conducting the Telephone Reopening.
| Documenting the Telephone Reopening.
| Monitoring the Telephone Reopening.
| Timeframes to Reopen Claim Determinations.
| Timeframes for Contractor Initiated Reopenings.
| Timeframes for Party Requested Reopenings.
| Timeframes for Adjudicator to Reopen.
| Timeframes When Party Requests an Adjudicator Reopen Their Decision.
| Timeframes to Complete a Reopening Requested by a Party.
| Notice of a Revised Determination or Decision.
| Revised Determination or Decision.
| Effect of a Revised Determination or Decision.
| Good Cause for Reopening.
| What Constitutes New and Material Evidence.
| What Constitutes Error on the Face of the Evidence.
| Change in Substantive Law or Interpretative Policy.
1070 | Issued to a specific audience, not posted to Internet/Intranet due to Sensitivity of Instruction.
1071 | Issued to specific audience, not posted to Internet/Intranet due to Confidentiality of Instruction.
Medicare Secondary Payer
(CMS Pub. 100-05)
54 | Revision to the Contents of the Intent to Refer Demand Packages.
| Issuance of the “Intent to Refer” to Treasury Letter.
| Debt Collection System Entry of Delinquent Debt.
55 | Update to the Fiscal Intermediary Shared System on Processing.
| Medicare Secondary Payer Fully Paid Claims When Condition Code 77 Is Not Present on Outpatient and Home Health Claims.
| Processing Medicare Secondary Payer Fully Paid Claims for Outpatient and Home Health Claims.
Medicare Financial Management
(CMS Pub. 100-06)
100 | Collection of Fee-for-Service Payments Made During Periods of Managed Care Enrollment.
| Collection of Fee-for-Service Payments Made During Periods of Medicare Advantage Enrollment.
101 | This Transmittal is rescinded and replaced by Transmittal 102.
102 | Notice of New Interest Rate for Medicare Overpayments and Underpayments.
103 | Internal Control Requirement Update.
| Requirements.
| Certification Statement.
104 | Updated Procedures for Appeals Council Communication with Recovery Audit Contractor.
| Appeals Council/Program Safeguard Contractor Communication with the Recovery Audit Contractors.
105 | Benefits Payable Survey and Trending Analysis Procedures.
106 | Collection of Fee-for-Service Payments Made During Periods of Managed Care Enrollment.
| Collection of Fee-for-Service Payments Made During Periods of Medicare Advantage Enrollment.
107 | Instructions for Conducting In-House Audits and Revision to Part II.
| Acceptability Checklist Requirements.
| Acceptance of Medicare Cost Report.
| Definition.
| Components of the Uniform Desk Review.
| Desk Review Exceptions Resolution Process.
| Field and In-House Audits.
| Definition of Field and In-House Audits.
| Purpose of Field and In-House Audits.
| Planning and Management (Global Scoping) Field and In-House Audits.
| Scoping/Planning of Individual Field and In-House Audits.
| Establishing the Objective/Scope of the Field and In-House Audits.
| Tailoring of the Audit Program.
| Field or In-House Audit Process.
| Audit Confirmation Letter (a.k.a. Engagement Letter).
| Audit Confirmation Letter (a.k.a. Engagement Letter)—Field Audit.
| Audit Confirmation Letter (a.k.a. Engagement Letter)—In-House Audit.
| Entrance Conference.
| Entrance Conference for Field Audit.
| Entrance Conference for In-House Audit.
| Coordination of Activities During the Field and In-House Audits.
| Evidence.
| Documentation Standards.
| Pre-Exit Conference.
| Exit Conference.
| Supervision During the Audit Process.
| Content and Structure of the Medicare Cost Report Audit Report.
| Provider Permanent File
Medicare State Operations Manual
(CMS Pub. 100-07)
00 | None.
Medicare Program Integrity
(CMS Pub. 100-08)
151 | Provider Enrollment Appeals Process.
| Administrative Appeals.
| Model Letter Formation.
152 | Correction of Common Working File Edit D903 for Wheelchair and Power Operated Vehicle Codes.
153 | The Medicare Claims System and The Provider Enrollment System Changes for the National Provider Identifier.
154 | Coding Change to Medicare Claims System to Accept National Provider Identifier From Provider Enrollment Chain & Ownership System Extract File.
155 | Medically Unlikely Edits.
156 | This Transmittal is rescinded and replaced by Transmittal 157.
157 | Evidence of Medical Necessity: Wheelchair and Power-Operated Vehicle Claims (Clarification of CR 3952, Transmittal 128, Dated October 28, 2005).
158 | Provider Enrollment Disenrollment Actions.
| Deactivation of Billing Numbers.
| Contractor Issued Revocations.
159 | New Durable Medical Equipment Prosthetic, Orthotics & Supplies Certificates of Medical Necessity and Durable Medical Equipment Information Forms for Claims Processing.
| Documentation Specifications for Areas Selected for Prepayment or Postpayment Medical Review.
| Home Use of Durable Medical Equipment.
| Rules Concerning Prescriptions (Orders).
| Physician Orders.
| Verbal Orders.
| Written Orders.
| Written Orders Prior to Delivery.
| Requirement of New Orders.
| Certificates of Medical Necessity and Durable Medical Equipment Information Forms.
| Completing a Certificate of Medical Necessity or Durable Medical Equipment Information Forms.
| Cover Letters for Certificates of Medical Necessity.
| Acceptability of Faxed Orders and Facsimile or Electronic Certificates of Medical Necessity and Durable Medical Equipment Information Forms.
| Durable Medical Equipment Medicare Administrative Contractors and Durable Medical Equipment Program Safeguard Contractor's Authority to Initiate an Overpayment or Civil Monetary Penalty When Invalid Certificates of Medical Necessity Are Identified.
| Nurse Practitioner or Clinical Nurse Specialist Rules Concerning Orders and Certificates of Medical Necessity.
| Physician Assistant Rules Concerning Orders and Certificate of Medical Necessity Documentation in the Patient's Medical Record.
| Supplier Documentation.
| Evidence of Medical Necessity.
| Evidence of Medical Necessity for the Oxygen Certificates of Medical Necessity.
| Evidence of Medical Necessity: Wheelchair and Power Operated Vehicle Claims.
| Period of Medical Necessity—Home Dialysis Equipment.
| Safeguards in Making Monthly Payments.
| Guidance on Safeguards in Making Monthly Payments
| Pick-up Slips.
| Incurred Expenses for Durable Medical Equipment and Orthotic and Prosthetic Devices.
| Patient Equipment Payments Exceed Deductible and Coinsurance on Assigned Claims.
| Definitions of Customized Durable Medical Equipment.
| Advance Determination of Medicare Coverage of Customized Durable Medical Equipment.
| Items Eligible for Advance Determination of Medicare Coverage.
| Instructions for Submitting Advance Determination of Medicare Coverage Requests.
| Instructions for Processing Advance Determination of Medicare Coverage Requests.
| Affirmative Advance Determination of Medicare Coverage Decisions.
| Negative Advance Determination of Medicare Coverage Decisions.
| Durable Medical Equipment Program Safeguard Contractor Tracking.
160 | Complaint Screening.
161 | Update the Common Working File Consistency, Utilization and A/B Crossover Edit.
| Requirements To Use National Provider Identifiers in Place of Unique Physician Identification Numbers.
162 | Coding Change to Medicare Claim System to Accept National Provider Identifier From Provider Enrollment Chain and Organization System Extract File.
163 | Transition of Medical Review Educational Activities.
| Types of Claims for Which Contractors Are Responsible.
| Goal of Medical Review Program.
| Medical Review Manager.
| Annual Medical Review Strategy.
| Data Analysis and Information Gathering.
| Problem Identification & Prioritization.
| Intervention Planning.
| Program Management.
| Budget and Workload Management.
| Staffing and Workforce Management.
| Contractor Medical Director.
| Maintaining the Confidentiality of Medical Review Records.
| Provider Tracking System.
| Evaluating the Effectiveness of Corrective Actions.
| Verifying Potential Error and Setting Priorities.
| Determining Whether a Problem is Widespread or Provider-Specific.
| Administrative Relief from Medical Review in the Presence of Disaster Articles.
| Overview of Prepayment and Postpayment Review for Medical Review Purposes.
| Additional Documentation Requests During Prepayment or Postpayment Medical Review.
| Denials Notices.
| Internal Medical Review Guidelines.
| Types of Prepayment and Postpayment Review.
| Spreading Workload Evenly.
| Prepayment Edits.
| Categories of Medical Review Edits.
| CMS Mandated Edits.
| Re-Adjudication of Claims.
| Review of Data.
| Provider Notification and Feedback.
| Fraud.
| Track Interventions.
| Implementation.
| Vignettes.
| Procedural Requirements.
| Joint Operating Agreement.
| Education.
| Definition.
| The Quarterly Strategy Analysis.
| Executive Summary.
| Problem Specific Activities.
| Problem Specific Activity Definitions.
| Narrative.
| Medical Review.
| Medical Review Overview.
| Reporting Medical Review Workload and Cost Information and Documentation in CAFM II.
| CAFM II Reporting for Medical Review Activities.
| Data Analysis Cost (Activity Code 21007).
| Medical Review Program Management Costs (Activity Code 21207).
| Medicare Integrity Program Comprehensive Error Rate Testing Support.
| Provider Education Regarding Local Coverage Decisions.
164 | Update the Common Working File Duplicate Edits, Utilization Error Codes, Paid Claims.
| History List and Part B Claims Screens to Use National Provider Identifiers in Place of Unique Physician Identification Numbers.
Medicare Contractor Beneficiary and Provider Communications
(CMS Pub. 100-09)
16 | Disclosure Desk Reference for Provider Contact Centers.
| Disclosure of Information.
| Inquiry Types.
| Telephone Inquiries.
| Written Inquiries.
| Special Inquiry Topics.
| Overlapping Claims.
| Pending Claims.
| Deceased Beneficiaries.
| Disclosure Desk Reference.
| Authentication of Provider Elements for Customer Service Request Inquiries.
| Authentication of Provider Elements for Interactive Voice Response Inquiries.
| Authentication of Provider Elements for Written Inquiries.
| Authentication of Beneficiary Elements.
| National Provider Identifier Implementation.
17 | Issued to a specific audience, not posted to Internet/Intranet due to Confidentiality of Instruction.
18 | Provider Customer Service Program.
| Guidelines for Telephone Service.
| Toll Free Network Services.
| Call Handling Requirements.
| Customer Service Assessment and Management System Reporting Requirements.
| Staff Development and Training.
| Quality Call Monitoring.
| Provider Contact Center User Group.
| Written Inquiries.
| Contractor Guidelines for High Quality Responses to Written Inquiries.
| Quality Written Correspondence Monitoring Calibration.
| Quality Written Correspondence Monitoring Performance Standards.
| Customer Service Operations Surveys.
| Provider Satisfaction Surveys.
| Contractor Activities Related to the Medicare Contractor Provider.
| Satisfaction Survey.
| Provider Inquiry Standardized Categories.
| Introduction to Provider Customer Service Program.
| Provider Outreach and Education.
| Provider Outreach Education Goals.
| Internal Development of Provider Issues.
| Partnering with External Entities.
| Data Analysis.
| Comprehensive Error Rate Testing Data.
| Inquiry Analysis.
| Claims Submission Errors.
| Referrals from Medical Review.
| Provider Education.
| Provider Bulletins/Newsletters.
| Training for New Medicare Providers.
| Training Tailored for Small Providers.
| Educational Topics.
| Local Coverage Determinations.
| Education Resulting from Medical Review Referrals.
| Medicare Preventive Service Benefits.
| Electronic Claims Submissions.
| Remittance Advice.
| “Ask-the-Contractor” Teleconferences.
| Provider Outreach Education Advisory Groups.
| Provider Outreach Education Reporting.
| Provider Service Plan.
| Education Activity Report.
| Error Rate Reduction Plan.
| Charging Fees to Providers for Medicare Education and Training Activities.
| No Charge.
| Fair and Reasonable Fees.
| Considerations and Record Keeping for Fee Collection.
| Excess Revenues from Participant Fees.
| Refunds/Credits for Cancellation of Events.
| Recording of Training Events.
| Provider Contact Center.
| Inquiry Triage Process.
| Telephone Services.
| Inbound Calls.
| Troubleshooting Problems.
| Availability Requirements.
| Providing Busy Signals.
| Queue Message.
| General Inquiries Lines.
| Customer Service Representative Requirements.
| Customer Service Representative Equipment Requirements.
| Sign-in Policy.
| Customer Service Representative Identification to Callers.
| Remote Monitoring Access.
| Disaster Recovery.
| Contractor Guidelines for High Quality Response to Telephone Inquiries.
| Quality Call Monitoring.
| Quality Call Monitoring Calibration.
| Contractor Guidelines for Written Inquiries.
| Controlling Written Inquiries.
| Written Inquiry Storage.
| Telephone Responses.
| E-mail and Fax Responses.
| Check Off Letters.
| Contractor Guidelines for Response to Written Inquiries.
| Quality Written Correspondence Monitoring.
| Quality Written Correspondence Monitoring Calibration.
| Walk-In Inquiries.
| Guidelines for Walk-In Service.
| Provider Relations Research Specialists.
| Complex Provider Inquiries.
| Complex Beneficiary Inquiries.
| Inquiry Tracking.
| Updates to Chart.
| Provider Contact Center User Group.
| Customer Service Operations Surveys.
| Provider Satisfaction Surveys.
| Contractor Activities Related to the Medicare Contractor Provider.
| Satisfaction Survey.
| Provider Customer Service Program Staff Development and Education.
| Provider Outreach Education Staff Training.
| Provider Contact Center Staff Development and Training.
| General Requirements.
| Provider Contact Centers Training Program.
| Closure Determination.
| Provider Complaints.
| Training Schedule.
| Training Closures of More than Four Hours.
| Provider Notifications.
| Customer Service Representative Feedback.
| Reports.
| CMS Monitoring.
| Provider Relations Research Specialist Staff Training.
| Provider Self-Service Technology.
| Interactive Voice Response System.
| Provider Web Site.
| General Requirements and Content.
| Webmaster and Attestation Requirements.
| Feedback Mechanism.
| Contents.
| Information from CMS.
| Frequently Asked Questions.
| Quarterly Provider Update.
| Internet-based Provider Educational Offerings.
| Electronic Mailing List/Listserv.
| Targeted Electronic Mailing Lists/Listservs.
| Listserv Promotion.
| Provider Customer Service Program Performance Management.
| Provider Outreach Education—Listserv Membership.
| Telephone Inquiries.
| Initial Call Resolution.
| Call Completion.
| Call Acknowledgment.
| Average Speed of Answer.
| Callbacks.
| Quality Call Monitoring Performance Standards.
| Written Inquiries.
| Quality Written Correspondence Monitoring Performance Standards.
| General Inquiries Timeliness.
| Provider Relations Research Specialist Timeliness.
| Definition of Contact Center for Customer Service Assessment & Management System Data to Be Reported Monthly.
| Provider Inquiry Standardized Categories.
Medicare Managed Care
(CMS Pub. 100-16)
00 | None.
Medicare Business Partners Systems Security
(CMS Pub. 100-17)
00 | None.
Demonstrations
(CMS Pub. 100-19)
48 | This Transmittal is rescinded and replaced by Transmittal 49.
49 | Laboratory Competitive Bidding Demonstration.
One Time Notification
(CMS Pub. 100-20)
231 | Issued to specific audience, not posted to Internet/Intranet due to Sensitivity of Instruction.
232 | Allowing Veterans Administration Claims with Various Office of Standard Certification Automated Retrieval System Numbers.
233 | Enhance the Multi Carrier System to Avoid Duplicate Payments When a Full Claim Adjustment Is Performed: Analysis and Design Phase.
234 | Modification of National Provider Identifier Editing Requirements in CR 4023 and of an Attachment to CR 4320.
235 | Correction of Business Requirement 4320.19.
236 | New Contractor Numbers for Jurisdiction 3 Part AB Medicare Administrative Services Workload.
237 | New Contractor Number for the Jurisdiction D Durable Medical Equipment.
| Medicare Administrative Contractor Workload for Noridian Administrative Services, LLC.
238 | Instructions for Fiscal Intermediary Standard System and Multi-Carrier System Healthcare Integrated General Ledger Accounting System Changes.
239 | Communications Infrastructure Testing.
240 | Issued to a specific audience, not posted to Internet/Intranet due to Sensitivity of Instruction.

Addendum IV—Regulation Documents Published in the Federal Register
[July through September 2006]
Publication date | FR vol. 71 page No. | CFR parts affected | File code | Title of regulation
August 23, 2006 | 49506 | 410, 414, 416, 419, 421, 485, and 488 | CMS-1506-P, CMS-4125-P | Medicare Program; Hospital Outpatient Prospective Payment System and CY 2007 Payment Rates; CY 2007 Update to the Ambulatory Surgical Center Covered Procedures List; Ambulatory Surgical Center Payment System and CY 2008 Payment Rates; Medicare Administrative Contractors; and Reporting Hospital Quality Data for FY 2008 Inpatient Prospective Payment System Annual Payment Update Program—HCAHPS Survey, SCIP, and Mortality.
July 6, 2006 | 38264 | 413 | CMS-1531-F | Medicare Program; Revision of the Deadline for Submission opf Emergency Graduate Medical Education Affiliation Agreements.
July 12, 2006 | 39214 | 435, 436, 440, 441, 457, and 483 | CMS-2257-IFC | Medicaid Program; Citizenship Documentation Requirements.
July 13, 2006 | 39683 |  | CMS-4123-N | Medicare Program; Solicitation for Proposals for Medical Savings Account Demonstration Project.
July 28, 2006 | 42854 |  | CMS-2251-N | State Children's Health Insurance Program; Final Allotments to States, the District of Columbia, and U.S. Territories and Commonwealths for Fiscal Year 2007.
July 28, 2006 | 42852 |  | CMS-1527-N | Medicare Program; Request for Nominations and Meeting of the Practicing Physicians Advisory Council, August 28, 2006.
July 31, 2006 | 43158 |  | CMS-1530-N | Medicare Program; Prospective Payment System and Consolidated Billing for Skilled Nursing Facilities—Update—Notice.
August 3, 2006 | 44082 | 414 and 484 | CMS-1304-P | Medicare Program; Home Health Prospective Payment System Rate Update for Calendar Year 2007 and Deficit Reduction Act of 2005 Changes to Medicare Payment for Oxygen Equipment and Capped Rental Durable Medical Equipment; Proposed Rule.
August 8, 2006 | 45140 | 411 | CMS-1303-F | Medicare Program; Physicians Referrals to Health Care Entities With Which They Have Financial Relationships; Exceptions for Certain Electronic Prescribing and Electronic Health Records Arrangements.
August 16, 2006 | 47230 |  | CMS-6040-N | Medicare Program; Durable Medical Equipment, Prosthetics, Orthotics, and Supplies (DMEPOS) Supplier Accreditation Applications From Independent Accrediting Bodies.
August 18, 2006 | 48345 | 412, 414, and 424 | CMS-1540-F | Medicare Program; Inpatient Rehabilitation Facility Prospective Payment System for Federal Fiscal Year 2007; Certain Provisions Concerning Competitive Acquisition for Durable Medical Equipment, Prosthetics, Orthotics, and Supplies (DMEPOS); Accreditation of DMEPOS Suppliers.
August 18, 2006 | 47870 | 409, 410, 412, 413, 414, 424, 485, 489, and 505 | CMS-1488-F, CMS-1287-F, CMS-1320-F, CMS-1325-IFC4 | Medicare Program; Changes to the Hospital Inpatient Prospective Payment Systems and Fiscal Year 2007 Rates; Fiscal Year 2007 Occupational Mix Adjustment to Wage Index; Health Care Infrastructure Improvement Program; Selection Criteria of Loan Program for Qualifying Hospitals Engaged in Cancer-Related Health Care and Forgiveness of Indebtedness; and Exclusion of Vendor Purchases Made Under the Competitive Acquisition Program (CAP) for Outpatient Drugs and Biologicals Under Part B for the Purpose of Calculating the Average Sales Price (ASP).
August 22, 2006 | 48982 | 405, 410, 411, 414, 415, and 424 | CMS-1321-P | Medicare Program; Revisions to Payment Policies Under the Physician Fee Schedule for Calendar Year 2007 and Other Changes to Payment Under Part B.
August 23, 2006 | 49506 | 410, 414, 416, 419, 421, 485, and 488 | CMS-1506-P, CMS-1425-P | Medicare Program; Hospital Outpatient Prospective Payment System and CY 2007 Payment Rates; CY 2007 Update to the Ambulatory Surgical Center Covered Procedures List; Ambulatory Surgical Center Payment System and CY 2008 Payment Rates; Medicare Administrative Contractors; and Reporting Hospital Quality Data for FY 2008 Inpatient Prospective Payment System Annual Payment Update Program—HCAHPS Survey, SCIP, and Mortality.
August 23, 2006 | 49460 |  | CMS-5035-N | Medicare Program; Senior Risk Reduction Demonstration.
August 25, 2006 | 50432 |  | CMS-1528-N | Medicare Program; Medicare Provider Feedback Group (MPFG) Town Hall Meeting September 20, 2006.
August 25, 2006 | 50430 |  | CMS-3166-N | Medicare Program; Meeting of the Medicare Coverage Advisory Committee—November 30, 2006.
August 25, 2006 | 50429 |  | CMS-4122-N | Medicare Program; Town Hall Meeting on Proposed Collection and Request for Comments on the Skilled Nursing Facility Advance Beneficiary Notice.
August 25, 2006 | 50428 |  | CMS-5030-N | Frontier Extended Stay Clinic Demonstration.
August 28, 2006 | 51050 | 431 and 457 | CMS-6026-IFC2 | Medicaid Program and State Children's Health Insurance Program (SCHIP) Payment Error Rate Measurement.
September 1, 2006 | 52080 |  | CMS-1535-N | Medicare Program; Hospice Wage Index for Fiscal Year 2007.
September 1, 2006 | 52014 | 422 | CMS-4121-P | Medicare Program; Prohibition of Midyear Benefit Enhancements for Medicare Advantage Organizations Offering Plans in Calendar Year 2007 and Subsequent Calendar Years.
September 11, 2006 | 53455 |  | CMS-5043-N | Physician-Hospital Collaboration Demonstration.
September 18, 2006 | 54665 |  | CMS-8030-N | Medicare Program; Medicare Part B Monthly Actuarial Rates, Premium Rates, and Annual Deductible for Calendar Year 2007.
September 18, 2006 | 54664 |  | CMS-5042-N | Medicare Program; Solicitation for Proposals To Participate in the Medicare Hospital Gainsharing Demonstration Program Under Section 5007 of the Deficit Reduction Act.
September 18, 2006 | 54662 |  | CMS-8029-N | Medicare Program; Inpatient Hospital Deductible and Hospital and Extended Care Services Coinsurance Amounts for Calendar Year 2007.
September 18, 2006 | 54661 |  | CMS-8028-N | Medicare Program; Part A Premium for Calendar Year 2007 for the Uninsured Ages and for Certain Disabled Individuals Who Have Exhausted Other Entitlement.
September 22, 2006 | 55481 |  | CMS-7001-N | Medicare Program; Meeting of the Advisory Panel on Medicare Education, October 17, 2006.
September 22, 2006 | 55480 |  | CMS-8030-CN | Medicare Program; Medicare Part B Monthly Actuarial Rates, Premium Rates, and Annual Deductible for Calendar Year 2007; Correction.
September 22, 2006 | 55404 | 405 | CMS-6025-P | Medicare Program; Limitation on Recoupment of Provider and Supplier Overpayments.
September 22, 2006 | 55341 | 405 and 491 | CMS-1910-IFC | Medicare Program; Rural Health Clinics: Amendments to Participation Requirements and Payment Provisions; and Establishment of a Quality Assessment and Performance Improvement Program; Suspension of Effectiveness.
September 22, 2006 | 55326 | 403, 416, 418, 460, 482, 483, and 485 | CMS-3145-F | Medicare and Medicaid Programs; Fire Safety Requirements for Certain Health Care Facilities; Amendment.
September 29, 2006 | 57604 |  | CMS-9036-N | Medicare and Medicaid Programs; Quarterly Listing of Program Issuances—April Through June 2006.
September 29, 2006 | 57543 |  | CMS-1481-N2 | Medicare Program; Emergency Medical Treatment and Labor Act (EMTALA) Technical Advisory Group (TAG) Meeting—November 2-3, 2006.
September 29, 2006 | 57519 |  | CMS-1530-CN | Medicare Program; Prospective Payment System and Consolidated Billing for Skilled Nursing Facilities; Corrections.
September 29, 2006 | 57513 |  | CMS-1333-GNC | Medicare Program; Criteria and Standards for Evaluating Intermediary and Carrier Performance During Fiscal Year 2007.
September 29, 2006 | 57447 | 412, 414, and 424 | CMS-1540-CN | Medicare Program; Inpatient Rehabilitation Facility Prospective Payment System for Federal Fiscal Year 2007; Certain Provisions Concerning Competitive Acquisition for Durable Medical Equipment, Prosthetics, Orthotics, and Supplies (DMEPOS); Accreditation of DMEPOS Suppliers; Correction.

Addendum V—National Coverage Determinations [July Through September 2006]

A national coverage determination (NCD) is a determination by the Secretary with respect to whether or not a particular item or service is covered nationally under Title XVIII of the Social Security Act, but does not include a determination of what code, if any, is assigned to a particular item or service covered under this title, or determination with respect to the amount of payment made for a particular item or service so covered. We include below all of the NCDs that were issued during the quarter covered by this notice. The entries below include information concerning completed decisions as well as sections on program and decision memoranda, which also announce pending decisions or, in some cases, explain why it was not appropriate to issue an NCD. We identify completed decisions by the section of the NCDM in which the decision appears, the title, the date the publication was issued, and the effective date of the decision. Information on completed decisions as well as pending decisions has also been posted on the CMS Web site at http://cms.hhs.gov/coverage.

National Coverage Determinations
[July Through September 2006]
Title | NCDM section | TN No. | Issue date | Effective date
Changes to the Lab NCD Edit Software for October 2006 | 190.12, 190.14-190.18, 190.20, 190.22-190.34 | R1050CP | 09/07/06 | 10/01/06

Addendum VI—FDA-Approved Category B IDEs [July Through September 2006]

Under the Food, Drug, and Cosmetic Act (21 U.S.C. 360c) devices fall into one of three classes. To assist CMS under this categorization process, the FDA assigns one of two categories to each FDA-approved IDE. Category A refers to experimental IDEs, and Category B refers to non-experimental IDEs. To obtain more information about the classes or categories, please refer to the Federal Register notice published on April 21, 1997 (62 FR 19328).

The following list includes all Category B IDEs approved by FDA during the third quarter, July through September 2006.

IDE | Category
G050186 | B
G050237 | B
G050242 | B
G060001 | B
G060021 | B
G060026 | B
G060049 | B
G060063 | B
G060110 | B
G060116 | B
G060118 | B
G060119 | B
G060120 | B
G060124 | B
G060126 | B
G060127 | B
G060128 | B
G060129 | B
G060131 | B
G060132 | B
G060133 | B
G060134 | B
G060135 | B
G060136 | B
G060137 | B
G060139 | B
G060142 | B
G060143 | B
G060145 | B
G060146 | B
G060151 | B
G060154 | B
G060156 | B
G060163 | B
G060164 | B
G060165 | B
G060166 | B
G060170 | B
G060171 | B
G060172 | B
G060173 | B
G060176 | B

Addendum VII—Approval Numbers for Collections of Information

Below we list all approval numbers for collections of information in the referenced sections of CMS regulations in Title 42; Title 45, Subchapter C; and Title 20 of the Code of Federal Regulations, which have been approved by the Office of Management and Budget:

OMB Control Numbers: Approved CFR Sections in Title 42, Title 45, and Title 20 (Note: Sections in Title 45 are preceded by “45 CFR,” and sections in Title 20 are preceded by “20 CFR”)

OMB No. | Approved CFR sections
0938-0008 | Part 424, Subpart C.
0938-0022 | 413.20, 413.24, 413.106.
0938-0023 | 424.103.
0938-0025 | 406.28, 407.27.
0938-0027 | 486.100-486.110.
0938-0033 | 405.807.
0938-0034 | 405.821.
0938-0035 | 407.40.
0938-0037 | 413.20, 413.24.
0938-0041 | 408.6, 408.202.
0938-0042 | 410.40, 424.124.
0938-0045 | 405.711.
0938-0046 | 405.2133.
0938-0050 | 413.20, 413.24.
0938-0062 | 431.151, 435.151, 435.1009, 440.220, 440.250, 442.1, 442.10-442.16, 442.30, 442.40, 442.42, 442.100-442.119, 483.400-483.480, 488.332, 488.400, 498.3-498.5.
0938-0065 | 485.701-485.729.
0938-0074 | 491.1-491.11.
0938-0080 | 406.7, 406.13.
0938-0086 | 420.200-420.206, 455.100-455.106.
0938-0101 | 430.30.
0938-0102 | 413.20, 413.24.
0938-0107 | 413.20, 413.24.
0938-0146 | 431.800-431.865.
0938-0147 | 431.800-431.865.
0938-0151 | 493.1-493.2001.
0938-0155 | 405.2470.
0938-0193 | 430.10-430.20, 440.167.
0938-0202 | 413.17, 413.20.
0938-0214 | 411.25, 489.2, 489.20.
0938-0236 | 413.20, 413.24.
0938-0242 | 416.44, 418.100, 482.41, 483.270, 483.470.
0938-0245 | 407.10, 407.11.
0938-0251 | 406.7.
0938-0266 | 416.1-416.150.
0938-0267 | 485.56, 485.58, 485.60, 485.64, 485.66.
0938-0269 | 412.116, 412.632, 413.64, 413.350, 484.245.
0938-0270 | 405.376.
0938-0272 | 440.180, 441.300-441.305.
0938-0273 | 485.701-485.729.
0938-0279 | 424.5.
0938-0287 | 447.31.
0938-0296 | 413.170, 413.184.
0938-0301 | 413.20, 413.24, 415.60.
0938-0302 | 418.22, 418.24, 418.28, 418.56, 418.58, 418.70, 418.74, 418.83, 418.96, 418.100.
0938-0313 | 489.11, 489.20.
0938-0328 | 482.12, 482.13, 482.21, 482.22, 482.27, 482.30, 482.41, 482.43, 482.45, 482.53, 482.56, 482.57, 482.60, 482.61, 482.62, 482.66, 485.618, 485.631.
0938-0334 | 491.9, 491.10.
0938-0338 | 486.104, 486.106, 486.110.
0938-0354 | 441.50.
0938-0355 | 442.30, 488.26.
0938-0358 | 488.26.
0938-0359 | 412.40-412.52.
0938-0360 | 488.60.
0938-0365 | 484.10, 484.12, 484.14, 484.16, 484.18, 484.36, 484.48, 484.52.
0938-0372 | 414.330.
0938-0378 | 482.60-482.62.
0938-0379 | 442.30, 488.26.
0938-0382 | 442.30, 488.26.
0938-0386 | 405.2100-405.2171.
0938-0391 | 488.18, 488.26, 488.28.
0938-0426 | 480.104, 480.105, 480.116, 480.134.
0938-0429 | 447.53.
0938-0443 | 478.18, 478.34, 478.36, 478.42.
0938-0444 | 1004.40, 1004.50, 1004.60, 1004.70.
0938-0445 | 412.44, 412.46, 431.630, 476.71, 476.74, 476.78.
0938-0447 | 405.2133.
0938-0448 | 405.2133, 45 CFR 5, 5b; 20 CFR Parts 401, 422E.
0938-0449 | 440.180, 441.300-441.310.
0938-0454 | 424.20.
0938-0456 | 412.105.
0938-0463 | 413.20, 413.24, 413.106.
0938-0467 | 431.17, 431.306, 435.910, 435.920, 435.940-435.960.
0938-0469 | 417.126, 422.502, 422.516.
0938-0470 | 417.143, 422.6.
0938-0477 | 412.92.
0938-0484 | 424.123.
0938-0501 | 406.15.
0938-0502 | 433.138.
0938-0512 | 486.304, 486.306, 486.307.
0938-0526 | 475.102, 475.103, 475.104, 475.105, 475.106.
0938-0534 | 410.38, 424.5.
0938-0544 | 493.1-493.2001.
0938-0564 | 411.32.
0938-0565 | 411.20-411.206.
0938-0566 | 411.404, 411.406, 411.408.
0938-0573 | 412.256.
0938-0578 | 447.534.
0938-0581 | 493.1-493.2001.
0938-0599 | 493.1-493.2001.
0938-0600 | 405.371, 405.378, 413.20.
0938-0610 | 417.436, 417.801, 422.128, 430.12, 431.20, 431.107, 483.10, 484.10, 489.102.
0938-0612 | 493.801, 493.803, 493.1232, 493.1233, 493.1234, 493.1235, 493.1236, 493.1239, 493.1241, 493.1242, 493.1249, 493.1251, 493,1252, 493.1253, 493.1254, 493.1255, 493.1256, 493.1261, 493.1262, 493.1263, 493.1269, 493.1273, 493.1274, 493.1278, 493.1283, 493.1289, 493.1291, 493.1299.
0938-0618 | 433.68, 433.74, 447.272.
0938-0653 | 493.1771, 493.1773, 493.1777.
0938-0657 | 405.2110, 405.2112.
0938-0658 | 405.2110, 405.2112.
0938-0667 | 482.12, 488.18, 489.20, 489.24.
0938-0686 | 493.551-493.557.
0938-0688 | 486.301-486.325.
0938-0691 | 412.106.
0938-0692 | 466.78, 489.20, 489.27.
0938-0701 | 422.152.
0938-0702 | 45 CFR 146.111, 146.115, 146.117, 146.150, 146.152, 146.160, 146.180.
0938-0703 | 45 CFR 148.120, 148.122, 148.124, 148.126, 148.128.
0938-0714 | 411.370-411.389.
0938-0717 | 424.57.
0938-0721 | 410.33.
0938-0723 | 421.300-421.316.
0938-0730 | 405.410, 405.430, 405.435, 405.440, 405.445, 405.455, 410.61, 415.110, 424.24.
0938-0732 | 417.126, 417.470.
0938-0734 | 45 CFR 5b.
0938-0739 | 413.337, 413.343, 424.32, 483.20.
0938-0749 | 424.57.
0938-0753 | 422.000-422.700.
0938-0754 | 441.151, 441.152.
0938-0758 | 413.20, 413.24.
0938-0760 | 484.55, 484.205, 484.245, 484.250.
0938-0761 | 484.11, 484.20.
0938-0763 | 422.250, 422.252, 422.254, 422.256, 422.258, 422.262, 422.264, 422.266, 422.270, 422.300, 422.304, 422.306, 422.308, 422.310, 422.312, 422.314, 422.316, 422.318, 422.320, 422.322, 422.324, 423.251, 423.258, 423.265, 423.272, 423.286, 423.293, 423.301, 423.308, 423.315, 423.322, 423.329, 423.336, 423.343, 423.346, 423.350.
0938-0770 | 410.2.
0938-0778 | 422.111, 422.564.
0938-0779 | 417.126, 417.470, 422.64, 422.210.
0938-0781 | 411.404, 484.10.
0938-0786 | 438.352, 438.360, 438.362, 438.364.
0938-0790 | 460.12-460.210.
0938-0792 | 491.8, 491.11.
0938-0796 | 422.64.
0938-0798 | 413.24, 413.65, 419.42.
0938-0802 | 419.43.
0938-0818 | 410.-141-410.146, 414.63.
0938-0829 | 422.568.
0938-0832 | Parts 489 and 491.
0938-0833 | 483.350-483.376.
0938-0841 | 431.636, 457.50, 457.60, 457.70, 457.340, 457.350, 457.431, 457.440, 457.525, 457.560, 457.570, 457.740, 457.750, 457.810, 457.940, 457.945, 457.965, 457.985, 457.1005, 457.1015, 457.1180.
0938-0842 | 412.23, 412.604, 412.606, 412.608, 412.610, 412.614, 412.618, 412.626, 413.64.
0938-0846 | 411.352-411.361.
0938-0857 | Part 419.
0938-0860 | Part 419.
0938-0866 | 45 CFR Part 162.
0938-0872 | 413.337, 483.20.
0938-0873 | 422.152.
0938-0874 | 45 CFR Parts 160 and 162.
0938-0878 | Part 422 Subparts F and G.
0938-0887 | 45 CFR 148.316, 148.318, 148.320.
0938-0897 | 412.22, 412.533.
0938-0907 | 412.230, 412.304, 413.65.
0938-0910 | 422.620, 422.624, 422.626.
0938-0911 | 426.400, 426.500.
0938-0915 | 421.120, 421.122.
0938-0916 | 483.16.
0938-0920 | 438.6, 438.8, 438.10, 438.12, 438.50, 438.56, 438.102, 438.114, 438.202, 438.206, 438.207, 438.240, 438.242, 438.402, 438.404, 438.406, 438.408, 438.410, 438.414, 438.416, 438.604, 438.710, 438.722, 438.724, 438.810.
0938-0921 | 414.804.
0938-0931 | 45 CFR 142.408, 162.408, and 162.406.
0938-0933 | 438.50.
0938-0935 | 422 Subparts F and K.
0938-0936 | 423.
0938-0939 | 405.502.
| 422.250, 422.252, 422.254, 422.256, 422.258, 422.262, 422.264, 422.266, 422.270, 422.300, 422.304, 422.306, 422.308, 422.310, 422.312, 422.314, 422.316, 422.318, 422.320, 422.322, 422.324, 423.251, 423.258, 423.265, 423.272, 423.279, 423.286, 423.293, 423.301, 423.308, 423.315, 423.322,
0938-0944 | 423.329, 423.336, 423.343, 423.346, 423.350.
0938-0950 | 405.910.
0938-0951 | 423.48.
0938-0953 | 405.1200 and 405.1202.
0938-0954 | 414.906, 414.908, 414.910, 414.914, 414.916.
0938-0957 | Part 423 Subpart R.
0938-0964 | 403.460, 411.47.
0938-0975 | 423.562(a).
0938-0976 | 423.568.
0938-0977 | Part 423 Subpart R.
0938-0978 | 423.464.
0938-0982 | 422.310, 423.301, 423.322, 423.875, 423.888.
0938-0990 | 423.56.
0938-0992 | 423.505, 423.514.

Addendum VIII—Medicare-Approved Carotid Stent Facilities [July Through September 2006]

On March 17, 2005, we issued our decision memorandum on carotid artery stenting. We determined that carotid artery stenting with embolic protection is reasonable and necessary only if performed in facilities that have been determined to be competent in performing the evaluation, procedure, and follow-up necessary to ensure optimal patient outcomes. We have created a list of minimum standards for facilities modeled in part on professional society statements on competency. All facilities must at least meet our standards in order to receive coverage for carotid artery stenting for high risk patients.

Approved Carotid Artery Stenting Facilities—July, August, and September 2006

Effective Date 7/6/06

Mercy Medical Center Redding, 2175 Rosaline Avenue, P.O. Box 496009, Redding, CA 96049-6009, Medicare Provider #050280

Saint Anthony Memorial, 301 W. Homer Street, Michigan City, IN 46360, Medicare Provider #150015

Sentara Virginia Beach General Hospital, 1060 First Colonial Road, Virginia Beach, VA 23454, Medicare Provider #490057

Effective Date 7/13/06

Saint Peter's University Hospital, 254 Easton Avenue, PO Box 591, New Brunswick, NJ 08903-0591, Medicare Provider #310070

Effective Date 7/26/06

Sentara CarePlex Hospital, 3000 Coliseum Drive, Hampton, VA 23666, Medicare Provider #490093

St. Elizabeth's Hospital, 211 South Third Street, Belleville, IL 62220, Medicare Provider #140187

Effective Date 7/31/06

Franciscan Health System, d.b.a. St. Joseph Medical Center, 1717 South J Street, P.O. Box 2197, Tacoma, WA 98401-2197, Medicare Provider #500108

Long Island Jewish Medical Center, 270-05 76th Avenue, New Hyde Park, NY 11040, Medicare Provider #330195

Saint Vincent Health Center, 232 West 25 Street, Erie, PA 16544, Medicare Provider #390009

Effective Date 8/3/06

Ball Memorial Hospital, Inc., 2401 West University Avenue, Muncie, IN 47303, Medicare Provider #150089

Community Medical Center, 2827 Fort Missoula Road, Missoula, MT 59804, Medicare Provider #270023

South Central Regional Medical Center, 1220 Jefferson Street, Laurel, MS 39440, Medicare Provider # 250058

University Medical Center of Southern Nevada, 1800 West Charleston Boulevard, Las Vegas, NV 89102, Medicare Provider #290007

Effective Date 8/7/06

Gundersen Lutheran Medical Center, 1900 South Avenue, La Crosse, WI 54601, Medicare Provider #520087

Jackson Memorial Hospital, 1611 NW 12 Avenue, Miami, FL 33136, Medicare Provider #100022

Mercy Hospital Anderson, 7500 State Road, Cincinnati, OH 45255, Medicare Provider #360001

Effective Date 8/10/06

Lakewood Ranch Medical Center, 8330 Lakewood Ranch Boulevard, Bradenton, FL 34202, Medicare Provider #100299

Effective Date 8/11/06

Alaska Regional Hospital, 2801 DeBarr Road, Anchorage, AK 99508, Medicare Provider #020017

Saint Anne's Hospital, 795 Middle Street, Fall River, MA 02721, Medicare Provider #220020

Effective Date 8/16/06

Little Company of Mary Hospital, 4101 Torrance Blvd, Torrance, CA 90503, Medicare Provider #050353

Peninsula Regional Medical Center, 100 East Carroll Street, Salisbury, MD 21801, Medicare Provider #210019

Valley Baptist Medical Center-Brownsville, P.O. Box 3590, 1040 West Jefferson, Brownsville, TX 78520, Medicare Provider #450028

Effective Date 8/18/06

Memorial Hermann-Memorial City, 921 Gessner, Houston, TX 77024, Medicare Provider #450610

Tacoma General Hospital MultiCare Health System, 315 Martin Luther King Jr. Way, P.O. Box 5299, Tacoma, WA 98145-0299, Medicare Provider #500129

Effective Date 8/22/06

East Jefferson General Hospital, 4200 Houma Blvd., Metairie, LA 70006, Medicare Provider #191014

Harrison Medical Center, 2520 Cherry Avenue, Bremerton, WA 98310, Medicare Provider #500039

Penobscot Bay Medical Center, 6 Glen Cover Drive, Rockport, ME 04856-4240, Medicare Provider #200063

Richardson Regional Medical Center, 401 West Campbell Road, Richardson, TX 75080-3416, Medicare Provider #450537

Effective Date 8/28/06

St. Francis Hospital and Health Centers—Indianapolis, 8111 South Emerson Avenue, Indianapolis, IN 46237, Medicare Provider #150162

Effective Date 9/1/06

Summit Medical Center, 5655 Frist Boulevard, Hermitage, TN 37076, Medicare Provider #440150

Effective Date 9/6/06

Heartland Memorial Hospital, 701 Superior Avenue, Munster, IN 46321, Medicare Provider #150147

Mercy Hospital of Buffalo, 565 Abbott Road, Buffalo, NY 14220, Medicare Provider #330279

Mercy Memorial Health Center, 1011 Fourteenth Ave., NW., Ardmore, OK 73401, Medicare Provider #370047

Southwest General Health Center, 18697 Bagley Road, Middleburgh Heights, OH 44130-3497, Medicare Provider #360155

Summerlin Hospital Medical Center, 657 Town Center Drive, Las Vegas, NV 89144, Medicare Provider #290041

Effective Date 9/19/06

Hutchinson Hospital Corporation, 1701 East 23rd Avenue, Hutchinson, KS 67501, Medicare Provider #170020

Nebraska Methodist Hospital, 8303 Dodge Street, Omaha, NE 68114, Medicare Provider #280040

Effective Date 9/22/06

Fisher-Titus Medical Center, 272 Benedict Avenue, Norwalk, OH 44857, Medicare Provider #360065

Louisiana State University Health Sciences Center—Shreveport, 1501 Kings Highway, P.O. Box 33932, Shreveport, LA 71130-3932, Medicare Provider #190098

Effective Date 9/25/06

Pocono Medical Center, ESSA Heart and Vascular Institute, 206 East Brown Street, East Stroudsburg, PA 18301, Medicare Provider #390201

Effective Date 9/28/06

Beth Israel Medical Center, Milton and Carroll Petrie Division, First Avenue at 16th Street, New York, NY 10003, Medicare Provider #330169

Holy Redeemer Hospital and Medical Center, 1648 Huntingdon Pike, Meadowbrook, PA 19046, Medicare Provider #390097

Scottsdale Healthcare Osborn, 7400 E. Osborn Road, Scottsdale, AZ 85251, Medicare Provider #030038

Scottsdale Healthcare Shea, 9003 E. Shea Blvd, Scottsdale, AZ 85260, Medicare Provider #030087

Addendum IX—American College of Cardiology's National Cardiovascular Data Registry Sites [July Through September 2006]

In order to obtain reimbursement, Medicare national coverage policy requires that providers implanting ICDs for primary prevention clinical indications (that is, patients without a history of cardiac arrest or spontaneous arrhythmia) report data on each primary prevention ICD procedure. This policy became effective January 27, 2005. Details of the clinical indications that are covered by Medicare and their respective data reporting requirements are available in the Medicare National Coverage Determination (NCD) Manual, which is on the Centers for Medicare & Medicaid Services (CMS) Web site at http://www.cms.hhs.gov/Manuals/IOM/itemdetail.asp?filterType=none&filterByDID=99&sortByDID=1&sortOrder=ascending&itemID=CMS014961.

A provider can use either of two mechanisms to satisfy the data reporting requirement. Patients may be enrolled either in an Investigational Device Exemption trial studying ICDs as identified by the FDA or in the American College of Cardiology's National Cardiovascular Data Registry (ACC-NCDR) ICD registry. Therefore, in order for a beneficiary to receive a Medicare-covered ICD implantation for primary prevention, the beneficiary must receive the scan in a facility that participates in the ACC-NCDR ICD registry.

We maintain a list of facilities that have been enrolled in this registry. Addendum IX includes the facilities that have been designated in the quarter covered by this notice.

Facility name | Address | City | State | Zip
Abbott Northwestern Hospital | 800 E 28th St | Minneapolis | MN | 55407
Abilene Regional Medical Center | 6250 Hwy 83/84 | Abilene | TX | 97606
Abington Memorial Hospital | 1200 York Rd | Abington | PA | 19446
Advance Cath Imaging LP | 2000 FM 51 | Decatur | TX | 76234
Adventist Medical Center | 10123 SE Market St | Portland | OR | 97216
Advocate Christ Medical Center | 4440 W 95th St #127NOB | Oak Lawn | IL | 60453
Advocate Good Shepherd Hospital | 450 W Hwy 22 | Barrington | IL | 60010
Advocate Illinois Masonic Medical Center | 836 W Wellington Ave | Chicago | IL | 60657
Advocate Lutheran General Hospital | 1775 Dempster St | Park Ridge | IL | 60068
Advocate South Suburban Hospital | 17800 S Kedzie Ave | Hazel Crest | IL | 60429
Aiken Regional Medical Center | 302 University Pkwy | Aiken | SC | 29802
Akron City Hospital | 525 E Market St | Akron | OH | 44309-2090
Akron General Medical Center | 400 Wabash Ave | Akron | OH | 44307
Alaska Regional Hospital | 2801 Debarr Rd | Anchorage | AK | 99508
Albany Medical Center | 43 New Scotland Ave | Albany | NY | 12208
Albert Einstein Medical Center | 5501 Old York Rd | Philadelphia | PA | 19141
Alegent Health Bergan Mercy Medical Center | 7500 Mercy Rd | Omaha | NE | 68124
Alegent Health Immanuel Medical Center | 6901 N 72nd St Ste 3000 N | Omaha | NE | 68122
Alexian Brothers Medical Center | 800 Biesterfield Rd | Elk Grove Village | IL | 60007-3311
All Saints Healthcare | 3801 Spring St | Racine | WI | 53405
Allegheny General Hospital | 320 E North Ave | Pittsburgh | PA | 15212
Allen Memorial Hospital | 1825 Logan Ave | Waterloo | IN | 50703
Alliance Hospital | 515 N Adams Ave | Odessa | TX | 79761
Alpena Regional Medical Center | 1501 W Chisholm St | Alpena | MI | 49707
Alta Bates Medical Center | 2450 Ashby Ave | Berkeley | CA | 94705
Alta Bates Summit Medical Center | 2450 Ashby Ave | Berkeley | CA | 94705
Alton Memorial Hospital | 1 Memorial Dr | Alton | IL | 62067
Altoona Hospital | 620 Howard Ave | Altoona | PA | 16601
Altru Health System | 1200 S Columbia Rd | Grand Forks | ND | 58206-6002
Alvarado Hospital Medical Center/SDRI | 6655 Alvarado Rd | San Diego | CA | 92124
Anaheim Memorial Medical Center | 1111 W La Palma Ave | Anaheim | CA | 92801
AnMed Health | 800 Fant St | Anderson | SC | 29621
Anne Arundel Medical Center | 2001 Medical Pkwy | Annapolis | MD | 21401
Appleton Medical Center | 1818 N Meade St/MOB-S/2nd Floor | Appleton | WI | 54911
Arizona Heart Hospital | 1930 E Thomas Rd | Phoenix | AZ | 85016
Arkansas Heart Hospital | 1701 S Shackelford Rd | Little Rock | AR | 72202
Arlington Memorial Hospital | 800 W Randol Mill Rd | Arlington | TX | 76012-2504
Arnold Palmer Hospital | 1414 Kuhl Ave | Orlando | FL | 32806
Arnot-Ogden Medical Center | 600 Roe Ave | Elmira | NY | 14905-1629
Aspirus Wausau Hospital | 425 Pine Ridge Blvd | Wausau | WI | 54401
Athens Regional Medical Center | 1199 Prince Ave | Athens | GA | 30606
Atlanta Medical Center | 303 Parkway Dr NE | Atlanta | GA | 30312
Atlanticare Regional Medical Center | 2500 English Creek Ave | Egg Harbour Twp | NJ | 08234
Audrain Medical Center | 620 E Monroe St | Mexico | MO | 65265
Aultman Hospital | 2600 Sixth St SW | Canton | OH | 44710
Aurora Bay Care Medical Center | 2845 Greenbrier Rd | Green Bay | WI | 54308
Aurora Sinai Medical Center | 2900 W Oklahoma Ave | Milwaukee | WI | 53215
Aventura Hospital & Medical Center | 20900 Biscayne Blvd | Aventura | FL | 33180
Avera Heart Hospital of South Dakota | 4500 West 69th St | Sioux Falls | SD | 57108
Avera Sacred Heart Hospital | 501 Summit St | Yankton | SD | 57078
Bakersfield Heart Hospital | 3001 Sillect Ave | Bakersfield | CA | 93308
Ball Memorial Hospital | 2401 University Ave | Muncie | IN | 47303
Banner Baywood Heart Hospital | 6750 E Baywood Ave | Mesa | AZ | 85206
Banner Desert Medical Center | 1400 S Dobson Rd | Mesa | AZ | 85202
Banner Good Samaritan Medical Center | 1111 E McDowell Rd | Phoenix | AZ | 85006-2612
Banner Thunderbird Medical Center | 5555 W Thunderbird Rd | Glendale | AZ | 85306
Baptist Health Medical Center | 3333 Springhill Dr | N Little Rock | AR | 72117
Baptist Health Medical Center | 9601 I-630 Exit 7 | Little Rock | AR | 72205
Baptist Health System | 215 E Quincy St Ste 200 | San Antonio | TX | 78215
Baptist Hospital | 1000 W Moreno St | Pensacola | FL | 32501
Baptist Hospital | 2000 Church St | Nashville | TN | 37236
Baptist Hospital East | 4000 Kresge Way | Louisville | KY | 40207
Baptist Hospital of East Tennessee | 137 Blount Ave | Knoxville | TN | 37920
Baptist Hospital of Miami | 8900 N Kendall Dr | Miami | FL | 33176
Baptist Hospital West | 10820 Parkside Dr | Knoxville | TN | 37934
Baptist Medical Center | 111 Dallas St | San Antonio | TX | 78205
Baptist Medical Center | 2105 E South Blvd | Montgomery | AL | 36116
Baptist Medical Center | 800 Prudential Dr | Jacksonville | FL | 32207
Baptist Medical Center Montclair | 800 Montclair Rd | Birmingham | AL | 35213-1908
Baptist Memorial Hospital | 6019 Walnut Grove Rd | Memphis | TN | 38120
Baptist Memorial Hospital Golden Triangle | 2520 5th St N PO Box 1307 | Columbus | MS | 39703
Baptist Memorial Hospital North Mississippi | 2301 S Lamar Blvd | Oxford | MS | 38655
Baptist Memorial Hospital-Desoto | 7601 Southcrest Pkwy | Southaven | MS | 38671
Baptist St Anthony's Health Systems | 1600 Wallace Blvd | Amarillo | TX | 79106
Barberton Citizens Hospital | 155 5th St NE | Barberton | OH | 44203
Barnes Jewish Hospital/Washington University | 600 S Taylor Ave MS 90-59-315 | St Louis | MO | 63110-9930
Barstow Community Hospital | 555 S 7th St | Barstow | CA | 92311
Bartow Regional Medical Center | PO Box 1050 | Bartow | FL | 33831-1050
Bassett Healthcare (Mary Imogene Bassett Hospital) | 1 Atwell Rd | Cooperstown | NY | 13326
Baton Rouge General Medical Center | 3600 Florida Blvd | Baton Rouge | LA | 70806
Battle Creek Health System | 300 North Ave | Battle Creek | MI | 49016
Baxter Regional Medical Center | 624 Hospital Dr | Mountain Home | AR | 72653
Bay Medical Center | 615 N Bonita Ave | Panama City | FL | 32401
Bay Regional Medical Center | 1900 Columbus Ave | Bay City | MI | 48708
Bayfront Medical Center | 701 6th St S | St Petersburg | FL | 33701
Bayhealth Medical Center (KGH) | 640 S State St | Dover | DE | 19901
Baylor All Saints Medical Center | 1400 8th Ave | Ft Worth | TX | 76104
Baylor Jack & Jane Hamilton Heart & Vascular Hospital | 621 N Hall St | Dallas | TX | 75226
Baylor Medical Center at Garland | 2300 Marie Curie Blvd | Garland | TX | 75042
Baylor Medical Center at Irving | 1901 N MacArthur Blvd | Irving | TX | 75061
Baylor Regional Medical Center at Grapevine | 1650 W College St | Grapevine | TX | 76051
Baylor Regional Medical Center of Plano | 4700 Alliance Blvd | Plano | TX | 75093
Baylor University Medical Center | 3500 Gaston Ave | Dallas | TX | 75246
Bayshore Medical Center | 4000 Spencer Hwy | Pasadena | TX | 77504
Baystate Medical Center | 759 Chestnut St S-4553 | Springfield | MA | 01199
Bellevue Hospital Center | 462 1st Ave | New York | NY | 10016
Bellin Memorial Hospital | 744 S Webster Ave | Green Bay | WI | 54301
Benefis Healthcare | 1101 26th St S | Great Falls | MT | 59405-5161
Bert Fish Medical Center | 401 Palmetto St | New Smyrna Beach | FL | 32168
Beth Israel Deaconess Medical Center | 185 Pilgrim Rd | Boston | MA | 02215
Bethesda Memorial Hospital | 2815 S Seacrest Blvd | Boynton Beach | FL | 33435
Bethesda North Hospitals | 375 Dixmyth Ave | Cincinnati | OH | 45220-2489
Beverly Hospital | 85 Herrick St | Beverly | MA | 01915
Billings Clinic | 2800 10th Ave N | Billings | MT | 59101
Binghamton General Hospital-United Health Services Hospital Inc | 20-42 Mitchell Ave | Binghamton | NY | 13903
Blake Medical Center | 2020 59th St W | Bradenton | FL | 34209
Blanchard Valley Regional Health Center | 145 W Wallace St | Findlay | OH | 45840-1299
Blessing Hospital | Broadway at 11th St | Quincy | IL | 62301
Bloomington Hospital | 601 W 2nd St | Bloomington | IN | 47403
Blue Ridge HealthCare | 2201 S Sterling St | Morganton | NC | 28655
Boca Raton Community Hospital | 800 Meadows Rd | Boca Raton | FL | 33486
Bon Secours—St Mary's Hospital | 5801 Bremo Rd | Richmond | VA | 23226
Bon Secours DePaul Medical Center | 150 Kingsley Ln | Norfolk | VA | 23505
Bon Secours Maryview Medical Center | 3636 High St | Portsmouth | VA | 23707
Bon Secours-Memorial Regional Medical Center | 8260 Atlee Rd | Mechanicsville | VA | 23116
Borgess Medical Center | 1521 Gull Rd | Kalamazoo | MI | 49048
Boston Medical Center | 1 Boston Medical Pl | Boston | MA | 02118
Boswell Memorial Hospital | 10401 W Thunderbird Blvd | Sun City | AZ | 85351
Botsford General Hospital | 28050 Grand River Ave | Farmington Hills | MI | 48336
Boulder Community Hospital | 1100 Balsam Ave | Boulder | CO | 80304
Braddock Campus | 900 Seton Dr | Cumberland | MD | 21502
Brandon Regional Hospital | 119 Oakfield Dr | Brandon | FL | 33511
Brandywine Hospital | 201 Reeceville Rd | Coatesville | PA | 19320
Bridgeport Hospital | 267 Grant St | Bridgeport | CT | 6610
Brigham & Women's Hospital | 75 Francis St | Boston | MA | 02115
Bromenn Hospital | PO Box 2850 | Bloomington | IL | 61702-2850
Bronson Methodist Hospital | 601 John St | Kalamazoo | MI | 49007-5348
Brookdale Hospital & Medical Center | 1 Brookdale Plaza | Brooklyn | NY | 11212
Brooklyn Hospital Center | 121 Dekalb Ave | Brooklyn | NY | 11201
Brooksville Regional Hospital | 17240 Cortez Blvd | Brooksville | FL | 34601
Brookwood Medical Center | 2010 Brookwood Medical Center | Birmingham | AL | 35209
Brotman Medical Center | 3828 Delmas Terr | Culver City | CA | 90231
Broward General Medical Center | 1600 S Andrews Ave | Ft Lauderdale | FL | 33316
Bryan LGH Medical Center | 1600 S 48th St | Lincoln | NE | 68526
Bryn Mawr Hospital | 100 Lancaster Ave | Wynnewood | PA | 19096
Buffalo General Hospital | 100 High St | Buffalo | NY | 14203
Cabell Huntington Hospital | 1340 Hal Greer Blvd | Huntington | WV | 25701
California Pacific Medical Center | 2330 Clay St Rm 103 | San Francisco | CA | 94115
Camden-Clark Memorial Hospital | 800 Garfield Ave | Parkersburg | WV | 26101
Candler Hospital, Inc | 5353 Reynolds St | Savannah | GA | 31405
Cape Canaveral Hospital | 701 W Cocoa Beach Cswy | Cocoa Beach | FL | 32931
Cape Cod Hospital | 8 Park St | Hyannis | MA | 02601
Cape Fear Valley Health System | 303 Wagoner Dr | Fayetteville | NC | 28303-4646
Capital Regional Medical Center | 1125 Madison St PO Box 1128 | Jefferson City | MO | 65102-1128
Capital Regional Medical Center | 2626 Capital Medical Blvd | Tallahassee | FL | 32308
Cardiovascular Center of Puerto Rico | PO Box 366528 | San Juan | PR | 00936-6528
Carilion Roanoke Memorial Hospital | PO Box 13367 | Roanoke | VA | 24033-3367
Caritas Norwood Hospital | 800 Washington St | Norwood | MA | 02062
Caritas St Elizabeth's Medical Center | 736 Cambridge St | Boston | MA | 02135
Carle Foundation Hospital | 611 W Park St | Urbana | IL | 61801
Carolina Pines Regional Medical Center | 1304 W Bobo Newsome Hwy | Hartsville | SC | 29069
Carolinas Hospital System | 805 Pamplico Hwy | Florence | SC | 29505
Carolinas Medical Center | PO Box 32861 | Charlotte | NC | 28232
Carolinas Medical Center-Mercy | 2001 Vail Ave | Charlotte | NC | 28207
Carondelet Heart Institute at St Joseph Hospital Center | 1000 Carondelet Dr | Kansas City | MO | 64114
Carraway Methodist Medical Center | 1600 Carraway Blvd | Birmingham | AL | 35234
Carroll Hospital Center | 200 Memorial Ave | Westminster | MD | 21157
Carson Tahoe Regional Medical Center | 775 Fleischmann Way | Carson | NV | 89703
Castleview Hospital | 300 N Hospital Dr | Price | UT | 84501
Catholic Medical Center | 100 McGregor St | Manchester | NH | 03102-3770
Cedars-Sinai Health Systems | 8631 W 3rd St Ste 415 E | Los Angeles | CA | 90048
Centennial Medical Center | 12505 Lebanon Rd | Frisco | TX | 75035
Centennial Medical Center | 2300 Patterson St | Nashville | TN | 37203
Centinela Hospital Medical Center | 555 E Hardy St | Inglewood | CA | 90301
Central Baptist Hospital | 1800 Nicholasville Rd Ste 401 | Lexington | KY | 40503
Central DuPage Hospital | 25 N Winfield Rd | Winfield | IL | 60190
Central Florida Regional Hospital | 1401 W Seminole Blvd | Sandford | FL | 32771
Central Maine Medical Center | 300 Main St | Lewiston | ME | 4240
Central Minnesota Heart Center at St Cloud Hospital | 1406 6th Ave N | St Cloud | MN | 56303
Central Mississippi Medical Center | 1850 Chadwick Dr | Jackson | MS | 39204
CGH Medical Center | 100 E Le Fevre Rd | Sterling | IL | 61081
Charleston Area Medical Center | 501 Morris St | Charleston | WV | 25301
Charlotte Regional Medical Center | 809 E Marion Ave | Punta Gorda | FL | 33950
Chattanooga-Hamilton County Hospital Authority | 975 E 3rd St | Chattanooga | TN | 37403
Chesapeake General Hospital | 736 Battlefield Blvd N | Chesapeake | VA | 23320
Cheshire Medical Center | 580 Court St | Keene | NH | 03431
Chester County Hospital | 701 E Marshall St | W Chester | PA | 19380
Chester River Hospital Center | 100 Brown St | Chestertown | MD | 21620
Cheyenne Regional Medical Center | 214 E 23rd St | Cheyenne | WY | 82001
Christ Hospital, The | 2139 Auburn Ave | Cincinnati | OH | 45219
Christiana Care Health System | 4755 Ogletown-Stanton Rd | Newark | DE | 19718
Christus Hospital-St Mary | 3600 Gates Blvd | Port Arthur | TX | 77642
Christus Spohn Hospital Corpus Christi—Shoreline | 600 Elizabeth St | Corpus Christi | TX | 78404
Christus St Elizabeth Hospital | 2830 Calder St | Beaumont | TX | 77702
Christus St Michael Health System | 2600 St Michael Dr | Texarkana | TX | 75501
Christus St Patrick Hospital | 524 S Ryan St | Lake Charles | LA | 70602-3401
Christus-Schumpert Highland Hospital | 1 St Mary Pl | Shreveport | LA | 71101
Christus-St Frances Cabrini Hospital | 3330 Masonic Dr | Alexandria | LA | 71301
Citrus Memorial Health System | 502 W Highland Blvd | Inverness | FL | 34452
CJW Medical Center | 7101 Jahnke Rd | Richmond | VA | 23225-4044
Clarian Health Partners-Methodist Hospital Campus | 1701 N Senate Blvd Rm A1082 | Indianapolis | IN | 46202
Clark Memorial Hospital | 1220 Missouri Ave | Jeffersonville | IN | 47130
Clear Lake Regional Medical Center | 500 Medical Center Blvd | Webster | TX | 77598
Cleveland Clinic Foundation | 9500 Euclid Ave | Cleveland | OH | 44195
Cleveland Clinic Hospital | 3100 Weston Rd | Weston | FL | 33331
Coliseum Medical Centers | 350 Hospital Dr | Macon | GA | 31217
College Station Medical Center | 1602 Rock Prairie Rd | College Station | TX | 77842
Columbia Independence Health Center | 17203 E 23rd St | Independence | MO | 64057
Columbia North Hills Hospital | 4401 Booth Calloway Rd | N Richland Hills | TX | 76180
Columbia Regional Hospital | 1 Hospital Dr | Columbia | MO | 65212
Columbia St Mary's Hospital Milwaukee | 4425 N Port Washington Rd | Milwaukee | WI | 53212
Columbia St Mary's Hospital Ozaukee | 13111 N Port Washington Rd | Mequon | WI | 53097
Columbus Regional Hospital | 2400 17th St | Columbus | IN | 47201
Comanche County Memorial Hospital | 3401 W Gore Blvd | Lawton | OK | 73505
Community Health Partners | 3700 Kolbe Rd | Lorain | OH | 44053
Community Hospital | 2615 E High St | Springfield | OH | 45505
Community Hospital | 901 MacArthur Blvd | Munster | IN | 46321
Community Hospital & Wellness Center | 433 W High St | Bryan | OH | 43506
Community Hospital East | 1500 N Ritter Ave | Indianapolis | IN | 46219
Community Hospital of the Monterey Peninsula | PO Box HH | Monterey | CA | 93942-1085
Community Hospital South | 1500 N Ritter Ave | Indianapolis | IN | 46219-3027
Community Medical Center | 1800 Mulberry St | Scranton | PA | 18510
Community Medical Center | 99 Hwy 37 W | Toms River | NJ | 08775
Community Medical Center-Clovis | 2755 Herndon Ave | Clovis | CA | 93611
Community Memorial Hospital | 147 N Brent St | Ventura | CA | 93003
Community Memorial Hospital | W180 N8085 Town Hall Rd | Menomonee Falls | WI | 53052
Concord Hospital | 250 Pleasant St | Concord | NH | 03301
Condell Medical Center | 801 S Milwaukee Ave | Libertyville | IL | 60048
Conroe Regional Medical Center | 504 Medical Center Blvd | Conroe | TX | 77304
Conway Regional Medical Center | 2302 College Ave | Conway | AR | 72032-6226
Cookeville Regional Medical Center | 142 W 5th St | Cookeville | TN | 38501-1760
Cooley Dickinson Hospital | 30 Locust St | Northampton | MA | 01060
Cooper University Hospital | 1 Cooper Plaza | Camden | NJ | 08103
Coral Gables Hospital | 3100 Douglas Rd | Coral Gables | FL | 33134
Coral Springs Medical Center | 3000 Coral Hills Dr | Coral Springs | FL | 33065
Corpus Christi Medical Center | 7101 S Padre Island Dr | Corpus Christi | TX | 78412
Covenant Healthcare | 1447 N Harrison St | Saginaw | MI | 48602
Covenant Heart Institute | 3615 19th St | Lubbock | TX | 79410
Cox Medical Center South | 3801 S National Ave | Springfield | MO | 65807
Craven Regional Medical Center | 2000 Neuse Blvd | New Bern | NC | 28561
Creighton University Medical Center | 601 N 30th St | Omaha | NE | 68131
Crittenton Hospital Medical Center | 1101 W University Dr | Rochester | MI | 48307-1831
Crouse Hospital | 736 Irving Ave | Syracuse | NY | 13210
Crozer Chester Medical Center | 1 Medical Center Blvd | Chester | PA | 19013-3995
CVPH Medical Center | 75 Beekman St | Plattsburgh | NY | 12901
Dakota Clinic | 3000 32nd Ave SW | Fargo | ND | 58104
Dameron Hospital | 525 W Acacia St | Stockton | CA | 95203
Danbury Hospital | 24 Hospital Ave | Danbury | CT | 06810-6099
Davis Hospital | 1600 W Antelope Dr | Layton | UT | 84041
Dayton Heart Hospital | 707 S Edwin C Moses Blvd | Dayton | OH | 45408
DCH Regional Medical Center | 809 University Blvd E | Tuscaloosa | AL | 35401-2029
Deaconess Hospital | 311 Straight St | Cincinnati | OH | 45219
Deaconess Hospital | 5501 N Portland Ave | Oklahoma City | OK | 73112
Deaconess Hospital | 600 Mary St | Evansville | IN | 47747
Deaconess Medical Center | 800 W 5th Ave | Spokane | WA | 99204
Deborah Heart & Lung Center | 200 Trenton Rd | Browns Mills | NJ | 08015
Decatur General Hospital | 1201 7th St SE | Decatur | AL | 35601
Degraff Memorial Hospital | 445 Tremont St | N Tonawanda | NY | 14120
Dekalb Regional Medical Center | 200 Medical Center Dr | Ft Payne | AL | 35968
Del Sol Medical Center | 10301 Gateway W | El Paso | TX | 79925
Delray Medical Center | 5352 Linton Blvd | Delray Beach | FL | 33484
Denton Regional Medical Center | 3535 S I-35 | Denton | TX | 76205
Denver Health Medical Center | 777 Bannock St | Denver | CO | 80204
DePaul Health Center | 12303 DePaul Dr | Bridgeton | MO | 63044
Des Peres Hospital | 2345 Dougherty Ferry Rd | St Louis | MO | 63122
Desert Regional Medical Center | 1150 N Indian Canyon Dr | Palm Springs | CA | 92262
Desert Valley Hospital | 16850 Bear Valley Rd | Victorville | CA | 92392
Dixie Regional Medical Center | 1380 E Medical Dr | St George | UT | 84790
Doctors Hospital | 5000 University Dr | Miami | FL | 33146
Doctors Hospital | 5100 W Broad St | Columbus | OH | 43228
Doctors Hospital | 9440 Poppy Dr | Dallas | TX | 75218
Doctors Hospital—Augusta | 3651 Wheeler Dr | Augusta | GA | 30909
Doctors Hospital at Renaissance | 5501 S McColl Rd | Edinburg | TX | 78539
Doctors Hospital of Laredo | 10700 McPherson Rd | Laredo | TX | 78045
Doctors Hospital of Sarasota | 5731 Bee Ridge Rd | Sarasota | FL | 34233
Doctors Hospital of Stark | 400 Austin Ave | Massillon | OH | 44646
Doctors Medical Center | 2000 Vale Rd | San Pablo | CA | 94806
Downey Regional Medical | 11500 Brookshire Ave | Downey | CA | 90241
Doylestown Hospital | 595 W State St | Doylestown | PA | 18901
DuBois Regional Medical Center | PO Box 447 | DuBois | PA | 15801-1440
Duke Health Raleigh Hospital | 3400 Wake Forest Rd | Raleigh | NC | 27609
Duke University Hospital | 2301 Erwin Rd | Durham | NC | 27710
Dunn Memorial Hospital | 1600 23rd St | Bedford | IN | 47421
Durham Regional Hospital | 3643 N Roxboro Rd | Durham | NC | 27710
East Alabama Medical Center | 2000 Pepperell Pkwy | Opelika | AL | 36804
East Georgia Regional Medical Center | 1499 Fair Rd | Statesboro | GA | 30459
East Jefferson General Hospital | 4200 Houma Blvd | Metairie | LA | 70006
East Ohio Regional Hospital | 90 N 4th St | Martins Ferry | OH | 43935
East Texas Medical Center | 1000 S Beckham Ave | Tyler | TX | 75711
Eastern Idaho Regional Medical Center | 3100 Channing Way | Idaho Falls | ID | 83404
Eastern Maine Medical Center | 489 State St | Bangor | ME | 04401
Easton Hospital (Northampton Hospital Corp) | 250 S 21st St | Easton | PA | 18042
Edward Hospital | 120 Spalding Dr #205 | Naperville | IL | 60540
Eisenhower Medical Center | 39000 Bob Hope Dr | Rancho Mirage | CA | 92270
El Camino Hospital | 2500 Grant Rd | Mountain View | CA | 94040
Eliza Coffee Memorial Hospital | 205 Marengo St | Florence | AL | 35630
Elkhart General Hospital | 600 East Blvd | Elkhart | IN | 46514-2499
Elliot Hospital | 1 Elliot Way | Manchester | NH | 03103
Ellis Hospital | 1101 Nott St | Schenectady | NY | 12308
Elmhurst Memorial Hospital Marquardt Memorial Lib | 200 Berteau Ave | Elmhurst | IL | 60126
EMH Regional Medical Center | 630 E River St | Elyria | OH | 44035
Emory Crawford Long Hospital | 550 Peachtree St | Atlanta | GA | 30308
Emory Dunwoody Medical Center | 4575 N Shallowford Rd | Atlanta | GA | 30338
Emory Eastside Medical Center | 1700 Medical Way | Snellville | GA | 30078
Emory University Hospital | 1364 Clifton Rd NE #C-408 | Atlanta | GA | 30322
Encino-Tarzana Regional Medical Center | 18321 Clark St | Tarzana | CA | 91356-3501
Englewood Hospital & Medical Center | 350 Engle St | Englewood | NJ | 07631
Enloe Medical Center | 1600 Esplanade | Chico | CA | 95926
Erie County Medical Center | 462 Grider St | Buffalo | NY | 14215
Evanston Hospital | 2650 Ridge Ave | Evanston | IL | 60626
Excela Health Westmoreland Hospital | 532 W Pittsburgh St | Greensburg | PA | 15601
Exempla Good Samaritan Medical Center | 200 Exempla Cir | Lafayette | CO | 80026
Exempla Lutheran Medical Center | 8300 W 38th Ave | Wheat Ridge | CO | 80033
Exempla St Joseph Hospital | 2420 W 26th Ave Bld D Ste 140 | Denver | CO | 80211
Exeter Hospital | 10 Buzell Ave | Exeter | NH | 03833
Fairfield Cardiac Cath Labs | 3000 Mack Rd Ste 200 | Fairfield | OH | 45014
Fairfield Medical Center | 401 N Ewing St | Lancaster | OH | 43130
Fairview General Hospital | 18101 Lorain Ave | Cleveland | OH | 44111
Fairview Park Hospital | 200 Industrial Blvd | Dublin | GA | 31021
Fairview Southdale Hospital | 6401 France Ave S | Edina | MN | 55435
Fawcett Memorial Hospital | 21298 Olean Blvd | Port Charlotte | FL | 33949-4960
FE Lajam MD PC | 140-04 58th Rd | Flushing | NY | 11355
FHN Memorial Hospital | 1045 W Stephenson St | Freeport | IL | 61032
FirstHealth Moore Regional Hospital | 155 Memorial Dr | Pinehurst | NC | 28374
Flagler Hospital | 400 Health Park Blvd | St Augustine | FL | 32086
Fletcher Allen Health Care | 111 Colchester Ave | Burlington | VT | 05401
Flordia Hospital | 220 Winter Park St | Orlando | FL | 32803
Flordia Hospital Ormond Memorial | 875 Sterthaus Ave | Ormond Beach | FL | 32174
Flordia Hospital Zephyrhills | 7050 Gall Blvd | Zephyrhills | FL | 33541
Florida Hospital Waterman Inc | 1000 Waterman Way | Tavares | FL | 32778
Florida Medical Center | 5000 W Oakland Park Blvd | Ft Lauderdale | FL | 33313-1585
Floyd Medical Center | 304 Turner McCall Blvd | Rome | GA | 30162
Floyd Memorial Hospital | 1850 State St | New Albany | IN | 47150
Forrest General Hospital | 6051 Hwy 49 S | Hattiesburg | MS | 39404-6389
Forsyth Medical Center | 3333 Silas Creek Pkwy | Winston-Salem | NC | 27103
Fort Sanders Regional Medical Center | 1901 Clinch Ave | Knoxville | TN | 37916-2307
Fort Walton Beach Medical Center | 1000 Mar Walt Dr | Ft Walton Beach | FL | 32547
Forum Health—Northside Medical Center | 500 Gypsy Ln | Youngstown | OH | 44501-0240
Fountain Valley Regional Hospital | 17100 Euclid St | Fountain Valley | CA | 92708-4004
Frankford Hospital | Knights Rd & Red Lion Rd | Philadelphia | PA | 19114
Frankfort Regional Medical Center | 299 Kings Daughter Dr | Frankfort | KY | 40601
Franklin Square Hospital | 9000 Franklin Square Dr | Baltimore | MD | 21237
Freeman Hospital | 1102 W 32nd St | Joplin | MO | 64804
Freeport Health Network | 1045 W Stephenson St | Freeport | IL | 61032
Fremont Area Medical Center | 450 E 23rd St | Fremont | NE | 68025
French Hospital Medical Center | 1911 Johnson Ave | San Luis Obispo | CA | 93401
Fresno Community Hospital & Medical Center | 110 N Valeria St #103 | Fresno | CA | 93710
Fresno Heart Hospital | 15 E Audubon Dr | Fresno | CA | 93720
Froedtert Hospital | 9200 W Wisconsin Ave | Milwaukee | WI | 53226
Frye Regional Medical Center | 420 N Center St | Hickory | NC | 28601
Gadsden Regional Medical Center | 1007 Goodyear Ave | Gadsden | AL | 35903
Galichia Heart Hospital | 2610 N Woodlawn St | Wichita | KS | 67220
Garden City Hospital | 6245 Inkster Rd | Garden City | MI | 48135
Garden Grove Hospital | 12601 Garden Grove Blvd | Garden Grove | CA | 92843
Gaston Memorial Hospital | 2525 Court Dr | Gastonia | NC | 28054
Gateway Medical Center—Gateway Health System | 1771 Madison St | Clarksville | TN | 37043
Gateway Regional Medical Center | 2100 Madison Ave | Granite City | IL | 62040
Geisinger Medical Center | 100 N Academy Ave | Danville | PA | 17822-2160
Geisinger Wyoming Valley Medical Center | 100 N Academy Ave | Danville | PA | 17822-2160
Genesis Medical Center | 1236 East Rusholme St Ste 190 | Davenport | IA | 52803-2459
Genesis Medical Center | 801 Illini Dr | Silvis | IL | 61282
Genesys Regional Medical Center | 1 Genesys Pkwy | Grand Blanc | MI | 48439
George Washington University Hospital, The | 900 23rd St NW | Washington | DC | 20037
Georgetown University Hospital | 3800 Reservoir Rd NW | Washington | DC | 20007
Gerald Champion Regional Medical Center | 2669 N Scenic Dr | Alamogordo | NM | 88310
Glenbrook Hospital | 2100 Pfingsten Rd | Glenview | IL | 60026
Glendale Adventist Medical Center | 1509 Wilson Terr | Glendale | CA | 91206
Glens Falls Hospital | 100 Park St | Glens Falls | NY | 12801
Glenwood Regional Medical Center | 503 McMillan Rd | W Monroe | LA | 71291
Good Samaritan Heart Center | 520 S 7th St | Vincennes | IN | 47591
Good Samaritan Hospital | 10 E 31st St | Kearney | NE | 68848
Good Samaritan Hospital | 1225 Wilshire Blvd | Los Angeles | CA | 90017
Good Samaritan Hospital | 2425 Samaritan Dr | San Jose | CA | 95124
Good Samaritan Hospital | 255 Lafayette Ave | Suffern | NY | 10901
Good Samaritan Hospital | 375 Dixmyth Ave | Cincinnati | OH | 45220-2489
Good Samaritan Hospital | 3815 Highland Ave | Downers Grove | IL | 60515
Good Samaritan Hospital | 605 N 12th St | Mount Vernon | IL | 62864
Good Samaritan Hospital & Health Center | 2222 Philadelphia Dr | Dayton | OH | 45406
Good Samaritan Hospital Cardiology | 1000 Montauk Hwy | W Islip | NY | 11795
Good Samaritan Hospital of Maryland | 5601 Loch Raven Blvd | Baltimore | MD | 21239
Good Samaritan Regional Medical Center | 3600 NW Samaritan Dr | Corvallis | OR | 97330
Good Shepherd Medical Center | 700 E Marshall Ave | Longview | TX | 75601
Gov Juan F Luis Hospital & Medical Center | 4007 Estate Diamond Ruby | Christiansted | VI | 00820
Graduate Hospital | 1800 Lombard St | Philadelphia | PA | 19146
Grady Memorial Hospital | 561 W Central Ave | Delaware | OH | 43015-1489
Grand View Hospital | 700 Lawn Ave | Sellersville | PA | 18960
Grandview Medical Center | 405 Grand Ave | Dayton | OH | 45405
Grant Medical Center | 111 S Grant Ave | Columbus | OH | 43215
Gratiot Medical Center | 300 E Warwick Dr | Alma | MI | 48801
Great Plains Regional Medical Center | PO Box 2339 | Elk City | OK | 73648
Greater Baltimore Medical Center | 6701 N Charles St | Baltimore | MD | 21204
Greenville Memorial Hospital | 701 Grove Rd | Greenville | SC | 29605
Greenwich Hospital | 5 Perryridge Rd | Greenwich | CT | 06830
Gulf Coast Medical Center | 1400 Hwy 59 | Wharton | TX | 77488
Gulf Coast Medical Center | 449 W 23rd St | Panama City | FL | 32406-5309
Gundersen Lutheran Medical Center | 1910 South Ave | LaCrosse | WI | 54601
Gwinnett Hospital System | 1000 Medical Center Blvd | Lawrenceville | GA | 30045
Hackensack University Medical Center | 30 Prospect Ave | Hackensack | NJ | 07601
Hackley Hospital General Fund | 1700 Clinton St | Muskegon | MI | 49443
Hahnemann University Hospital | 230 N Broad St | Philadelphia | PA | 19102
Halifax Medical Center | 303 N Clyde Morris Blvd | Daytona Beach | FL | 32114-2732
Halifax Regional Hospital | 2204 Wilborn Ave | S Boston | VA | 24592
Hamilton Medical Center | 1200 Memorial Dr | Dalton | GA | 30720
Hamot Medical Center | 201 State St | Erie | PA | 16550
Hannibal Regional Hospital | 6000 Hospital Dr | Hannibal | MO | 63401
Harbor Hospital Center | 3001 S Hanover St | Baltimore | MD | 21225
Hardin Memorial Hospital | 913 N Dixie Ave | Elizabethtown | KY | 42701-2599
Harlingen Medical Center | 5501 S Expressway 77 | Harlingen | TX | 78550
Harper University Hospital | 3990 John R St | Detroit | MI | 48201
Harris County Hospitals | 1504 Taub Loop | Houston | TX | 77030
Harris Methodist Fort Worth | 1301 Pennsylvania Ave | Ft Worth | TX | 76104
Harris Methodist HEB | 1600 Hospital Pkwy | Bedford | TX | 76022
Harrison Medical Center | 2520 Cherry Ave | Bremerton | WA | 98310
Hartford Hospital | 80 Seymour St | Hartford | CT | 06102
Harton Regional Medical Center | 1801 N Jackson St | Tullahoma | TN | 37388
Havasu Regional Medical Center | PO Box 3030 | Lake Havasu City | AZ | 86405
Hays Medical Center | 2220 Canterbury Dr | Hays | KS | 67601
Hazard ARH Regional Medical Center | 100 Medical Center Dr | Hazard | KY | 41701
HealthQuest | 45 Reade Pl | Poughkeepsie | NY | 12601
Heart & Lung Clinic | 900 E Broadway Box 5510 | Bismarck | ND | 58502
Heart Center of Indiana | 8333 Nabb Rd Ste 330 | Indianapolis | IN | 46290
Heart Hospital of Austin | 3801 N Lamar Blvd | Austin | TX | 78756
Heart Hospital of Lafayette | 1105 Kaliste Saloom Rd | Lafayette | LA | 70508
Heart Hospital of New Mexico | 504 Elm St NE | Albuquerque | NM | 87102
Heart Hospital of Northwest Texas, The | 1501 S Coulter St | Amarillo | TX | 79106
Heart of Florida Regional Medical Center | 40100 Hwy 27 | Davenport | FL | 33837
Heart of Lancaster Regional Medical Center | 250 College Ave | Lancaster | PA | 17604
Heartland Regional Medical Center | 3333 W Deyoung St | Marion | IL | 62959
Heartland Regional Medical Center | 5325 Faraon St | St Joseph | MO | 64506-3373
Helen Ellis Memorial | 1395 S Pinellas Ave | Tarpon Springs | FL | 34689
Helen Keller Hospital | 1300 S Montgomery Ave | Sheffield | AL | 35660
Hendrick Medical Center | 1900 Pine St | Abilene | TX | 79601
Hennepin County Medical Center | 701 Park Ave | Minneapolis | MN | 55415-1829
Henrico Doctors Hospital | 1602 Skipwith Dr | Richmond | VA | 23229
Henry Ford Hospital | 2799 W Grand Blvd | Detroit | MI | 48202
Henry Mayo Newhall Memorial Hospital | 23845 McBean Pkwy | Valencia | CA | 91355
Henry Medical Center | 1133 Eagles Landing Pkwy | Stockbridge | GA | 30281
Heritage Valley Health System | 1000 Dutch Ridge Rd | Beaver | PA | 15009
Hialeah Hospital | 651 E 25 St | Hialeah | FL | 33013
High Point Regional Hospital | PO Box HP-5 | High Point | NC | 27261
Highland Park Hospital | 718 Glenview Ave | Highland Park | IL | 60035
Highlands Regional Medical Center | 5000 Rt 321 | Prestonsburg | KY | 41653
Hillcrest Hospital | 6780 Mayfield Rd | Mayfield Heights | OH | 44124
Hillcrest Medical Center | 1120 S Utica Ave | Tulsa | OK | 74104
Hilton Head Regional Medical Center | 25 Hospital Center Blvd | Hilton Head | SC | 29925
Hinsdale Hospital | 120 N Oak St | Hinsdale | IL | 60521
Hoag Memorial Hospital Presbyterian | 1 Hoag Dr | Newport Beach | CA | 92658
Hollywood Medical Center | 3600 Washington St | Hollywood | FL | 33021
Hollywood Medical Center | 3600 Washington St | Hollywood | FL | 33021
Holmes Regional Medical Center | 1355 S Hickory St Ste 203 | Melbourne | FL | 32901
Holy Cross Hospital | 2701 W 68th St | Chicago | IL | 60629
Holy Cross Hospital | 4725 N Federal Hwy | Ft Lauderdale | FL | 33308
Holy Cross Hospital—Medical Library | 1500 Forest Glen Rd | Silver Spring | MD | 20910
Holy Spirit Health System | 503 N 21st St | Camp Hill | PA | 17011-2204
Hospital at Westlake Medical Center, The | 5656 Bee Caves Rd M-302 | Austin | TX | 78746
Hospital Auxilio Mutuo | PO Box 1227 | San Juan | PR | 00919
Hospital of St Raphael | 1450 Chapel St | New Haven | CT | 06511
Hospital of the University of Pennsylvania | 3400 Spruce St Rm 9011 E Gates Bldg | Philadelphia | PA | 19104
Houston Northwest Medical Center | 710 FM 1960 Rd W | Houston | TX | 77090
Howard County General Hospital | 5755 Cedar Ln | Columbia | MD | 21044
Howard Regional Health System | 3500 S Lafountain St | Kokomo | IN | 46904-9011
Howard University Hospital | 2041 Georgia Ave | Washington | DC | 20060
Huguley Memorial Medical Center | 11801 South Fwy | Ft Worth | TX | 76115
Huntington Hospital | 100 W California Blvd | Pasadena | CA | 91109
Huntington Hospital | 270 Park Ave | Huntington | NY | 11743
Huntsville Hospital | 101 Sivley Rd | Huntsville | AL | 35801
Hutchinson Hospital | 1701 E 23rd Ave | Hutchinson | KS | 67502
Iberia Medical Center | 2315 E Main St | New Iberia | LA | 70560
Immanuel-St Joseph's Hospital | 1025 Marsh St | Mankato | MN | 56002
Imperial Point Medical Center | 6401 N Federal Hwy | Ft Lauderdale | FL | 33308
Indian River Memorial Hospital | 1000 36th St | Vero Beach | FL | 32960
Indiana Heart Hospital, The | 8075 N Shadeland Ave | Indianapolis | ID | 46250
Indiana Regional Medical Center | 835 Hospital Rd | Indiana | PA | 15701
Ingalls Hospital | 1 Ingalls Dr | Harvey | IL | 60426
Ingham Regional Medical Center | 401 W Greenlawn Ave | Lansing | MI | 48910
Inland Valley Medical Center | 36485 Inland Valley Dr | Wildomar | CA | 92595
Inova Alexandria Hospital | 4320 Seminary Rd | Alexandria | VA | 22304
Inova Fairfax Hospital | 3300 Gallows Rd | Falls Church | VA | 22042
INTEGRIS Baptist Medical Center | 3300 NW Expressway | Oklahoma City | OK | 73112
Integris Health | 600 S Monroe St | Enid | OK | 73701
Integris Southwest Medical Center | 4401 S Western St | Oklahoma City | OK | 73109
Iowa Lutheran Hospital | 200 Pleasant St | Des Moines | IA | 50309
Iowa Methodist Medical Center | 1200 Pleasant St Ste 300A | Des Moines | IA | 50309
Iredell Memorial Hospital | 557 Brookdale Dr | Statesville | NC | 28687
Iroquois Memorial Hospital | 200 Fairman Ave | Watseka | IL | 60970
Irvine Regional Hospital & Medical Center | 16200 Sand Canyon Ave | Irvine | CA | 92618-3701
Jackson Hospital & Clinic | 1725 Pine St | Montgomery | AL | 36106
Jackson Madison General Hospital | 708 W Forrest Ave | Jackson | TN | 38301
Jackson Memorial Hospital | 1611 NW 12th Ave | Miami | FL | 33136
Jane Phillips Memorial Medical Center | 3500 Frank Phillips Blvd | Bartlesville | OK | 74006
Jeff Anderson Regional Medical Center | 2124 14th St | Meridian | MS | 39301
Jefferson Memorial Hospital | PO Box 350 | Crystal City | MO | 63019
Jefferson Regional Medical Center | 565 Coal Valley Rd | Pittsburgh | PA | 15236-0119
Jennie Edmindson Memorial Hospital | 933 E Pierce St | Council Bluffs | IA | 51503
Jersey City Medical Center | 355 Grand St | Jersey City | NJ | 07307
Jersey Shore University Medical Center | 1945 Rte 33 | Neptune | NJ | 07753
Jewish Hospital | 200 Abraham Flexner Way | Louisville | KY | 40202
JFK Medical Center | 5631 Glencrest Blvd | Tampa | FL | 33625-1008
John C Lincoln Hospital—Deer Valley | 19829 N 27th Ave | Phoenix | AZ | 85027-4002
John C Lincoln Hospital—North Mountain | 250 E Dunlap Ave | Phoenix | AZ | 85020-2871
John F Kennedy Memorial Hospital | 47-111 Monroe St | Indio | CA | 92201
John Muir Health System—Concord | 2540 East St | Concord | CA | 94520
John Muir Health System—Walnut Creek | 1601 Ygnacio Valley Rd | Walnut Creek | CA | 94550
Johns Hopkins Bayview Medical Center | 4940 Eastern Ave | Baltimore | MD | 21224
Johns Hopkins Hospital | 600 N Wolfe St | Baltimore | MD | 21287
Johnson City Medical Center Hospital | 400 N State of Franklin Rd | Johnson City | TN | 37604
Kaiser Foundation Hospital | 6600 Bruceville Rd | Sacramento | CA | 95823
Kaiser Permanente | 4647 Zion Ave | San Diego | CA | 92120
Kaiser Permanente—Moanalua Medical Center | 3288 Moanalua Rd | Honolulu | HI | 96819
Kaleida Health Buffalo General Foundation | 726 Exchange St | Buffalo | NY | 14210
Kansas Heart Hospital | 3601 N Webb Rd | Wichita | KS | 67226
Kansas University Hospital Authority | 3901 Rainbow Blvd | Kansas City | KS | 66160
Kapi'olani Medical Center Pali Momi | 98-1079 Moanalua Rd | Aiea | HI | 96701
Katherine Shaw Bethea Hospital | 403 E 1st St | Dixon | IL | 61021
Kaweah Delta Hospital District | 400 W Mineral King Ave | Visalia | CA | 93291
Kenmore Mercy Hospital | 515 Abbott Rd | Buffalo | NY | 14220
Kenner Regional Medical Center | 180 W Esplanade Ave | Kenner | LA | 70065
Kennestone Hospital | 677 Church St | Marietta | GA | 30066
Kershaw County Medical Center | 1315 Roberts St | Camden | SC | 29020
Kettering Medical Center | 35235 Southern Blvd | Kettering | OH | 45429
Kingman Regional Medical Center | 3269 Stockton Hill Rd | Kingman | AZ | 86401
Kings Daughters Medical Center | 2201 Lexington Ave | Ashland | KY | 41101
Kingwood Medical Center | 22999 Hwy 59 N | Kingwood | TX | 77339
Kootenai Medical Center | 2003 Lincoln Way | Coeur D Alene | ID | 83814
Kuakini Medical Center | 347 N Kuakini St | Honolulu | HI | 96817
Labette County Medical Center | 1920 S U.S. Hwy 59 | Parson | KS | 67357
Lafayette General Medical Center | 1214 Coolidge Ave | Lafayette | LA | 70505
LaGrange Memorial Hospital | 120 N Oak St | Hinsdale | IL | 60521
Lahey Clinic | 41 Mall Rd | Burlington | MA | 01805
Lake Charles Memorial Hospital | 1701 Oak Park Blvd | Lake Charles | LA | 70601
Lake Cumberland Regional Hospital | 305 Langdon St | Somerset | KY | 42503
Lake Hospital System | 36000 Euclid Ave | Willoughby | OH | 44094
Lake Norman Regional Medical Center | 171 Fairview Rd | Mooresville | NC | 28117
Lake Regional Health System | 54 Hospital Dr | Osage Beach | MO | 65065
Lakeland Hospital | 1234 Napier Ave | St Joseph | MI | 49085-2112
Lakeland Regional Medical Center | 1324 Lakeland Hills Blvd | Lakeland | FL | 33805
Lakeside Hospital | 6901 N 72nd St Ste 3300 | Omaha | NE | 68122
Lakeview Regional Medical Center | 95 E Fairway Dr | Covington | LA | 70433-7500
Lakewood Hospital | 14519 Detroit Ave | Lakewood | OH | 44107
Lakewood Regional Medical Center | 3700 E South St | Lakewood | CA | 90712
Lancaster Community Hospital | 43830 N 10th St W | Lancaster | CA | 93534
Lancaster General Hospital | 555 N Duke St | Lancaster | PA | 17604-3555
Lancaster Regional Medical Center | 250 College Ave | Lancaster | PA | 17604
Landmark Medical Center | 115 Cass Ave | Woonsocket | RI | 02895
Lankenau Hospital | 100 Lancaster Ave | Wynnewood | PA | 19096
Laredo Medical Center | 1720 Bustamante St | Laredo | TX | 78044
Largo Medical Center | 201 14th St SW | Largo | FL | 33770
Las Colinas Medical Center | 6800 N MacArthur Blvd | Irving | TX | 75039
Las Palmas Medical Center | 1801 N Oregon St | El Paso | TX | 79902
Lawrence & Memorial Hospital | 365 Montauk Ave | New London | CT | 06375
Lawrence Hospital | 55 Palmer Ave | Bronxville | NY | 10708-3491
LDS Hospital | 8th Ave & C St | Salt Lake City | UT | 84143
Lee Memorial Health System-Cape Coral Hospital | 276 Cleveland Ave | Ft Myers | FL | 33901
Lee Memorial Health System-Health Park Medical Center | 276 Cleveland Ave | Ft Myers | FL | 33901
Leesburg Regional Medical Center | 600 E Dixie Ave | Leesburg | FL | 34748
Legacy Emanuel Hospital | 1919 NW Lovejoy St | Portland | OR | 97209
Legacy Good Samaritan Hospital | 1919 NW Lovejoy St | Portland | OR | 97209
Lehigh Regional Medical Center | 1500 Lee Blvd | Lehigh Acres | FL | 33963
Lehigh Valley Hospital | 1200 S Cedar Crest Blvd | Allentown | PA | 18105
Lehigh Valley Hospital/Muhlenberg | PO Box 689 | Allentown | PA | 18105
Lenox Hill Heart & Vascular Institute of New York | 100 E 77th St | New York | NY | 10021
Lewis Gale Medical Center | 1900 Electric Rd | Salem | VA | 24153
Liberty Hospital | 2525 Glenn Hendren Dr | Liberty | MO | 64068
Lima Memorial Hospital | 1001 Bellefontaine Ave | Lima | OH | 45804
Lincoln County Medical Center | 1000 E Cherry St | Troy | MO | 63379
Little Company of Mary Hospital | 2800 W 95th St | Evergreen Park | IL | 60805
Little Company of Mary Hospital | 4101 Torrance Blvd | Torrance | CA | 90503
Logan General Hospital, LLC | 20 Hospital Dr | Logan | WV | 25601
Loma Linda University Medical Center | 11234 Anderson St | Loma Linda | CA | 92354
Long Beach Memorial Medical Center | 2801 Atlantic Ave | Long Beach | CA | 90806
Long Island College Hospital | 339 Hicks St | Brooklyn | NY | 11201
Long Island Jewish Medical Center | 270-05 76th Ave | New Hyde Park | NY | 11040
Longmont United Hospital | 1950 Mountain View Ave | Longmont | CO | 80501
Longview Regional Medical Center | PO Box 14000 | Longview | TX | 75607
Los Robles Hospital & Medical Center | 215 W Janss Rd | Thousand Oaks | CA | 91360-1899
Louisiana Heart Hospital | 64030 Hwy 434 | Lacombe | LA | 70445
Lourdes Hospital | 1530 Lone Oak Rd | Paducah | KY | 42003
Lovelace Medical Center | 5400 Gibson Blvd SE | Albuquerque | NM | 87108
Lowell General Hospital | 295 Varnum Ave | Lowell | MA | 01854
Lower Bucks Hospital | 501 Bath Rd | Bristol | PA | 19007
Lower Keys Medical Center | 5900 College Rd | Key West | FL | 33040
LSUHSC-Cath Lab | 1501 Kings Hwy | Shreveport | LA | 71130
Lubbock Heart Hospital | 4810 N Loop 289 | Lubbock | TX | 79416
Luther Hospital | 1221 Whipple St | Eau Claire | WI | 54703
Lutheran Hospital of Indiana | 7950 W Jefferson Blvd | Ft Wayne | IN | 46804
Lynchburg General Hospital | 1901 Tate Springs Rd | Lynchburg | VA | 24501-1167
MacNeal Hospital | 3249 S Oak Park Ave | Berwyn | IL | 60402
Magnolia Regional Health Center | 611 Alcorn Dr | Corinth | MS | 38834
Maimonides Medical Center | 4802 10th Ave | Brooklyn | NY | 11219
Maine Medical Center | 22 Bramhall St | Portland | ME | 04102
Manatee Memorial Hospital | 206 2nd St E | Bradenton | FL | 34208
Maricopa Medical Center | 2601 E Roosevelt St | Phoenix | AZ | 85008
Marin General Hospital | 250 Bon Air Rd | Greenbrae | CA | 94904
Marion General Hospital | 1000 McKinley Park Dr | Marion | OH | 43302-6397
Marion General Hospital | 441 N Wabash Ave | Marion | IN | 46952
Marquette General Health System | 420 W Magnetic St | Marquette | MI | 49855
Marquette General Hospital System | 580 W College Ave | Marquette | MI | 49855
Marshall University School of Medicine | 1600 Medical Center Dr | Huntington | WV | 25701
Martha Jefferson Hospital | 459 Locust Ave | Charlottesville | VA | 22902
Martin Memorial Medical Center | 300 SE Hospital Ave | Stuart | FL | 34994
Mary Black Hospital | 1700 Skylyn Dr | Spartanburg | SC | 29307
Mary Greeley Medical Center | 1111 Duff Ave | Ames | IA | 50010
Mary Hitchcock Memorial Hospital | 1 Medical Center Dr | Lebanon | NH | 03756
Mary Rutan Hospital | 205 Palmer Ave | Bellefontaine | OH | 43311
Mary Washington Hospital | 1001 Sam Perry Blvd | Fredericksburg | VA | 22401
Marymount Medical Center | 310 E 9th St | London | KY | 40741
Massachusetts General Hospital | 55 Fruit St | Boston | MA | 02114
Maury Regional Hospital | 1224 Trotwood Ave | Columbia | TN | 38401
Mayo Clinic Arizona | 5777 E Mayo Blvd | Phoenix | AZ | 85054
Mayo Clinic-St Mary's Hospital | 200 1st St SW | Rochester | MN | 55905
McAlester Regional Health Center | 1 Clark Bass Blvd | McAlester | OK | 74501
McAllen Medical Center | 301 W Expressway 83 | McAllen | TX | 78503
MCG Health Inc | 1120 15th St BBR-6524 | Augusta | GA | 30912
McKay-Dee Hospital Center | 4401 Harrison Blvd | Ogden | UT | 84405
McKee Medical Center | 2000 Boise Ave | Loveland | CO | 80538
McLaren Regional Medical Center | 401 S Ballenger Hwy | Flint | MI | 48532
McLeod Regional Medical Center | 555 E Chaves St | Florence | SC | 29501
Meadowcrest Hospital | 2500 Belle Chasse Hwy | Gretna | LA | 70056
Mease Countryside Hospital | 3231 McCullen Booth Rd | Safety Harbor | FL | 34695
Mease Dunedin Hospital | 207 Jeffords St MS 142 | Clearwater | FL | 33756
Med Central/Mansfield Hospital | 335 Glessner Ave | Mansfield | OH | 44903
Medcenter One | 300 N 7th St | Bismarck | ND | 58501
Medical Center at Bowling Green | 250 Park St | Bowling Green | KY | 42101
Medical Center East | 50 Medical Park E Dr | Birmingham | AL | 35235-3499
Medical Center Hospital | 500 W 4th St | Odessa | TX | 79760
Medical Center of Arlington | 3301 Matlock Rd | Arlington | TX | 76015
Medical Center of Aurora | 1501 S Potomac St | Aurora | CO | 80012
Medical Center of Central Georgia | 777 Hemlock St HB 53 | Macon | GA | 31208
Medical Center of Lewisville | 500 W Main St | Lewisville | TX | 75057
Medical Center of McKinney | 4500 Medical Center Dr | McKinney | TX | 75069
Medical Center of Mesquite | 1011 N Galloway Ave | Mesquite | TX | 75149
Medical Center of Plano | 3901 W 15th St | Plano | TX | 75075-7738
Medical Center of South Arkansas | 700 W Grove St | El Dorado | AR | 71730
Medical Center Of Southeast Texas, The | 2555 Jimmy Johnson Blvd | Port Arthur | TX | 77640
Medical City Dallas Hospital | 7777 Forrest Ln | Dallas | TX | 75230
Medical University of South Carolina | 165 Ashley Ave PO Box 250915 | Charleston | SC | 29425
Memorial Health University Medical Center | 4700 Waters Ave | Savannah | GA | 31404
Memorial Hermann Hospital | 6411 Fannin St | Houston | TX | 77030
Memorial Hermann South West | 7600 Beechnut St | Houston | TX | 77074
Memorial Hermann Texas Medical Center | 6411 Fannin St | Houston | TX | 77030
Memorial Hermann the Woodlands Hospital | 9250 Pinecroft Dr | The Woodlands | TX | 77380
Memorial Hospital | 1400 E Boulder St | Colorado Springs | CO | 80909-5599
Memorial Hospital | 2525 Desales Ave | Chattanooga | TN | 37404-1102
Memorial Hospital at Gulfport | 4500 13th St | Gulfport | MS | 39502
Memorial Hospital Carbondale | 405 W Jackson St | Carbondale | IL | 65902
Memorial Hospital Miramar | 1901 SW 172 Ave | Miramar | FL | 33029
Memorial Hospital of Martinsville | 320 Hospital Dr | Martinsville | VA | 24112
Memorial Hospital of Rhode Island—Brown University | 111 Brewster St | Pawtucket | RI | 02860
Memorial Hospital of South Bend | 615 N Michigan St | S Bend | IN | 46601-1033
Memorial Hospital West/ South Broward Hospital District | 703 N Flamingo Rd | Pembroke Pines | FL | 33028
Memorial Hospital-Jacksonville | 3625 University Blvd S | Jacksonville | FL | 32216
Memorial Hospitals Association | 1700 Coffee Rd | Modesto | CA | 95355
Memorial Medical Center | 2450 S Telshor Blvd | Las Cruces | NM | 88011
Memorial Medical Center | 701 N 1st St | Springfield | IL | 62781
Memphis Hospital (Germantown Campus) | 1265 Union Ave | Memphis | TN | 38104-3499
Memphis Hospital (North Campus) | 1265 Union Ave | Memphis | TN | 38104-3499
Memphis Hospital (South Campus) | 1265 Union Ave | Memphis | TN | 38104-3499
Memphis Hospital (University Campus) | 1265 Union Ave | Memphis | TN | 38104-3499
Menorah Medical Center | 5721 W 119th St | Overland Park | KS | 66209
Mercy & Unity Hospital | 4050 Coon Rapids Blvd | Coon Rapids | MN | 55432
Mercy Fitzgerald Hospital | 1500 Lansdowne Ave | Darby | PA | 19023
Mercy General Health Partners | 1500 E Sherman Blvd | Muskegon | MI | 49444
Mercy Health System of Northwestern Arkansas | 1200 W Walnut St | Rogers | AR | 72756
Mercy Hospital | 144 State St | Portland | ME | 04102
Mercy Hospital | 271 Carew St PO Box 9012 | Springfield | MA | 01102
Mercy Hospital | 3663 S Miami Ave | Miami | FL | 33133
Mercy Hospital—Scranton | 746 Jefferson Ave | Scranton | PA | 18510
Mercy Hospital & Medical Center | 2525 S Michigan Ave | Chicago | IL | 60616
Mercy Hospital of Buffalo | 565 Abbott Rd | Buffalo | NY | 14220
Mercy Hospital of Pittsburgh | 1400 Locust St | Pittsburgh | PA | 15219
Mercy Iowa City | 500 E Market St | Iowa City | IA | 52245
Mercy Medical Center | 1000 N Village Ave | Rockville Centre | NY | 11571
Mercy Medical Center | 1111 6th Ave | Des Moines | IA | 50314-2611
Mercy Medical Center | 1320 Mercy Dr NW | Canton | OH | 44708
Mercy Medical Center | 1343 N Fountain Blvd | Springfield | OH | 45503
Mercy Medical Center | 500 S Oakwood Rd | Oshkosh | WI | 54904
Mercy Medical Center | 701 10th St SE | Cedar Rapids | IA | 52403
Mercy Medical Center | 801 5th St | Sioux City | IA | 51101
Mercy Medical Center—McGlannan Library | 301 St Paul Pl | Baltimore | MD | 21202
Mercy Medical Center—North Iowa | 1000 4th St SW | Mason City | IA | 50401
Mercy Regional Medical Center | 1010 Three Springs Blvd | Durango | CO | 81301
MeritCare Hospital | 801 Broadway N | Fargo | ND | 58122
Meriter Hospital | 202 S Park St | Madison | WI | 53715
Mesa General Hospital | 515 N Mesa Dr | Mesa | AZ | 85201
Mesquite Community Hospital | 3500 Rte 30 | Mesquite | TX | 75150
Methodist DeBakey Heart Center, The | 6565 Fannin St | Houston | TX | 77030
Methodist Hospital | 6500 Excelsior Blvd | St Louis Park | MN | 55426
Methodist Hospital | 7700 Floyd Curl Dr | San Antonio | TX | 78229
Methodist Hospital of Southern California | 300 W Huntington Dr | Arcadia | CA | 91007-3402
Methodist Hospital Southlake Campus | 8701 Broadway | Merrillville | IN | 46410-7035
Methodist Medical Center | 280 Fort Sanders Blvd Ste 218 | Knoxville | TN | 37922
Methodist Medical Center of Illinois | 221 NE Glen Oak Ave | Peoria | IL | 61636
Methodist Sugarland Hospital | 16655 Southwest Fwy | Sugarland | TX | 77479
Metro Health Hospital | 1919 Boston St SE | Grand Rapids | MI | 49546
MetroHealth Medical Center | 2500 MetroHealth Dr | Cleveland | OH | 44109
MetroWest Medical Center | 115 Lincoln St | Framingham | MA | 01702-6327
Miami Valley Hospital | 1 Wyoming St | Dayton | OH | 45409
Michael Reese Hospital | 2929 S Ellis Ave | Chicago | IL | 60616
Mid America Heart Institute—St Luke's Hospital | 4401 Wornall Rd | Kansas City | MO | 64111
Midland Memorial Hospital | 2200 W Illinois Ave | Midland | TX | 79701
Midlands Community Hospital | 6901 N 72nd St Ste 3000 | Omaha | NE | 68122
Midwest Regional Medical Center | 2825 Parklawn Dr | Midwest City | OK | 73110
Milford Regional Medical Center | 14 Prospect St | Milford | MA | 01568
Millard Fillmore Hospital | 3 Gates Cir | Buffalo | NY | 14209
Mills-Peninsula Hospital | 1783 El Camino Real | Burlingame | CA | 94010
Mission Hospital Regional Medical Center | 27700 Medical Center Rd | Mission Viejo | CA | 92691-6426
Mission Hospitals Inc | 509 Biltmore Ave | Asheville | NC | 28801-4690
Mission Regional Medical Center | 900 S Bryan Rd | Mission | TX | 78572
Mississippi Baptist Medical Center | 1225 N State St | Jackson | MS | 39202-2097
Missouri Baptist Medical Center | 3015 N Ballas Rd | St Louis | MO | 63131-2374
Moberly Regional Medical Center | 1515 Union Ave | Moberly | MO | 65270
Mobile Infirmary Medical Center | 5 Mobile Infirmary Cir PO Box 2144 | Mobile | AL | 36652
Monongalia General Hospital | 1200 JD Anderson Dr | Morgantown | WV | 26505
Monroe Clinic, The | 515 22nd Ave | Monroe | WI | 53566
Montefiore Medical Center | 111 E 210th St | Bronx | NY | 10467-2490
Morris Hospital | 150 W High St | Morris | IL | 60450
Morristown Memorial Hospital | 100 Madison Ave | Morristown | NJ | 07962
Morton Plant Hospital | 207 Jeffords St MS 142 | Clearwater | FL | 33756
Morton Plant North Bay Hospital | 6600 Madison St | New Port Richey | FL | 34652
Moses Cone Health System | 1200 N Elm St | Greensboro | NC | 27401
Mother Frances Hospital | 800 E Dawson St | Tyler | TX | 75701
Mount Auburn Hospital | 330 Mount Auburn St | Cambridge | MA | 02138
Mount Carmel-St Ann's Hospital | 6150 E Broad St | Columbus | OH | 43213
Mount Carmel East | 6150 E Broad St | Columbus | OH | 42313
Mount Carmel West | 6150 E Broad St | Columbus | OH | 43213
Mount Clemens General Hospital | 1000 Harrington St | Mount Clemens | MI | 48043-2992
Mount Sinai Medical Center | 4300 Alton Rd | Miami Beach | FL | 33140
Mount St Mary's Hospital | 5300 Military Rd | Lewiston | NY | 14092
Mountainview Hospital | 3100 N Tenaya Way | Las Vegas | NV | 89128
Mt Sinai Hospital of Queens, The | 25-11 30th Ave | Long Island City | NY | 11102
Mt Sinai Medical Center, The | 1 Gustave L Levy Pl | New York | NY | 10029
Munroe Regional Medical Center | 131 SW 15th St PO Box 6000 | Ocala | FL | 34478
Munson Medical Center | 1105 6th St | Traverse City | MI | 49684-2386
Muskogee Regional Medical Center | 300 Rockefeller Dr | Muskogee | OK | 74401
Naples Community Hospital | 350 7th St S | Naples | FL | 34102
Nashoba Valley Medical Center | 200 Groton Rd | Ayer | MA | 01432
Natchez Community Hospital | 129 Jefferson Davis Blvd | Natchez | MS | 39120
Natchez Regional Medical Center | 54 Sgt Prentiss Dr | Natchez | MS | 39120
Navapaches Regional Medical Center | 2200 E Show Low Lake Rd | Show Low | AZ | 85901
Nebraska Heart Hospital | 7500 S 91st St | Lincoln | NE | 68526
Nebraska Medical Center, The | 987551 Nebraska Medical Ctr | Omaha | NE | 68198
Nebraska Methodist Hospital | 8303 Dodge St | Omaha | NE | 68114
New Britain General Hospital | 100 Grand St PO Box 100 | New Britain | CT | 06050
New Hanover Regional Medical Center | 2131 S 17th St | Wilmington | NC | 28402
New York Community Hospital | 2525 Kings Hwy | Brooklyn | NY | 11229
New York Hospital Medical Center of Queens—Health Education Library | 56-45 Main St | Flushing | NY | 11355
New York Methodist Hospital | 506 6th St | Brooklyn | NY | 11215
New York Presbyterian Hospital | 622 W 168th St | New York | NY | 10032
New York University Medical Center | 530 1st Ave | New York | NY | 10016
Newark Beth Israel Medical Center | 201 Lyons Ave | Newark | NJ | 07112
Newton Medical Center | 5126 Hospital Dr | Covington | GA | 30014
Nicholas H Noyes Memorial Hospital | 111 Clara Barton St | Dansville | NY | 14437
Nix Health Care System | 414 Navarro St | San Antonio | TX | 78205
Norman Regional Health System | PO Box 1308 | Norman | OK | 73070-1308
North Austin Medical Center | 12221 MoPac Expressway N | Austin | TX | 78758
North Bay Medical Center | 1200 B Gale Wilson Blvd | Fairfield | CA | 94533
North Broward Hospital District | 1600 S Andrews Ave | Ft Lauderdale | FL | 33316
North Broward Medical Center | 201 E Sample Rd | Pompano Beach | FL | 33064
North Carolina Baptist Hospital | Medical Center Blvd | Winston-Salem | NC | 27157
North Central Baptist Hospital | 520 Madison Oak Dr | San Antonio | TX | 78258
North Colorado Medical Center | 1801 16th St | Greeley | CO | 80631-5199
North Florida Regional Medical Center | 6500 Newberry Rd | Gainesville | FL | 32605
North Kansas City Hospital | 2800 Clay Edwards Dr | N Kansas City | MO | 64116
North Memorial Medical Center | 3300 Oakdale Ave N | Robbinsdale | MN | 55422
North Mississippi Medical Center | 830 S Gloster St | Tupelo | MS | 38801
North Oaks Medical Center | 15790 Paul Vega MD Dr | Hammond | LA | 70403
North Ridge Medical Center | 5757 N Dixie Hwy | Ft Lauderdale | FL | 33334
North Shore Medical Center | 1100 NW 95th St | Miami | FL | 33150
North Shore Medical Center—Salem Hospital | 81 Highland Ave | Salem | MA | 01970
North Shore University Hospital | 300 Community Dr | Manhasset | NY | 11030
North Suburban Medical Center | 9191 Grant St | Denver | CO | 80229
North Vista Hospital | 1409 E Lake Mead Blvd | N Las Vegas | NV | 89030
Northbay VacaValley Hospital | 1200 B Gale Wilson Blvd | Fairfield | CA | 94533
Northeast Baptist Hospital | 8811 Village Dr | San Antonio | TX | 78217
Northeast Georgia Medical Center | 743 Spring St | Gainesville | GA | 30501
NorthEast Medical Center | 920 Church St N | Concord | NC | 28025
Northeast Methodist Hospital | 12412 Judson Rd | Live Oak | TX | 78233
Northeast Regional Medical Center | 315 S Osteopathy St | Kirksville | MO | 63501
Northern Illinois Medical Center | 4201 Medical Center Dr | McHenry | IL | 60050
Northern Michigan Hospital | 416 Connable Ave | Petoskey | MI | 49770
Northern Nevada Medical Center | 2375 E Prater Way | Sparks | NV | 89434
Northern Virginia Community Hospital | 601 S Carlin Springs Rd | Arlington | VA | 22204
Northlake Medical Center | 1455 Montreal Rd | Tucker | GA | 30084
Northshore Regional Medical Center | 100 Medical Center Dr | Slidell | LA | 70461
Northside Hospital | 1000 Johnson Ferry Rd | Atlanta | GA | 30342
Northside Hospital | 6000 49th St N | St Petersburg | FL | 33709
Northwest Community Hospital | 800 W Central Rd | Arlington Heights | IL | 60005
Northwest Hospital | 1550 N 115th St | Seattle | WA | 98113
Northwest Medical Center | 2801 N State Rd 7 | Margate | FL | 33063
Northwest Medical Center-Bentonville | 3000 Medical Center Pkwy | Bentonville | AR | 72712
Northwest Medical Center-Springdale | 609 W Maple St | Springdale | AR | 72764
Northwest Mississippi Regional Medical Center | 1970 Hospital Dr | Clarksdale | MS | 38614
Northwest Texas Surgical Hospital | 3501 Soncy Rd Ste 118 | Amarillo | TX | 79119
Northwestern Memorial Hospital | 676 N St Clair St Ste 1700 | Chicago | IL | 60611
Norton Audubon Hospital | 233 E Gray St Ste 608 | Louisville | KY | 40202
Norton Hospital | 233 E Gray St Ste 608 | Louisville | KY | 40202
Norwalk Hospital | 24 Stevens St | Norwalk | CT | 06856
Oak Hill Hospital | 11375 Cortez Blvd | Brooksville | FL | 34613
Oakwood Hospital & Medical Center | 18101 Oakwood Blvd Ste 124 | Dearborn | MI | 48124
Obici Hospital | 2800 Godwin Blvd | Suffolk | VA | 23434
Ocala Regional Medical Center | 1431 SW 1st Ave | Ocala | FL | 34474
Ocean Springs Hospital | 3109 Bienville Blvd | Ocean Springs | MS | 39564
Ochsner Medical Center-Baton Rouge | 17000 Medical Center Dr | Baton Rouge | LA | 70816
Ochsner Medical Foundation | 1514 Jefferson Hwy | New Orleans | LA | 70121
O'Connor Hospital | 2105 Forest Ave | San Jose | CA | 95128
Odessa Regional Hospital | 520 E 6th St | Odessa | TX | 79760
Ogden Regional Medical Center | 5475 S 500 E | Ogden | UT | 84403
Ohio State University Medical Center | 410 W 10th Ave | Columbus | OH | 43210-1228
Ohio Valley Medical Center | 2000 Eoff St | Wheeling | WV | 26003
Oklahoma Heart Hospital | 4050 W Memorial Rd | Oklahoma City | OK | 73120
Oklahoma University Medical Center | 1200 Everett Dr | Oklahoma City | OK | 73104
Olathe Medical Center | 20333 W 151st St | Olathe | KS | 66061-7211
Opelousas General Health System | 539 E Prudhomme St | Opelousas | LA | 70570
Orange Coast Memorial Medical Center | 9920 Talbert Ave | Fountain Valley | CA | 92708
Orange Regional Medical Center | 60 Prospect Ave | Middletown | NY | 10940
Oregon Health & Science University | 3181 SW Sam Jackson Rd | Portland | OR | 97239
Orlando Regional Medical Center | 1414 Kuhl Ave | Orlando | FL | 32806
Osceola Regional Medical Center | 700 W Oak St | Kissimmee | FL | 34745
OSF St Anthony Medical Center | 5666 E State St | Rockford | IL | 61108
OSF St Francis Medical Center | 530 NE Glen Oak Ave | Peoria | IL | 61637
OSF St Joseph Medical Center | 2200 E Washington St | Bloomington | IL | 61701
Our Lady of Lourdes Medical Center | 1600 Haddon Ave | Camden | NJ | 08103
Our Lady of Lourdes Regional Medical Center | 611 St Landry St | Lafayette | LA | 70506
Our Lady of The Lake Regional Medical Center | 7777 Hennessy Blvd Ste 2007 | Baton Rouge | LA | 70808
Our Lady of the Resurrection Medical Center | 5645 W Addison St | Chicago | IL | 60634
Outpatient Cath Lab-BRCC, The | 7777 Hennessy Blvd Ste 2007 | Baton Rouge | LA | 70818
Outpatient Cath Lab-LCA, The | 7777 Hennessy Blvd Ste 2007 | Baton Rouge | LA | 70818
Overlake Hospital Medical Center | 1035 116th Ave NE | Bellevue | WA | 98004
Overland Park Regional Medical Center/Health Midwest | 10500 Quivira Rd | Overland Park | KS | 66215
Owensboro Medical Health System | 811 E Parrish Ave | Owensboro | KY | 42303
Ozarks Medical Center | 1100 Kentucky Ave | W Plains | MO | 65775
Palm Beach Gardens Medical Center | 3360 Burns Rd | Palm Beach Gardens | FL | 33410
Palmetto General Hospital | 2001 W 68th St | Hialeah | FL | 33029
Palmetto Health Heart Hospital | 5 Richland Medical Park Dr | Columbia | SC | 29203
Palomar Medical Center | 555 E Valley Pkwy | Escondido | CA | 92025
Palos Community Hospital | 12251 S 80th Ave | Palos Heights | IL | 60463-0930
Paoli Hospital | 100 Lancaster Ave | Wynnewood | PA | 19096
Paradise Valley Hospital | 2400 E 4th St | National City | CA | 91950
Paradise Valley Hospital | 3929 E Bell Rd | Phoenix | AZ | 85023
Paris Regional Medical Center | 820 Clarksville St | Paris | TX | 75460
Park Plaza Hospital | 1313 Hermann Dr | Houston | TX | 77004
Parkridge Medical Center | 2333 McCallie Ave | Chattanooga | TN | 37404
Parkview Hospital | 1726 Shawano Ave | Green Bay | WI | 54303-3282
Parkview Hospital | 2200 Randallia Dr | Ft Wayne | IN | 46805
Parkview Medical Center | 400 W 16th St | Pueblo | CO | 81003
Parkway Regional Medical Center | 160 NW 170th St | N Miami | FL | 33169
Parkwest Medical Center | 9352 Parkwest Blvd | Knoxville | TN | 37923
Parma Community General Hospital | 7007 Powers Blvd | Parma | OH | 44129
Pasco Regional Medical Center | 13100 Fort King Rd | Dade City | FL | 33525
PBI Regional Medical Center | 350 Boulevard | Passaic | NJ | 07055
Peace River Regional Medical Center | 2500 Harbor Blvd | Port Charlotte | FL | 33952
Peconic Bay Medical Center | 1300 Roanoke Ave | Riverhead | NY | 11901
Peninsula Regional Medical Center | 100 E Carroll St | Salisbury | MD | 21801
Penn Presbyterian Medical Center | 39th & Market Sts | Philadelphia | PA | 19104
Penn State Hershey Medical Center | PO Box 850 H139 | Hershey | PA | 17033
Pennsylvania Hospital | 800 Spruce St | Philadelphia | PA | 19107-6192
Penrose-St Francis Health Services | 2222 N Nevada Ave #220 | Colorado Springs | CO | 80907
Phelps County Regional Medical Center | 1000 W 10th St | Rolla | MI | 65401
Phoenix Baptist Hospital | 2000 W Bethany Home Rd | Phoenix | AZ | 85015
Phoenixville Hospital | 140 Nutt Rd | Phoenixville | PA | 19460-3906
Piedmont Healthcare Physicians Cath Lab, LLC | 1968 Peachtree Rd NW | Atlanta | GA | 30309
Piedmont Hospital | 95 Collier Rd Ste 5005 | Atlanta | GA | 30309
Piedmont Medical Center | 222 S Herlong Ave | Rock Hill | SC | 29732
Pikeville Medical Center | 911 Bypass Rd | Pikeville | KY | 41501
Pinnacle Health Invasive Cardiology | 111 S Front St | Harrisburg | PA | 17101-2099
Pitt County Memorial Hospital | 2100 Stantonsburg Rd | Greenville | NC | 27834-2832
Plantation General Hospital | 401 NW 42nd Ave | Plantation | FL | 33317
Plaza Medical Center of Fort Worth | 900 8th Ave | Ft Worth | TX | 76104
Pomona Valley Hospital Medical Center | 1798 N Garey Ave | Pomona | CA | 91722
Pontiac Osteopathic Hospital | 50 N Perry St | Pontiac | MI | 48342
Poplar Bluff Regional Medical Center | 2620 N Westwood Blvd | Poplar Bluff | MO | 63901
Port Huron Hospital | 1221 Pine Grove Ave | Port Huron | MI | 48060
Porter Adventist Hospital | 2525 S Downing St MS 33F | Denver | CO | 80210-5817
Porter Valparaiso Hospital Campus | 814 Laporte Ave | Valparaiso | IN | 46383
Portneuf Medical Center | 651 Memorial Dr | Pocatello | ID | 83201
Portsmouth Regional Hospital | 333 Borthwick Ave | Portsmouth | NH | 03801
Poudre Valley Hospital | 1024 Lemay Ave | Ft Collins | CO | 80524
Presbyterian Healthcare Services | PO Box 26666 | Albuquerque | NM | 87125
Presbyterian Hospital | 200 Hawthorne Ln | Charlotte | NC | 28204
Presbyterian Hospital of Dallas | 8200 Walnut Hill Ln | Dallas | TX | 75231
Presbyterian Hospital of Plano | 6200 W Parker Rd | Plano | TX | 75093-7914
Presbyterian Intercommunity Hospital | 12401 Washington Blvd | Whittier | CA | 90602
Presbyterian/St Luke's Medical Center | 1719 E 19th Ave | Denver | CO | 80218-1235
Prince George's Hospital Center | 3001 Hospital Dr | Cheverly | MD | 20785
Princeton Baptist Medical Center | 701 Princeton Ave | Birmingham | AL | 35211-1399
Proctor Hospital | 5409 N Knoxville Ave | Peoria | IL | 61614
Protestant Memorial Medical Center | 4500 Memorial Dr | Belleville | IL | 62226
Provena Covenant Medical Center | 1400 W Park St | Urbana | IL | 61801-9901
Provena Mercy Medical Center | 1325 N Highland Ave | Aurora | IL | 60506
Provena St Joseph Medical Center | 333 N Madison St | Joliet | IL | 60435
Provena St Mary's Hospital | 500 W Court St | Kankakee | IL | 60901
Providence Alaska Medical Center | 3200 Providence Dr | Anchorage | AK | 99508-4662
Providence Everett Medical Center | 1321 Coby Ave | Everett | WA | 98206-1147
Providence Health Center | 6901 Medical Pkwy | Waco | TX | 76712
Providence Holy Cross Medical Center | 15031 Rinaldi St | Mission Hills | CA | 91346
Providence Hospital | 2435 Forest Dr | Columbia | SC | 29204
Providence Hospital | 6801 Airport Blvd | Mobile | AL | 36608
Providence Medical Center | 8929 Parallel Pkwy | Kansas City | KS | 66112-1689
Providence Memorial Hospital | 2001 N Oregon St | El Paso | TX | 79902
Providence Portland Medical Center | 9205 SW Barnes Rd | Portland | OR | 97225
Providence St Joseph Medical Center | 501 S Buena Vista St | Burbank | CA | 91505
Providence St Peter Hospital | 413 N Lilly Rd | Olympia | WA | 98506
Providence St Vincent Medical Center | 9205 SW Barnes Rd #33 | Portland | OR | 97225
Putnam General Hospital | 1400 Hospital Dr | Hurricane | WI | 25526
Queen of the Valley Hospital | 1000 Trancas St | Napa | CA | 94558
Queens Medical Center | 1301 Punchbowl St | Honolulu | HI | 96813
Rancho Spring Medical Center | 36485 Inland Valley Dr | Wildomar | CA | 92595
Rankin Medical Center | 350 Crossgates Blvd | Brandon | MS | 39042
Rapid City Regional Hospital | 353 Fairmont Blvd | Rapid City | SD | 57702
Rapides Regional Medical Center | 211 4th St Box 30101 | Alexandria | LA | 71301
Reading Hospital & Medical Center, The | 6th Ave & Spruce St | W Reading | PA | 19611
Redmond Regional Medical Center | 501 Redmond Rd | Rome | GA | 30165
Regents of the University of Michigan | 2929 Plymouth Rd Ste 210 | Ann Arbor | MI | 48105
Regional Hospital of Jackson | 367 Hospital Blvd | Jackson | TN | 38305
Regional Medical Center | 225 N Jackson St | San Jose | CA | 95116
Regional Medical Center | 3000 St Matthews Rd | Orangeburg | SC | 29118
Regional Medical Center | 400 E 10th St | Anniston | AL | 36202
Regional Medical Center | 900 Hospital Dr | Madisonville | KY | 42431-1644
Regional Medical Center Bayonet Point | 1400 Fivay Rd | Hudson | FL | 34667
Regions Hospital | 640 Jackson St | St Paul | MN | 55101
Reid Hospital & Healthcare Services | 1401 Chester Blvd | Richmond | IN | 47374
Renown Regional Medical Center | 77 Pringle Way | Reno | NV | 89502
Research Medical Center | 2316 E Meyer Blvd | Kansas City | MO | 64132
Reston Hospital Center | 1850 Town Center Pkwy | Reston | VA | 20190
Resurrection Medical Center | 7435 W Talcott Ave | Chicago | IL | 60631
Rex Hospital | 4420 Lake Boone Trl | Raleigh | NC | 27607
RHD Memorial Medical Center | 7 Medical Pkwy | Dallas | TX | 75234
Rhode Island Hospital | 593 Eddy St | Providence | RI | 02903
Rideout Memorial Hospital | 726 4th St | Maryville | CA | 95901
Ridgecrest Regional Hospital | 1081 N China Lake Blvd | Ridgecrest | CA | 93555
Riley Hospital | 1102 Constitution Ave | Meridian | MS | 39301
Rio Grande Regional Hospital | 101 E Ridge Rd | McAllen | TX | 78503
River Oaks Hospital | 1030 River Oaks Dr | Jackson | MS | 39232
River Regions Health System | 2100 Hwy 61 N | Vicksburg | MS | 39180
Riverside Community Hospital | 4445 Magnolia Ave | Riverside | CA | 92501
Riverside Methodist Hospital | 3535 Olentangy River Rd | Columbus | OH | 43214
Riverside Regional Medical Center | 500 J Clyde Morris Blvd | Newport News | VA | 23601
Riverview Hospital | 395 Westfield Rd | Noblesville | IN | 46060
Riverview Regional Medical Center | 600 S 3rd St | Gadsden | AL | 35901
Robert Packer Hospital | 1 Guthrie Sq | Sayre | PA | 18840
Robinson Memorial Hospital | 6847 N Chestnut St | Ravenna | OH | 44266
Rochester General Hospital | 1425 Portland Ave | Rochester | NY | 14621
Rockford Memorial Hospital | 2400 N Rockton Ave | Rockford | IL | 61103
Rogue Valley Medical Center | 2825 E Barnett Rd | Medford | OR | 97504
Roper Hospital | 316 Calhoun St | Charleston | SC | 29401
Rose Medical Center | 4567 E 9th Ave | Denver | CO | 80220-3941
Round Rock Medical Center | 2400 Round Rock Ave | Round Rock | TX | 78681
Rush Hospital | 1314 19th Ave | Meridian | MS | 39301
Rush North Shore Medical Center | 9600 Gross Point Rd | Skokie | IL | 60076
Rush University Medical Center | 1653 W Congress Pkwy | Chicago | IL | 60612
Rush-Copley Medical Center | 2000 Ogden Ave | Aurora | IL | 60504
Rush-Riverside Heart Care Center | 350 N Wall St | Kankakee | IL | 60901
Russell Medical Center | 3316 Hwy 280 PO Box 939 | Alexander City | AL | 35011
Russellville Hospital | 15155 Hwy 43 | Russellville | AL | 35653
Rutland Regional Medical Center | 160 Allen St | Rutland | VT | 05701
Sacred Heart Health System | 5151 N 9th Ave | Pensacola | FL | 32504
Sacred Heart Hospital | 900 W Clairemont Ave | Eau Claire | WI | 54701
Sacred Heart Medical Center | 101 W 8th Ave | Spokane | WA | 99204
Sacred Heart Medical Center | 1155 Hilyard St | Eugene | OR | 97401
Saddleback Memorial Medical Center | 24451 Health Center Dr | Laguna Hills | CA | 92653
Salem Hospital (Regional Health Services) | 665 Winter St SE | Salem | OR | 97309-5014
Salina Regional Health Center | 400 S Santa Fe Ave | Salina | KS | 67401
Salinas Valley Memorial Hospital | 450 E Romie Ln | Salinas | CA | 93901-4098
Salt Lake Regional Medical Center | 1050 E South Temple | Salt Lake City | UT | 84102
San Antonio Community Hospital | 999 San Bernardino Rd | Upland | CA | 91786
San Francisco Heart & Vascular Institute | 1900 Sullivan Ave | Daly City | CA | 94015
San Jacinto Methodist Hospital | 4401 Garth Rd | Baytown | TX | 77521
San Joaquin Community Hospital | 2615 Eye St | Bakersfield | CA | 93301
San Juan Regional Medical Center | 801 W Maple St | Farmington | NM | 87401
San Ramon Regional Medical Center | 6001 Norris Canyon Rd | San Ramon | CA | 94583
Sand Lake Hospital | 1414 Kuhl Ave | Orlando | FL | 32806
Santa Barbara Cottage Hospital | PO Box 689 | Santa Barbara | CA | 93102-0689
Santa Clara Valley Medical Center | 751 S Bascom Ave | Santa Rosa | CA | 95405
Santa Rosa Memorial Hospital | 1165 Montgomery Dr | Santa Rosa | CA | 95402
Santa Teresa Community Hospital | 250 Hospital Pkwy | San Jose | CA | 95119
Sarasota Memorial Hospital | 1700 S Tamiami Trl | Sarasota | FL | 34239
Scott & White Clinic & Hospital | 2401 S 31 St Alexander Bldg 218-E | Temple | TX | 76508
Scottsdale Healthcare—Osborn | 9003 E Shea Blvd | Scottsdale | AZ | 85260
Scottsdale Healthcare—Shea | 9003 E Shea Blvd | Scottsdale | AZ | 85260
Scripps Green Hospital—La Jolla | 10666 N Torrey Pines Rd | La Jolla | CA | 92037
Scripps Memorial Hospital—Encinitas | 354 Santa Fe Dr | Encinitas | CA | 92024
Scripps Memorial Hospital—La Jolla | 9888 Genesee Ave LJ101 | La Jolla | CA | 92037
Scripps Mercy Hospital—Chula Vista | 435 H St | Chula Vista | CA | 91912
Scripps Mercy Hospital—San Diego | 4077 5th Ave MER 74 | San Diego | CA | 92103
Sebastian River Medical Center | 13695 U.S. Hwy 1 | Sebastian | FL | 32962
Self Regional Healthcare | 1325 Spring St | Greenwood | SC | 29646
Sentara Norfolk General Hospital | 600 Gresham Dr | Norfolk | VA | 23507
Sentara Virginia Beach General Hospital | 1060 1st Colonial Rd | Virginia Beach | VA | 23454-0685
Senton Medical Center | 1900 Sullivan Ave | Daly City | CA | 94015
Seton Medical Center | 1201 W 38th St | Austin | TX | 78705
Shady Grove Adventist Hospital | 9901 Medical Center Dr | Rockville | MD | 20850
Shands at AGH | 801 SW 2nd Ave | Gainesville | FL | 32607
Shands Jacksonville Medical Center | 655 W 8th St | Jacksonville | FL | 32209-6511
Sharp Chula Vista Health Care | 8695 Spectrum Center Ct | San Diego | CA | 92123
Sharp Grossmont Health Care | 5555 Grossmont Center Dr | La Mesa | CA | 91942
Sharp Memorial Hospital | 7901 Frost St | San Diego | CA | 92123
Shasta Regional Medical Center | 1100 Butte St | Redding | CA | 96001
Shawnee Mission Medical Center | 9100 W 74th St | Shawnee Mission | KS | 66204-4004
Shelby Baptist Medical Center | 1000 1st St N | Alabaster | AL | 35007
Sherman Hospital | 934 Center St | Elgin | IL | 60120
Shore Health System of Maryland | 219 S Washington St | Easton | MD | 21601
Sibley Memorial Hospital | 5255 Loughboro Rd NW | Washington | DC | 20016
Sid Peterson Memorial Hospital | 710 Water St | Kerrville | VA | 78028
Sierra Medical Center | 1625 Medical Center Dr | El Paso | TX | 79902
Sierra Vista Regional Medical Center | 1010 S Murray Ave | San Luis Obispo | CA | 93420
Silver Cross Hospital | 1200 Maple Rd | Joliet | IL | 60432
Simi Valley Hospital & Health Care Services | 2975 N Sycamore Dr | Simi Valley | CA | 93065
Sinai—Grace Hospital | 6071 W Outer Dr | Detroit | MI | 48235
Sinai Hospital of Baltimore | 2401 W Belvedere Ave | Baltimore | MD | 21215-5271
Singing River Hospital | 2809 Denny Ave | Pascagoula | MS | 39567
Sioux Valley Hospitals & Health System | 1305 W 18th St | Sioux Falls | SD | 57117
Sisters of Charity Hospital | 2157 Main St | Buffalo | NY | 14220
Skaggs Community Health Center | PO Box 650 | Branson | MO | 65615-0650
Sky Ridge Medical Center | 10101 Ridgegate Pkwy | Lone Tree | CO | 80124
Skyline Medical Center/HTI Memorial Hospital Corp | 3441 Dickerson Pk | Nashville | TN | 37207
Smith Northview Hospital | PO Box 10010 | Valdosta | GA | 31604
Sound Shore Medical Center | 16 Guion Pl | New Rochelle | NY | 10801
South Austin Hospital | 901 W Ben White Blvd | Austin | TX | 78704
South Crest Hospital | 8801 S 101st E Ave | Tulsa | OK | 74133
South Fulton Medical Center | 1170 Cleveland Ave | East Point | GA | 30344
South Georgia Medical Center | PO Box 1727 | Valdosta | GA | 31603-1727
South Miami Hospital | 6200 SW 73rd St | Miami | FL | 33143-4989
South Nassau Communities Hospital | 1 Healthy Way | Oceanside | NY | 11572
South Shore Hospital | 55 Fogg Rd | S Weymouth | MA | 02190-2432
Southampton Hospital | 240 Meeting House Ln | Southampton | NY | 11968
Southcoast Hospitals Group | 363 Highland Ave | Fall River | MA | 07270
Southeast Alabama Medical Center | 1108 Ross Clark Cir | Dothan | AL | 36301
Southeast Baptist Hospital | 4214 E Southcross Blvd | San Antonio | TX | 78222
Southeast Missouri Hospital | 1701 Lacey St | Cape Girardeau | MO | 63701
Southern Hills Hospital | 9300 W Sunset Rd | Las Vegas | NV | 89148
Southern New Hampshire Medical Center | 8 Prospect St | Nashua | NH | 03060
Southern Ohio Medical Center | 1805 27th St | Portsmouth | OH | 45662
Southern Regional Medical Center | 11 Upper Riverdale Rd | Riverdale | GA | 30274
Southlake Hospital | 1099 Citrus Tower Blvd | Clermont | FL | 34711
Southside Hospital | 301 E Main St | Bayshore | NY | 11706
Southwest Florida Regional | 2727 Winkler Ave | Ft Myers | FL | 33901
Southwest General Health Center | 18697 Bagley Rd | Middleburg Heights | OH | 44130-3417
Southwest General Hospital | 7400 Barlite Blvd | San Antonio | TX | 78224
Southwest Health Plan Inc | 25500 Medical Center Dr | Murrieta | CA | 92562
Southwest Medical Center | 2810 Ambassador Caffery Pkwy | Lafayette | LA | 70506
Southwest Mississippi Regional Medical Center | 215 Marion Ave | McComb | MS | 39648
Southwest Washington Medical Center | 600 NE 92nd Ave | Vancouver | WA | 98664
Southwestern Medical Center | 5602 SW Lee Blvd | Lawton | OK | 73505
Spalding Regional Medical Center | 601 S 8th St | Griffin | GA | 30224
Sparks Regional Medical Center | PO Box 17006 | Ft Smith | AR | 72917-7006
Sparrow Health System | 1210 W Saginaw Hwy | Lansing | MI | 48915
Spartanburg Regional Medical Center | 101 E Wood St | Spartanburg | SC | 29303
Spectrum Health | 100 Michigan St NE | Grand Rapids | MI | 49503-2560
Springhill Memorial Hospital | 3719 Dauphin St | Mobile | AL | 36608
Springs Memorial Hospital | 800 W Meeting St | Lancaster | SC | 29720
SSM St Joseph Health Center | 300 1st Capitol Dr | St Charles | MO | 63301
SSM St Mary's Health Center | 6420 Clayton Rd | St Louis | MO | 63117
St Agnes Hospital | 900 Caton Ave | Baltimore | MD | 21229
St Agnes Medical Center | 1303 E Herndon Ave | Fresno | CA | 93720
St Alphonsus Regional Medical Center | 1055 N Curtis Rd | Boise | ID | 83706
St Anthony Central Hospital | 4231 W 16th Ave | Denver | CO | 80204-1335
St Anthony Hospital | 1000 N Lee Ave | Oklahoma City | OK | 73102
St Anthony Medical Center | 1201 S Main St | Crown Point | IN | 46307
St Anthony's Medical Center | 10010 Kennerly Rd | St Louis | MO | 63128-2106
St Barnabas Medical Center | 94 Old Short Hills Rd | Livingston | NJ | 07039
St Bernard's Medical Center | 225 E Jackson Ave | Jonesboro | AR | 72401
St Catherine Hospital E Chicago | 1500 S Lake Park Ave | Hobart | IN | 46342
St Catherine of Siena | 50 Rt 25A | Smithtown | NY | 11787
St Charles Hospital | 200 Belle Terre Rd | Port Jefferson | NY | 11777
St Charles Medical Center | 2500 NE Neff Rd | Bend | OR | 97701-6015
St Clair Memorial Hospital | 1000 Bower Hill Rd | Pittsburgh | PA | 15243
St Clare's Hospital | 611 St Joseph's Ave | Marshfield | WI | 54449
St Cloud Regional Medical Center | 2906 17th St | St Cloud | FL | 34769
St David's Medical Center | 919 E 32nd St | Austin | TX | 78765
St Dominic-Jackson Memorial Hospital | 969 Lakeland Dr | Jackson | MS | 39216
St Edward's Mercy Medical Center | 7301 Rogers Ave | Ft Smith | AR | 72917-7000
St Elizabeth Health Center | 1044 Belmont Ave | Youngstown | OH | 44501
St Elizabeth Hospital | 1611 S Madison St | Appleton | WI | 54915
St Elizabeth Hospital | 2233 W Division St | Chicago | IL | 60622
St Elizabeth Medical Center | 2209 Genesee St | Utica | NY | 13501
St Elizabeth Medical Center-South | 1 Medical Village Dr | Edgewood | KY | 41017-3403
St Elizabeth Regional Medical Center | 555 S 70th St | Lincoln | NE | 68510-2462
St Elizabeth's Hospital | 211 S 3rd St | Belleville | IL | 62220-1915
St Francis Health Center | 1700 SW 7th St | Topeka | KS | 66605
St Francis Heart Center | 8111 S Emerson Ave | Indianapolis | IN | 46237
St Francis Heart Hospital | 10501 E 91st St S | Tulsa | OK | 74133
St Francis Hospital | 1 St Francis Dr | Greenville | SC | 29601
St Francis Hospital | 100 Port Washington Blvd | Roslyn | NY | 11576
St Francis Hospital | 2122 Manchester Expressway | Columbus | GA | 31904
St Francis Hospital | 333 Laidley St | Charleston | WV | 25322
St Francis Hospital | 5000 W Chambers St M229 | Milwaukee | WI | 53210
St Francis Hospital | 5959 Park Ave | Memphis | TN | 38119
St Francis Hospital | 6161 S Yale Ave | Tulsa | OK | 74136
St Francis Hospital | 701 N Clayton St | Wilmington | DE | 19805
St Francis Hospital & Health Center | 12935 Gregory St | Blue Island | IL | 60406-2470
St Francis Hospital & Health Center | 8111 S Emerson Ave | Indianapolis | IN | 46237
St Francis Hospital & Medical Center | 114 Woodland St | Hartford | CT | 06105
St Francis Hospital of Evanston | 355 Ridge Ave | Evanston | IL | 60202
St Francis Medical Center | 211 St Francis Dr | Cape Girardeau | MO | 63703-5049
St Francis Medical Center | 2230 Liliha St | Honolulu | HI | 96817
St Francis Medical Center | 309 Jackson St | Monroe | LA | 71210
St Francis Medical Center | 3630 Imperial Hwy | Lynwood | CA | 90265
St Francis Medical Center | 601 Hamilton Ave | Trenton | NJ | 08629
St Francis North Hospital | 3421 Medical Park Dr | Monroe | LA | 71203
St Helena Hospital | 10 Woodland Rd | St Helena | CA | 94574
St James Health Care | 400 S Clark St | Butte | MT | 59701
St James Hospital & Health Centers | 20201 S Crawford Ave | Olympia Fields | IL | 60461
St John Hospital & Medical Center | 22151 Moross Rd | Detroit | MI | 48236-2148
St John Macomb Hospital | 11800 E 12 Mile Rd | Warren | MI | 48093
St John Medical Center | 1615 Delaware St | Longview | WA | 98632
St John Medical Center | 1923 S Utica Ave | Tulsa | OK | 74104
St John West Shore Hospital | 29000 Center Ridge Rd | Westlake | OH | 44145
St John's Health Center | 1328 22nd St | Santa Monica | CA | 90404
St John's Hospital | 1235 E Cherokee St | Springfield | MO | 65804
St John's Hospital | 69 W Exchange St | St Paul | MN | 55102
St John's Hospital | 800 E Carpenter St | Springfield | IL | 62769
St John's Mercy Medical Center | 615 S New Ballas Rd | St Louis | MO | 63141-8221
St John's Queens Hospital | 90-02 Queens Blvd | Elmhurst | NY | 11373
St John's Regional Health Center | 1235 E Cherokee St | Springfield | MO | 65804
St John's Regional Medical Center | 2727 McClelland Blvd | Joplin | MO | 64804
St Joseph Hospital | 1 St Joseph Dr | Lexington | KY | 40504
St Joseph Hospital | 1100 W Stewart Dr | Orange | CA | 92868-3849
St Joseph Hospital | 172 Kinsley St | Nashua | NH | 03060
St Joseph Hospital | 2700 Dolbeer St | Eureka | CA | 95501-4799
St Joseph Hospital | 2900 N Lake Shore Dr | Chicago | IL | 60657-6274
St Joseph Hospital | 2901 Squalicum Pkwy | Bellingham | WA | 98225
St Joseph Hospital | 3001 W Martin Luther King Blvd | Tampa | FL | 33607
St Joseph Hospital | 360 Broadway | Bangor | ME | 04401
St Joseph Hospital | 700 Broadway | Ft Wayne | IN | 46802
St Joseph Hospital (Provena) | 77 N Airlite St | Elgin | IL | 60123-4912
St Joseph Intercommunity Hospital | 515 Abbott Rd | Buffalo | NY | 14220
St Joseph Medical Center | 12th & Walnut Sts | Reading | PA | 19603
St Joseph Medical Center | 1401 St Joseph Pkwy | Houston | TX | 77002
St Joseph Medical Center | 1717 S J St | Tacoma | WA | 98405-4933
St Joseph Medical Center | 2200 E Washington St | Bloomington | IL | 61701
St Joseph Medical Center | 7601 Osler Dr | Towson | MD | 21204
St Joseph Mercy Hospital | 5325 Elliot Dr | Ann Arbor | MI | 48106
St Joseph Mercy, Oakland | 44405 Woodward Ave | Pontiac | MI | 48341-5023
St Joseph Regional Health Center | 2801 Franciscan St | Bryan | TX | 77802-2544
St Joseph Regional Medical Center | 5000 W Chambers St M229 | Milwaukee | WI | 53210
St Joseph Regional Medical Center | 703 Main St | Paterson | NJ | 07503
St Joseph Regional Medical Center | 801 E LaSalle Ave | S Bend | IN | 46617
St Joseph's Healthcare | 15855 19 Mile Rd | Clinton Twp | MI | 48038
St Joseph's Hospital | 11705 Mercy Blvd | Savannah | GA | 31419
St Joseph's Hospital | 1824 Murdoch Ave | Parkersburg | WV | 26102-0327
St Joseph's Hospital | 69 W Exchange St | St Paul | MN | 55102
St Joseph's Hospital/Marshfield Clinic | 611 St Joseph Ave | Marshfield | WI | 54449-1832
St Joseph's Hospital Health Center | 301 Prospect Ave | Syracuse | NY | 13203
St Joseph's Hospital of Atlanta | 5665 Peachtree Dunwoody Rd | Atlanta | GA | 30342
St Joseph's Medical Center | 127 S Broadway | Yonkers | NY | 10701
St Joseph's Mercy Health Center | 300 Werner Dr | Hot Springs | AR | 71913
St Louis University Hospital | 3635 Vista Ave at Grand Blvd | St Louis | MO | 63110
St Luke Hospital East | 85 N Grand Ave | Ft Thomas | KY | 41075
St Luke Hospital West | 7380 Turfway Rd | Florence | KY | 41042
St Luke's Baptist Hospital | 7830 Floyd Curl Dr | San Antonio | TX | 78229
St Luke's Cornwall Hospital | 70 Dubois St | Newburgh | NY | 12550
St Luke's Episcopal Hospital | 6720 Bertner Ave | Houston | TX | 77030
St Luke's Hospital | 1026 A Ave NE | Cedar Rapids | IA | 52406-3026
St Luke's Hospital | 232 S Woods Mill Rd | Chesterfield | MO | 63017-3417
St Luke's Hospital | 4401 Wornall Rd | Kansas City | MO | 64111
St Luke's Hospital | 5901 Monclova Rd | Maumee | OH | 43537
St Luke's Hospital | 915 E 1st St | Duluth | MN | 55805
St Luke's Hospital & Health Network | 801 Ostrum St | Bethlehem | PA | 18020
St Luke's Hospital-Mayo Clinic | 4201 Belfort Rd | Jacksonville | FL | 32216
St Luke's Medical Center | 1800 E Van Buren St | Phoenix | AZ | 85006
St Luke's Medical Center | 2900 W Oklahoma Ave | Milwaukee | WI | 53215-4330
St Luke's Methodist Hospital | 1026 A Ave NE | Cedar Rapids | IA | 52406-3026
St Luke's Regional Medical Center | 190 E Bannock St | Boise | ID | 83712-6241
St Luke's-Roosevelt Hospital Center | 1111 Amsterdam Ave | New York | NY | 10025
St Margaret Mercy | 5454 Hohman Ave | Hammond | IN | 46320
St Mark's Hospital/Northern Utah Healthcare Corporation | 1250 E 3900 South St | Salt Lake City | UT | 84124
St Mary Corwin Medical Center | 1008 Minnequa Ave | Pueblo | CO | 81004-3798
St Mary Hospital | 1201 Langhorne Newtown Rd | Langhorne | PA | 19047
St Mary Medical Center | 1500 S Lake Park Ave | Hobart | ID | 46342
St Mary Mercy Hospital | 36475 W 5 Mile Rd | Livonia | MI | 48154
St Mary of Nazareth Hospital Center | 2233 W Division St | Chicago | IL | 60622
St Mary's Good Samaritan | 400 N Pleasant Ave | Centralia | IL | 62801
St Mary's Health Care Systems | 1230 Baxter St | Athens | GA | 30606
St Mary's Health Center | 6420 Clayton Rd | St Louis | MO | 63117
St Mary's Hospital | 1800 E Lake Shore Dr | Decatur | IL | 62521
St Mary's Hospital | 56 Franklin St | Waterbury | CT | 06706
St Mary's Hospital | 707 S Mills St | Madison | WI | 53715-1849
St Mary's Hospital & Regional Medical Center | 2635 N 7th St | Grand Junction | CO | 81501-8209
St Mary's Medical Center | 2900 1st Ave | Huntington | WV | 25702
St Mary's Medical Center | 3700 Washington Ave | Evansville | IN | 47750
St Mary's Medical Center | 407 E 3rd St | Duluth | MN | 55805
St Mary's Medical Center | 407 E 3rd St | Duluth | MN | 55805
St Mary's Medical Center | 900 Oak Hill Ave | Knoxville | TN | 37917-4556
St Mary's Medical Center | 901 45th St | W Palm Beach | FL | 33407
St Mary's Mercy Medical Center | 310 Lafayette Ave STF # 315 | Grand Rapids | MI | 49503
St Mary's of Michigan | 800 S Washington Ave | Saginaw | MI | 48601
St Mary's Regional Medical Center | 235 W 6th St | Reno | NV | 89503
St Mary's Regional Medical Center | 305 S 5th St | Enid | OK | 73701
St Michael Hospital | 5000 W Chambers St M229 | Milwaukee | WI | 53210
St Nicholas Hospital | 3100 Superior Ave | Sheboygan | WI | 53081
St Patrick Hospital & Health Sciences Center | 500 W Broadway | Missoula | MT | 59801
St Peter's Hospital | 315 S Manning Blvd | Albany | NY | 12208
St Rita's Medical Center | 730 W Market St | Lima | OH | 45801-4602
St Rose Hospital | 27200 Calaroga Ave | Hayward | CA | 94539
St Tammany Parish Hospital | 1202 S Tyler St | Covington | LA | 70433
St Thomas Health Care Services | 4220 Harding Rd | Nashville | TN | 37202-0380
St Vincent Charity Hospital | 2351 E 22nd St | Cleveland | OH | 44115
St Vincent Health Center | 232 W 25th St | Erie | PA | 16544
St Vincent Healthcare | 1233 N 30th St | Billings | MT | 59101
St Vincent Hospital | 123 Summer St | Worcester | MA | 01608
St Vincent Hospital | 810 St Vincent's Dr | Birmingham | AL | 35205
St Vincent Hospital & Health Center | 8333 Naab Rd Ste 330 | Indianapolis | IN | 46260
St Vincent Hospital Manhattan | 170 W 12th St | New York | NY | 10011
St Vincent Medical Center | 2131 W 3rd St | Los Angeles | CA | 90703
St Vincent Medical Center/Health Center | 2 St Vincent Cir | Little Rock | AR | 72205
St Vincent Mercy Medical Center | 2213 Cherry St | Toledo | OH | 43608
St Vincent's Medical Center | 1800 Barrs St | Jacksonville | FL | 32204
St Vincent's Staten Island | 355 Bard Ave | Staten Island | NY | 10310
Stanford Hospital & Clinics | 300 Pasteur Rd | Stanford | CA | 94305
Staten Island University Hospital | 475 Seaview Ave | Staten Island | NY | 10305
Stony Brook University Medical Center | 3 Technology Dr | E Setauket | NY | 11733-4073
Stormont-Vail Regional Medical Center | 1500 SW 10th Ave | Topeka | KS | 66604
Straub Clinic & Hospital | 888 S King St | Honolulu | HI | 96813
Stringfellow Memorial Hospital | 301 E 18th St | Anniston | AL | 36202
Suburban Hospital | 8600 Old Georgetown Rd | Bethesda | MD | 20814
Summerlin Hospital Medical Center | 657 Town Center Dr | Las Vegas | NV | 89144
Summit Medical Center | E Main & S 20th Sts | Van Buren | AR | 72956
Sun Coast Hospital | 2025 Indian Rocks Rd | Largo | FL | 33774
Sunrise Hospital & Medical Center | 3186 S Maryland Pkwy | Las Vegas | NV | 89109
Sutter Delta Medical Center | 3901 Lone Tree Way | Antioch | CA | 94509
Sutter Medical Center—Sacramento | PO Box 160727 | Sacramento | CA | 95819
Sutter Medical Center of Santa Rosa | 3325 Chanate Rd | Santa Rosa | CA | 95404
Swedish American Hospital | 1401 E State St | Rockford | IL | 61104
Swedish Covenant Hospital | 5145 N California Ave | Chicago | IL | 60625
Swedish Medical Center | 501 E Hampden Ave | Englewood | CO | 80113
Swedish Medical Center | 747 Broadway | Seattle | WA | 98122
Tacoma General Hospital (Multicare Health System) | 315 Martin Luther King Jr Way | Tacoma | WA | 98415
Tahlequah City Hospital | 1400 E Downing St | Tahlequah | OK | 74465
Tallahassee Memorial Hospital | 1310 N Magnolia Dr | Tallahassee | FL | 32308
Tampa General Hospital | PO Box 1289 | Tampa | FL | 33601
Temple University Hospital | 3401 N Broad St | Philadelphia | PA | 19140
Terre Haute Regional Hospital | 3901 S 7th St | Terre Haute | IN | 47802
Terrebonne General Medical Center | 8166 Main St | Houma | LA | 70360
Texoma Medical Center | 1000 Memorial Dr | Denison | TX | 75020
Texsan Heart Hospital | 6700 IH-10 W | San Antonio | TX | 78201
Thomas Jefferson University Hospital | 111 S 11th St Gibbon Bldg | Philadelphia | PA | 19107
Tift Regional Medical Center | PO Box 747 | Tifton | GA | 31794
Timpanogos Regional Hospital | 750 W 800 N | Orem | UT | 84057
TJ Samson Community Hospital | 1301 N Race St | Glasgow | KY | 42141
Toledo Hospital, The | 2142 N Cove Blvd | Toledo | OH | 43606
Tomball Regional Hospital | 605 Holderrieth St | Tomball | TX | 77375
Torrance Memorial Medical Center | 3330 Lomita Blvd | Torrance | CA | 90505
Touro Infirmary Medical Center | 1401 Foucher St | New Orleans | LA | 70115
Tri-City Medical Center | 4002 Vista Way | Oceanside | CA | 92056
Trident Regional Medical Center | 9330 Medical Plaza Dr | Charleston | SC | 29406
Trinity Hospitals | PO Box 5020 | Minot | ND | 58702-5020
Trinity Medical Center | 2701 17th St | Rock Island | IL | 61201
Trinity Medical Center | 800 Montclair Rd | Birmingham | AL | 35213
Trinity Medical Center West | 4000 Johnson Rd | Steubenville | OH | 43952
Trinity Regional Medical Center | 4500 Utica Ridge Rd | Bettendorf | IA | 52722
Trinity Regional Medical Center | 802 Kenyon Rd | Ft Dodge | IA | 50501
Trover Foundation Regional Medical Center | 900 Hospital Dr | Madisonville | KY | 42431
Tucson Heart Hospital | 4888 N Stone Ave | Tucson | AZ | 85704
Tucson Medical Center | 5301 E Grant Rd | Tucson | AZ | 85712-2805
Tufts-New England Medical Center | 750 Washington St | Boston | MA | 02111
Tulane University Hospital & Clinic | 1415 Tulane Ave HC-63 | New Orleans | LA | 70112
Tulare District Hospital | 869 Cherry St | Tulare | CA | 93274
Tulsa Regional Medical Center | 744 W 9th St | Tulsa | OK | 74127
Tuomey Healthcare System/Tuomey Regional Medical Center | 129 N Washington St | Sumter | SC | 29150
Twelve Oaks Medical Center | 4200 Twelve Oaks Dr | Houston | TX | 77027
Twin Cities Community Hospital | 1100 Las Tablas Rd | Templeton | CA | 93465
Twin Cities Hospital | 2190 Hwy 85 N | Niceville | FL | 32578
Union Hospital | 1606 N 7th St | Terre Haute | IN | 47804
Union Memorial Hospital | 201 E University Pkwy | Baltimore | MD | 21218-2891
United Health Services Hospitals/Wilson Regional Medical Center | 33-57 Harrison St | Johnson City | NY | 13790
United Hospital | 333 N Smith Ave | St Paul | MN | 55102
United Hospital Center | PO Box 1680 | Clarksburg | WV | 26302-1680
United Hospital System | 6308 8th Ave | Kenosha | WI | 53143
United Regional Healthcare System | 1600 11th St | Wichita Falls | TX | 76302
Unity Hospital | 1555 Long Pond Rd | Rochester | NY | 14626
Unity Hospital | 550 Osbourne Rd NE | Minneapolis | MN | 55432
University Community Hospital | 3100 Fletcher Ave | Tampa | FL | 33613
University Hospital | 1350 Walton Way | Augusta | GA | 30901-2629
University Hospital | 234 Goodman St | Cincinnati | OH | 45219
University Hospital | 620 19th St S | Birmingham | AL | 35249
University Hospital—UMDNJ | 150 Bergen St | Newark | NJ | 07101
University Hospitals of Cleveland | 11100 Euclid Ave | Cleveland | OH | 44106
University Medical Center | 1411 Baddour Pkwy | Lebanon | TN | 37087
University Medical Center | 1690 N Warren Blvd #526B | Tucson | AZ | 85724
University Medical Center | 3065 Arlington Ave | Toledo | OH | 43614
University Medical Center | 602 Indiana Ave | Lubbock | TX | 79410
University Medical Center of Las Vegas | 1800 W Charleston Blvd | Las Vegas | NV | 89102
University of Arkansas Medical Sciences | 4301 W Markham St Ste 532 | Little Rock | AR | 72205
University Of California—Davis | 2315 Stockton Blvd | Sacramento | CA | 95817
University of California—Los Angeles | 10833 Le Conte Ave | Los Angeles | CA | 90095
University of California—San Diego Medical Center | 200 W Arbor Dr | San Diego | CA | 92103
University of California—San Francisco | 513 Parnassus Ave | San Francisco | CA | 94143
University Of California—Santa Monica | 1250 16th St | Los Angeles | CA | 90404
University of Chicago Hospitals | 5841 S Maryland Ave | Chicago | IL | 60637
University of Colorado Hospital Authority | 4200 E 9th St | Denver | CO | 80262
University of Connecticut Health Center/John Dempsey Hospital | 263 Farmington Ave | Farmington | CT | 06030
University of Florida College of Medicine | 1600 SW Archer Rd | Gainesville | FL | 32610
University of Illinois Medical Center at Chicago | 1740 W Taylor St Bldg 949 Rm 2181 | Chicago | IL | 60610
University of Iowa Hospitals & Clinics | 200 Hawkins Dr | Iowa City | IA | 52242
University of Kentucky | 800 Rose St | Lexington | KY | 40536
University of Maryland Medical Center | 22 S Greene St | Baltimore | MD | 21201-1544
University of Massachusetts Memorial Medical Center | 55 Lake Ave N | Worcester | MA | 01655-0002
University of Mississippi Medical Center | 2500 N State St | Jackson | MS | 39216
University of Missouri Hospital & Clinics | 1 Hospital Dr | Columbia | MO | 65212
University of North Carolina Hospitals | 101 Manning Dr | Chapel Hill | NC | 27514
University of Rochester Medical Center | 601 Elmwood Ave | Rochester | NY | 14642
University of South Alabama | 2451 Fillingim St | Mobile | AL | 36617
University of Tennessee Medical Center | 1924 Alcoa Hwy | Knoxville | TN | 37920-6999
University of Texas Medical Branch at Galveston | 301 University Blvd | Galveston | TX | 77555-0294
University of Texas Southwestern-University Hospital | 5323 Harry Hines Blvd | Dallas | TX | 75390-9013
University of Utah Hospital & Clinic | 50 N Medical Dr | Salt Lake City | UT | 84132
University of Virginia Medical Center | PO Box 800679 | Charlottesville | VA | 22908-0679
University of Washington Medical Center | 1959 NE Pacific St | Seattle | WA | 98195-6422
University of Wisconsin Hospital & Clinics | 600 Highland Ave | Madison | WI | 53792
UPMC Passavant Hospital | 9100 Babcock Blvd | Pittsburgh | PA | 15237
UPMC Presbyterian Hospital | 5230 Centre Ave | Pittsburgh | PA | 15232
UPMC Shadyside Hospital | 5230 Centre Ave | Pittsburgh | PA | 15232
USC University Hospital | 1500 San Pablo St | Los Angeles | CA | 90033
Utah Valley Regional Medical Center | 1034 N 500 W | Provo | UT | 84604
Val Verde Regional Medical Center | 801 Bedell Ave | Del Rio | TX | 78840
Valley Baptist Medical Center | 2101 Pease St | Harlingen | TX | 78550
Valley Baptist Medical Center-Brownsville | 1040 W Jefferson St | Brownsville | TX | 78540
Valley Care Medical Center | 1111 E Stanley Blvd | Livermore | CA | 94550
Valley Hospital Medical Center | 620 Shadow Ln | Las Vegas | NV | 89106
Valley Hospital, The | 223 N Van Dien Ave | Ridgewood | NJ | 07450
Valley Medical Center | 400 S 43rd St | Renton | WA | 98058
Valley Presbyterian Hospital | 15107 Vanowen St | Van Nuys | CA | 91405
Valley Regional Medical Center | 100 E Alton Gloor Blvd Unit A | Brownsville | TX | 78526
Vanderbilt University | VU Station B-351810 | Nashville | TN | 37235
Vaughan Regional Medical Center | 1015 Medical Center Pkwy | Selma | AL | 36701
VCU-Medical College of Virginia | PO Box 980036 | Richmond | VA | 23298
Venice Regional Medical Center | 540 The Rialto | Venice | FL | 34285
Via Christi Regional Medical Center—St Francis | 929 N St Francis St | Wichita | KS | 67214
Via Christi Regional Medical Center—St Joseph | 929 N St Francis St | Wichita | KS | 67214
Village Regional Hospital, The | 1451 El Camino Real | The Villages | FL | 32159
Virginia Hospital Center | 1701 N George Mason Dr | Arlington | VA | 22205-3698
Virginia Mason Medical Center | 1100 9th Ave | Seattle | WA | 98111
WA Foote Memorial Hospital | 205 N East Ave | Jackson | MI | 49201
Wadley Regional Medical Center | 1000 Pine St | Texarkana | TX | 75501
WakeMed Cary Hospital | 3000 New Bern Ave | Raleigh | NC | 27610
WakeMed Raleigh Campus | 3000 New Bern Ave | Raleigh | NC | 27610
Walker Regional Medical Center | 3400 Hwy 78 E | Jasper | AL | 35501
Washington Adventist Hospital | 7600 Carroll Ave | Takoma Park | MD | 20912
Washington County Hospital | 251 E Antietam St | Hagerstown | MD | 21740
Washington Hospital | 2000 Mowry Ave | Fremont | CA | 94538
Washington Hospital Center | 110 Irving St NW Rm 5A14 | Washington | DC | 20010
Washington Regional Medical Center | 1125 N College Ave | Fayetteville | AR | 72703-1994
Waterbury Hospital | PO Box 2153 | Waterbury | CT | 06722
Watsonville Community Hospital | 75 Nielson St | Watsonville | CA | 95076
Waukesha Memorial Hospital | 725 American Ave | Waukesha | WI | 53188
Weiss Memorial Hospital | 4646 N Marine Dr | Chicago | IL | 60640
Wellmont Holston Valley Medical Center | 130 W Ravine St | Kingsport | TN | 37664
Wellstar Cobb Hospital | 531 Roselane St | Marietta | GA | 30060
Wesley Medical Center | 5001 Hardy St | Hattiesburg | MS | 39402
Wesley Medical Center | 550 N Hillside St | Wichita | KS | 67214
West Boca Medical Center | 21644 State Rd 7 | Boca Raton | FL | 33428
West Florida Hospital | 8383 N Davis Hwy | Pensacola | FL | 32514
West Hills Hospital | 7300 Medical Center Dr | W Hills | CA | 91307
West Houston Medical Center | 12141 Richmond Ave | Houston | TX | 77082
West Jefferson Medical Center | 1101 Medical Center Blvd | Marrero | LA | 70072
West Suburban Medical Center | 3 Erie Ct | Oak Park | IL | 60302
West Texas Medical Center | 25 Village Cir | Midland | TX | 79701
West Virginia University Hospitals Inc | PO Box 8003 | Morgantown | WV | 26506-8003
Westchester County Medical Center | Valhalla Campus | Valhalla | NY | 10595
Western Arizona Regional Medical Center | 2735 Silver Creek Rd | Bullhead City | AZ | 86442
Western Baptist Hospital | 2501 Kentucky Ave | Paducah | KY | 42003
Western Medical Center—Anaheim | 1025 S Anaheim Blvd | Anaheim | CA | 92805
Western Medical Center—Santa Ana | 1001 N Tustin Ave | Santa Ana | CA | 92705
Western Pennsylvania Hospital, The | 4800 Friendship Ave | Pittsburgh | PA | 15224
Western Plains Medical Center | 3001 Ave A | Dodge City | KS | 67801
Westside Regional Medical Center | 8201 W Broward Blvd | Plantation | FL | 33324
Wheeling Hospital | 1 Medical Pk | Wheeling | WV | 26003
White County Medical Center | 3214 E Race Ave | Searcy | AR | 72143-4810
White Memorial Medical Center | 1720 Cesar Chavez Ave | Los Angeles | CA | 90033
White River Medical Center | 1710 Harrison St | Batesville | AR | 72501
William Beaumont Hospital | 3601 W 13 Mile Rd | Royal Oak | MI | 48073
William Beaumont Hospital | 44201 Dequindre Rd | Troy | MI | 48085
Willis Knighton Medical Center | 2600 Greenwood Rd | Shreveport | LA | 71103
Wilson Memorial Hospital | 915 W Michigan St | Sidney | OH | 45365
Wilson N Jones Medical Center | 500 N Highland Ave | Sherman | TX | 75092
Winchester Medical Center Inc | 1840 Amherst St | Winchester | VA | 22601
Winter Haven Hospital | 20005 Ave F NE | Winter Haven | FL | 33881
Winthrop University Hospital | 259 1st St | Mineola | NY | 11501
Wisconsin Heart Hospital, The | 5000 W Chambers St M229 | Milwaukee | WI | 53210
Wishard Health Services | 1001 W 10th St | Indianapolis | IN | 46202
Woman's Christian Association Hospital | 207 Foote Ave | Jamestown | NY | 14701
Woodland Heights Medical Center | 505 S John Redditt Dr | Lufkin | TX | 75904
Wooster Community Hospital | 1761 Beall Ave | Wooster | OH | 44691
Wuesthoff Health System | 110 Longwood Ave | Rockledge | FL | 32956-5002
Wyckoff Heights Medical Center | 374 Stockholm St | Brooklyn | NY | 11237
Wyoming Medical Center | 1233 E 2nd St | Casper | WY | 82601-2988
Wyoming Valley Health Care System | 575 N River Str | Wilkes-Barre | PA | 18764
Yakima Regional Medical Center | 110 S 9th Ave | Yakima | WA | 98902
Yakima Valley Memorial Hospital | 2811 Tieton Dr | Yakima | WA | 98902
Yale New Haven Hospital | 20 York St | New Haven | CT | 06504
Yavapai Regional Medical Center | 1003 Willow Creek Rd | Prescott | AZ | 86301
York Hospital | 1001 S George St | York | PA | 17405
York Hospital | 15 Hospital Dr | York | ME | 03909
Yuma Regional Medical Center | 2400 S Ave A | Yuma | AZ | 85364

Addendum X—Active CMS Coverage-Related Guidance Documents [July Through September 2006]

On September 24, 2004, we published a notice in the Federal Register (69 FR 57325), in which we explained how we would develop coverage-related guidance documents. These guidance documents are required under section 731 of the MMA. In our notice, we committed to the public that, “At regular intervals, we will update a list of all guidance documents in the Federal Register.”

Addendum X includes a list of active CMS guidance documents as of the ending date of the period covered by this notice. To obtain full-text copies of these documents, visit the CMS Coverage Web site at http://www.cms.hhs.gov/mcd/index_list.asp?list_type=mcd_1.

Document Name: Factors CMS Considers in Commissioning External Technology Assessments.

Date of Issuance: April 11, 2006.

Document Name: Factors CMS Considers in Opening a National Coverage Determination.

Date of Issuance: April 11, 2006.

Document Name: (Draft) Factors CMS Considers in Referring Topics to the Medicare Coverage Advisory Committee.

Date of Issuance: March 9, 2005.

Document Name: National Coverage Determinations with Data Collection as a Condition of Coverage: Coverage With Evidence Development.

Date of Issuance: July 12, 2006.

Addendum XI—List of Special One-Time Notices Regarding National Coverage Provisions [July Through September 2006]

As medical technologies, the contexts under which they are delivered, and the health needs of Medicare beneficiaries grow increasingly complex, our national coverage determination (NCD) process must adapt to accommodate these complexities. As part of this adaptation, our national coverage decisions often include multi-faceted coverage determinations, which may place conditions on the patient populations eligible for coverage of a particular item or service, the providers who deliver a particular service, or the methods in which data are collected to supplement the delivery of the item or service (such as participation in a clinical trial).

We outline these conditions as we release new or revised NCDs. However, details surrounding these conditions may need to be shared with the public as “one-time notices” in the Federal Register. For example, we may require that a particular medical service may be delivered only in the context of a CMS-recognized clinical research study, which was not named in the NCD itself. We would then use Addendum XI of this notice, along with our coverage Web site at http://www.cms.hhs.gov/coverage, to provide the public with information about the clinical research study that it ultimately recognizes.

Addendum XI includes any additional information we may need to share about the conditions under which an NCD was issued as of the ending date of the period covered by this notice.

There were no Special One-Time Notices Regarding National Coverage Provisions published this quarter.

[FR Doc. E6-21735 Filed 12-21-06; 8:45 am]

BILLING CODE 4120-01-P >